DEPARTMENT OF HEALTH AND HUMAN SERVICES

Health Resources and Services Administration

Availability of Funds Announced in the HRSA Preview

AGENCY: Health Resources and Services Administration.

ACTION: General notice.

SUMMARY: Health Resources and Services Administration (HRSA) announces the availability of funds in the HRSA Preview for Summer 2003. This edition of the HRSA Preview is a comprehensive review of HRSA's Fiscal Year 2004 competitive grant programs.

The purpose of the HRSA Preview is to provide the general public with a single source of program and application information related to the Agency's competitive grant offerings. The HRSA Preview is designed to replace the multiple Federal Register notices that traditionally advertised the availability of HRSA's discretionary funds for its various programs. It should be noted that additional program initiatives responsive to new or emerging issues in the health care area and unanticipated at the time of publication of the HRSA Preview may be announced through the Federal Register and the HRSA Web site, http://www.hrsa.gov/grants. This notice does not change requirements appearing elsewhere in the Federal Register.

This notice contains nearly all of the content of the HRSA Preview. The HRSA Preview contains a description of competitive and other grant programs scheduled for awards in Fiscal Year 2004, and includes instructions on how to contact the Agency for information and receive application kits for all programs. Specifically, the following information is included in the HRSA Preview: (1) Program announcement number (2) program announcement title; (3) program announcement code; (4) legislative authority; (5) Catalog of Federal Domestic Assistance (CFDA) identification number; (6) purpose; (7) eligibility; (8) funding priorities and/or preferences; (9) estimated dollar amount of competition; (10) estimated number of awards; (11) estimated project period; (12) application availability date; (13) letter of intent deadline (if any); (14) application deadline; (15) projected award date; and (16) programmatic contact, with telephone and e-mail addresses. Certain other information, including how to obtain and use the HRSA Preview and grant terminology, can also be found in the HRSA Preview.

Dated: August 27, 2003.
Elizabeth M. Duke,
Administrator.

This notice describes funding for the following HRSA discretionary authorities and programs (receipt deadlines are also provided):

Health Professions Programs:
HRSA-04-004 Centers Of Excellence (COES) | 01/26/2004
HRSA-04-009 Health Careers Opportunity Program (HCOP) | 02/20/2004
HRSA-04-010 Advanced Education Nursing Grants (AENP) | 11/25/2003
HRSA-04-011 Nursing Workforce Diversity Grants (NWD) | 12/05/2003
HRSA-04-012 Advanced Education Nursing Traineeships (AENT) | 11/14/2003
HRSA-04-013 Nurse Anesthetist Traineeships (NATR) | 11/14/2003
HRSA-04-014 Nursing Education, Practice and Retention Grants (NEPR) | 12/15/2003
HRSA-04-015 Training In Primary Care Medicine And Dentistry (DRPC) | 11/06/2003
HRSA-04-016 Podiatric Residency Training In Primary Care (PODPC) | 10/20/2003
HRSA-04-017 Graduate Psychology Education Program (GPEP) | 12/12/2003
HRSA-04-018 Basic/Core Area Health Education Centers (BAHEC) | 02/03/2004
HRSA-04-019 Model State-Supported Area Health Education Centers (MAHEC) | 02/03/2004
HRSA-04-020 Grants To States For Loan Repayment Programs (SLRP) | 04/01/2004
HRSA-04-021 Bioterrorism Training And Curriculum Development Program (BTCDP) | 03/05/2004
HRSA-04-022 Preventive Medicine Residency Program (PMRP) | 10/16/2003
HRSA-04-023 Geriatric Education Centers Program (GECS) | 01/13/2004
HRSA-04-024 Geriatric Academic Career Awards (GACA) | 02/02/2004
HRSA-04-025 Geriatric Training For Physicians, Dentists, And Behavioral And Mental Health Professionals (GTPD) | 12/15/2003
HRSA-04-026 Quentin N. Burdick Program For Rural Interdisciplinary Training (QBRH) | 01/13/2004
HRSA-04-027 Allied Health Projects (AHPQ) | 01/13/2004
Special Programs—Loan Repayments and Scholarships:
See individual announcements for Web sites and application materials.
National Health Service Corps Loan Repayment Program (NHSCL) | 03/26/2004
National Health Service Corps Scholarship Program (NHSC) | 03/26/2004
Nursing Scholarship Program (NSP) | 05/31/2004
Nursing Education Loan Repayment Program (NELRP) | 02/18/2004
Scholarships For Disadvantaged Students Program (SDS) | 12/17/2003
Faculty Loan Repayment Program (FLRP) | 05/28/2004
Primary Health Care Programs:
HRSA-04-028 Radiation Exposure Screening And Education Program (RESEP) | 04/05/2004
HRSA-04-029 Integrated Services Development Initiative (ISDI) | 04/05/2004
HRSA-04-030 Community And Migrant Health Centers (CMHS) | 12/01/2003 05/03/2004
HRSA-04-031 Health Care For The Homeless (HCH) | 12/01/2003 05/03/2004
HRSA-04-032 Public Housing Primary Care (PHPC) | 12/01/2003 05/03/2004
HRSA-04-033 School Based Health Centers (SBHC) | 12/01/2003 05/03/2004
HRSA-04-034 New Delivery Sites And New Starts In Programs Funded Under The Health Centers Consolidation Act (NDSNS) | 12/01/2003 05/17/2004
HRSA-04-035 Increase In Medical Capacity In Programs Funded Under The Health Centers Consolidation Act Of 1996 (IMCHC) | 02/02/2004
HRSA-04-036 National Health Center Technical Assistance Cooperative Agreements (NAT) | 04/05/2004
HRSA-04-037 Increase In Mental Health And Substance Abuse, Oral Health, And Care Management, In Programs Funded Under The Health Centers Consolidation Act Of 1996 (IMHSA) | 01/05/2004
HRSA-04-038 Healthy Communities Access Program (HCAP) | 04/05/2004
HRSA-04-039 Black Lung Clinics Program (BLCP) | 03/01/2004
HRSA-04-040 State Primary Care Associations Supplemental Funding For Managing Health Center Growth And Quality (PCA) | 01/05/2004
HRSA-04-041 Operational Health Center Networks (OHCN) | 03/08/2004
HIV/AIDS Programs:
HRSA-04-042 Special Projects Of National Significance (SPNS) | 03/22/2004
HRSA-04-043 Title III: Early Intervention Services Capacity Development Grants (EISCDG) | 03/05/2004
HRSA-04-044 National HIV Training And Technical Assistance Cooperative Agreements (NHIV) | 12/19/2003
HRSA-04-046 Telehealth Resource Centers Cooperative Agreement Program (TRCCP) | 03/22/2004
HRSA-04-047 Title IV: Grants For Coordinated HIV Services And Access To Research For Women, Infants, Children, And Youth (CSWICY) | 01/05/2004
HRSA-04-048 Title IV: Grants For Coordinated HIV Services And Access To Research For Women, Infants, Children, And Youth: Youth Services Initiative (CSWICY: YSI) | 04/01/2004
HRSA-04-005 Title III: Categorical Grant Program To Provide Outpatient Early Intervention Services With Respect To HIV Disease (EISEGA) | 12/22/2003 10/15/2004
HRSA-04-049 Title III: Early Intervention Services Planning Grants (EISPG) | 03/05/2004
HRSA-04-050 HIV Emergency Relief Grant Program For Eligible Metropolitan Areas (EMAS) | 10/01/2003
HRSA-04-008 AETC National Evaluation Center (NECCA) | 10/06/2003
Maternal and Child Health Programs:
HRSA-04-051 Maternal And Child Health Research Program (MCHR) | 03/01/2004 08/15/2004
HRSA-04-052 Maternal And Child Health Minority Research Infrastructure Support Program (RMIN) | 03/26/2004
HRSA-04-053 Long Term MCH Training (MCHLT) | 11/20/2003
HRSA-04-054 Continuing Education And Development (CED) | 01/15/2004
HRSA-04-055 Genetic Services Projects (GSP) | 01/09/2004
HRSA-04-056 Medical Home For Children With Special Health Care Needs | 01/15/2004
HRSA-04-057 Adolescent Health Resource (AHR) Cooperative Agreements | 01/05/2004
HRSA-04-058 National Center On School-Based Health Care (NSBHC) | 01/05/2004
HRSA-04-059 Integrated Health And Behavioral Health Care For Children, Adolescents And Their Families (IHBHP) | 02/02/2004
HRSA-04-060 Breastfeeding Promotion In Physician's Office Practices (BPPOP) | 04/01/2004
HRSA-04-061 Partnership For Information And Communication (PIC) Cooperative Agreement Program | 11/17/2003
HRSA-04-062 Healthy Tomorrows Partnership For Children Program (HTPC) | 10/29/2003
HRSA-04-063 Women's Health | 02/02/2004
HRSA-05-001 Maternal And Child Health (MCH) Library Services | 07/19/2004
HRSA-04-006 Emergency Medical Services For Children (EMSC) Demonstration Grant Program | 10/31/2003
HRSA-04-064 Traumatic Brain Injury (TBI) Program—State Grants | 11/17/2003
HRSA-04-065 Poison Control Centers Stabilization And Enhancement Grant Program, Financial Stabilization Grants (PCCFS) | 03/01/2004
HRSA-04-066 Healthy Start Program: Eliminating Disparities In Perinatal Health | 12/01/2003
Rural Health Policy Programs:
HRSA-04-001 Rural Health Care Services Outreach Grant Program (RHOGP) | 09/12/2003 09/13/2004
HRSA-04-002 Rural Health Network Development Grant Program (RHNGP) | 09/26/2003 09/20/2004
HRSA-04-003 Rural Health Network Development Planning Grant Program (RHNPGP) | 09/10/2003 09/08/2004
HRSA-04-067 Delta State Rural Development Network Grant Program (DELTA) | 05/01/2004
HRSA-04-068 Small Rural Hospital Improvement Program (SHIP) | 04/28/2004
HRSA-04-069 Grants For Policy-Oriented Rural Health Services Research (GPOR) | 05/03/2004
HRSA-04-070 Rural Health Research Grant Program—Cooperative Agreement (CARHR) | 03/15/2004
Special Programs—Grants:
HRSA-04-071 Regional Collaborative For The Pacific Basin (RCPB) | 07/15/2004
HRSA-04-072 Social And Behavioral Interventions To Increase Organ And Tissue Donation (SBITD) | 03/05/2004
HRSA-04-073 Clinical Interventions To Increase Organ Procurement (CIOP) | 03/05/2004
HRSA-04-074 Best Practices To Increase Organ Donation (HIP) | 04/01/2004

How To Use and Obtain Copies of the HRSA Preview

It is recommended that you read the introductory materials, terminology section, and individual program category descriptions before contacting the toll-free number: 1-877-HRSA-123 (1-877-477-2123), M-F 8:30 a.m. to 5 p.m. EST. Likewise, we urge applicants to fully assess their eligibility for grants before beginning to apply for a grant on-line or requesting a grant application kit. As a general rule, no more than one kit per category will be mailed to applicants.

To Obtain a Copy of the HRSA Preview

This HRSA Preview will be available in booklet form in the near future. To have your name and address added to or deleted from the HRSA Preview mailing list, call the toll free number above or send a message by e-mail to hrsagac@hrsa.gov.

To Obtain Application Materials

You may apply for HRSA grants on-line or on paper. HRSA encourages you to apply on-line. HRSA's on-line application system is designed to maximize data accuracy and speed processing. Multiple individuals may register and collaborate on applications, and institutional data is stored for you to re-use on future applications.

To apply on-line, go to http://www.hrsa.gov/grants. On that Web page, you will find basic instructions and links to the HRSA on-line application system, where you will be able to register, download application guidance for specific programs and submit your grant application.

Please submit your application early. Applications submitted after program's deadline will not be accepted.

To obtain paper application materials, determine which kit(s) you wish to receive and call 1-877-477-2123 to be placed on the mailing list. Be sure to provide the information specialist with the Program Announcement Number, Program Announcement Code and the title of the grant program. You may also request application kits using the e-mail address above. Application kits are generally available 60 days prior to application deadline. If kits are available earlier, they will be mailed immediately. The guidance contained in the various kits contains detailed instructions, background on the grant program, and other essential information, such as the applicability of Executive Order 12372 and 45 CFR Part 100, and additional information pertinent to the intergovernmental review process, as appropriate.

Grant Terminology

Application Deadlines

Applications will be considered on time if they are received on or before the established deadline. Applicants should check the application guidance material or the HRSA-GRANTS homepage for deadline changes. Applications sent to any address other than that specified in the application guidance are subject to being returned.

Authorization

The citation of the law authorizing the various grant programs is provided immediately following the title of the programs.

CFDA Number

The Catalog of Federal Domestic Assistance (CFDA) is a Government-wide compendium of Federal programs, projects, services, and activities that provide assistance. Programs listed therein are given a CFDA Number.

Cooperative Agreement

A financial assistance mechanism (grant) used when substantial Federal programmatic involvement with the recipient is anticipated by the funding agency during performance of the project. The nature of that involvement will always be specified in the offering or application guidance materials.

DUNS Number—New Requirement

Beginning October 1, 2003, applicants will be required to have a Dun and Bradstreet (DUNS) number to apply for a grant or cooperative agreement from the Federal Government. The DUNS number is a nine-digit identification number, which uniquely identifies business entities. Obtaining a DUNS number is easy and there is no charge.

Although obtaining a DUNS number is not required for applications submitted in response to announcements with deadlines on or before September 30, 2003, regardless of when the award is made, or for other types of applications submitted before September 30 (e.g., unsolicited applications), applicants are encouraged to obtain a DUNS number now if you believe you will be submitting an application(s) to any Federal agency on or after October 1, 2003. Proactively obtaining a DUNS number at the current time will facilitate the receipt and acceptance of applications after September 2003.

To obtain a DUNS number, access http://www.dunandbradstreet.com or call 1-866-705-5711.

Eligibility

The status an entity must possess to be considered for a grant. Authorizing legislation and programmatic regulations specify eligibility for individual grant programs, and eligibility may be further restricted for programmatic reasons. In general, assistance is provided to nonprofit organizations and institutions, including faith-based and community-based entities, State and local governments, their agencies, including an Indian Tribe or tribal organization, and occasionally to individuals. For-profit organizations are eligible to receive awards under financial assistance programs unless specifically excluded by legislation.

Estimated Amount of Competition

The funding level listed is provided only as an estimate, and is subject to the availability of funds, Congressional action, and changing program priorities.

Funding Priorities and/or Preferences

Funding preferences, priorities, and special considerations may come from legislation, regulations, or HRSA program leadership decisions. They are not the same as review criteria. Funding preferences are any objective factors that would be used to place a grant application ahead of others without the preference on a list of applicants recommended for funding by a review committee. Some programs give preference to organizations that have specific capabilities such as telemedicine networking, or have established relationships with managed care organizations. Funding priorities are factors that cause a grant application to receive a fixed amount of extra rating points—which may similarly affect the order of applicants on a funding list. Special considerations are other factors considered in making funding decisions that are neither review criteria, preferences, nor priorities, e.g., ensuring that there is an equitable geographic distribution of grant recipients, or meeting requirements for urban and rural proportions.

Letter of Intent

To help in planning the application review process, many HRSA programs request a letter of intent from the applicant in advance of the application deadline. Letters of intent are neither binding nor mandatory. Details on where to send letters can be found in the guidance materials contained in the application kit.

Matching Requirements

Several HRSA programs require a matching amount, or percentage of the total project support, to come from sources other than Federal funds. Matching requirements are generally mandated in the authorizing legislation for specific categories. Also, matching or other cost-sharing requirements may be administratively required by the awarding office. Such requirements are set forth in the application kit.

Program Announcement Code

The program announcement code is a unique identifier for each program funded by HRSA. The three-five character acronyms are located in parentheses immediately at the end of each program title and must be used to request application materials either from the HRSA Grants Application Center or online at hrsagac@hrsa.gov.

Be sure to use the program announcement number, program announcement code and the title of the grant program when requesting an application kit.

Program Announcement Number

A unique program announcement (HRSA) number is located at the beginning of each program announcement in the HRSA Preview and Federal Register notices and includes the Fiscal Year and sequence number for announcement; for example, HRSA 04-001. This number is used with the program title and program announcement code to order application materials.

Project Period

The project period is the total time for which support of a discretionary project has been programmatically approved. The project period usually consists of a series of budget periods of one-year duration. Once approved through initial review, continuation of each successive budget period is subject to satisfactory performance, availability of funds, and program priorities.

Review Criteria

The following are generic review criteria applicable to HRSA programs:

(1) Need—The extent to which the application describes the problem and associated contributing factors to the problem.

(2) Response—The extent to which the proposed project responds to the “Purpose” included in the program description. The clarity of the proposed goals and objectives and their relationship to the identified project. The extent to which the activities (scientific or other) described in the application are capable of addressing the problem and attaining the project objectives.

(3) Evaluative Measures—The effectiveness of the method proposed to monitor and evaluate the project results. Evaluative measures must be able to assess (1) to what extent the program objectives have been met and (2) to what extent these can be attributed to the project.

(4) Impact—The extent and effectiveness of plans for dissemination of project results, and/or the extent to which project results may be national in scope and/or the degree to which a community is impacted by delivery of health services, and/or the degree to which the project activities are replicable, and/or the sustainability of the program beyond Federal funding.

(5) Resources/Capabilities—The extent to which project personnel are qualified by training and/or experience to implement and carry out the project. The capabilities of the applicant organization, and quality and availability of facilities and personnel to fulfill the needs and requirements of the proposed project. For competing continuations, past performance will also be considered.

(6) Support Requested—The reasonableness of the proposed budget in relation to the objectives, the complexity of the activities, and the anticipated results.

(7) Specific Program Criteria—Additional specific program criteria, if any, are included in the program description and in the individual guidance material provided with the application kit. The specific review criteria used to review and rank applications are included in the individual guidance material provided with the application kits. Applicants should pay strict attention to addressing these criteria, as they are the basis upon which the reviewers will judge their applications.

Technical Assistance

A contact person is listed for each program and his/her e-mail address and telephone number provided. Some programs have scheduled workshops and conference calls. If you have questions concerning individual programs or the availability of technical assistance, please contact the person listed. Also check your application materials and the HRSA Web site at http://www.hrsa.gov/ for the latest technical assistance information.

Frequently Asked Questions

1. Where do I submit grant applications?

The address for submitting your grant application will be shown in the guidance document included in the application kit.

2. How do I learn more about a particular grant program?

If you want to know more about a program before you request an application kit, an e-mail/telephone contact is listed. This contact person can provide information concerning the specific program's purpose, scope and goals, and eligibility criteria. Usually, you will be encouraged to request the application kit so that you will have clear, comprehensive, and accurate information available to you. When requesting application materials, you must state the program announcement number, the program code and title of the program. The application kit lists telephone numbers for a program expert and a grants management specialist who will provide information about your program of interest if you are unable to find the information within the written materials provided.

In general, the program contact person provides information about the specific grant offering and its purpose, and the grants management specialist provides information about the grant mechanism and business matters, though their responsibilities often overlap.

Information specialists at the toll-free number provide only basic information and administer mailings.

3. The dates listed in the HRSA Preview and the dates in the application kit do not agree. How do I know which is correct?

HRSA Preview dates for application kit availability and application receipt deadlines are based upon the best known information at the time of publication, often nine months in advance of the competitive cycle. Occasionally, the grant cycle does not begin as projected and dates must be adjusted. The deadline date stated in your application kit is generally correct. If the application kit has been made available and subsequently the date changes, notification of the change will be mailed to known recipients of the application kit, and also posted on the HRSA home page.

4. Are programs announced in the HRSA Preview ever cancelled?

Infrequently, announced programs may be withdrawn from competition. If this occurs, a cancellation notice will be provided through the HRSA Preview at the HRSA homepage at http://www.hrsa.dhhs.gov. If practicable, an attempt will be made to notify those who have requested a kit for the cancelled program by mail.

HRSA Progam Competitions

Health Professions Programs

Note: Programs listed with an asterisk (*) are not included in the President's budget for FY 2004. They are included for planning purposes only. Potential applicants should consider these announcements provisional until final Congressional action on appropriations is taken.

HRSA-04-004 Centers of Excellence (COES) *

CFDA: 93.157.

Legislative Authority: Public Health Service Act, Title VII, Section 736, 42 U.S.C. 293.

Purpose: The goal of the Centers of Excellence (COE) is to assist eligible schools in supporting programs of excellence in health professions education for underrepresented minority individuals. The grantee is required to use the funds awarded: (1) To establish, strengthen, or expand programs to enhance the academic performance of the underrepresented minority students attending the school; (2) to improve the capacity of such schools to train, recruit, and retain underrepresented minority faculty including the payment of stipends and fellowships; (3) to carry out activities to improve the information resources, clinical education, curricula, and cultural competence of the graduates of the schools as it relates to minority health issues; (4) to facilitate faculty and student research on health issues, particularly affecting underrepresented minority groups; including research on issues relating to the delivery of health care; (5) to carry out a program to train students of the school in providing health services to a significant number of underrepresented minority individuals through training provided to such students at community based health facilities that provide such health services and are located at a site remote from the main site of the teaching facilities of the school; (6) to provide stipends as appropriate; and (7) to develop a large competitive applicant pool through linkages with institutions of higher education, local school districts, and other community based entities and establish an educational pipeline for health professions careers.

* This program is not included in the President's budget for 2004. Potential applicants for funds should consider this announcement provisional until final Congressional action is taken. Updated information will be available on the HRSA Web site.

Eligibility: Eligible applicants are accredited schools of allopathic medicine, osteopathic medicine, dentistry, pharmacy, graduate programs in behavioral or mental health, or other public and non profit health or educational entities, including faith based organizations, and community based organizations, that meet the requirements of section 736(c) of the Public Health Service Act. Historically Black Colleges and Universities, as described in section 736(c)(2)(A) of the Public Health Service Act and which received contracts under former section 788B of the Public Health Service Act (Advanced Financial Distress Assistance) for fiscal year 1987 may apply for Centers of Excellence (COE) grants under section 736(c)(2) of the Public Health Service Act.

Review Criteria: Final review criteria are included in the application kit.

Estimated Amount of This Competition: $6,118,398.

Estimated Number of Awards: 10.

Estimated Project Period: 3 years.

HRSA-04-004 Centers of Excellence (COE) *

Application Availability Date: September 12, 2003.

Application Deadline: January 26, 2004.

Projected Award Date: September 1, 2004.

Program Contact Person: Daniel Reed.

Program Contact Phone: (301) 443-2982.

Program Contact E-mail: dreed1@hrsa.gov.

HRSA-04-009 Health Careers Opportunity Program (HCOP) *

CFDA: 93.822.

Legislative Authority: Public Health Service Act, Title VII, Section 739, 42 U.S.C. 293c.

Purpose: The goal of the Health Careers Opportunity Program (HCOP) is to assist individuals from disadvantaged backgrounds to undertake education to enter a health profession. The HCOP program works to build diversity in the health fields by providing students from disadvantaged backgrounds an opportunity to develop the skills needed to successfully compete, enter, and graduate from health professions schools. HCOP funds may be used for: (1) Identifying, recruiting, and selecting individuals from disadvantaged backgrounds for education and training in a health profession; (2) facilitating the entry of such individuals into such a school; (3) providing counseling, mentoring, or other services designed to assist such individuals to complete successfully their education at such a school; (4) providing, for a period prior to the entry of such individuals into the regular course of education of such a school, preliminary education and health research training designed to assist them to complete successfully such regular course of education at such a school, or referring such individuals to institutions providing such preliminary education; (5) publicizing existing sources of financial aid available to students in the education program of such a school or who are undertaking training necessary to qualify them to enroll in such a program; (6) paying scholarships, as the Secretary may determine, for such individuals for any period of health professions education at a health professions school; (7) paying such stipends for such individuals for any period of education in student-enhancement programs (other than regular courses), except that such a stipend may not be provided to an individual for more than 12 months; (8) carrying out programs under which such individuals gain experience regarding a career in a field of primary health care through working at facilities of public or private nonprofit community-based providers of primary health services; (9) conducting activities to develop a larger and more competitive applicant pool through partnerships with institutions of higher education, school districts, and other community-based entities.

* This program is not included in the President's budget for FY 2004. Potential applicants for funds should consider this announcement provisional until final Congressional action on appropriations is taken. Updated information on Congressional action on appropriations will be available on the HRSA Web site.

Eligibility: Eligible applicants include schools of medicine, osteopathic medicine, public health, dentistry, veterinary medicine, optometry, pharmacy, allied health, chiropractic, podiatric medicine, public or non-profit private schools that offer graduate programs in behavioral and mental health, programs for the training of physician assistants, and other public or private nonprofit health or educational entities, including faith-based and community-based organizations.

Review Ccriteria: Final review criteria are included in the application kit.

Funding Preferences: Section 739(b) of the Public Health Service Act provides a funding preference for programs that involve a comprehensive approach by several public or nonprofit private health or educational entities to establish, enhance and expand educational programs that will result in the development of a competitive applicant pool of individuals from disadvantaged backgrounds who desire to pursue health professions careers.

Estimated Amount of This Competition: $14,152,621.

Estimated Number of Awards: 35.

Estimated Project Period: 3 years.

HRSA-04-009 Health Careers Opportunity Program (HCOP) *

Application Availability Date: September 12, 2003.

Application Deadline: February 20, 2004.

Projected Award Date: September 1, 2004.

Program Contact Person: Karen L. Smith.

Program Contact Phone: (301) 443-1348.

Program Contact E-mail: Ksmith1@hrsa.gov.

HRSA-04-010 Advanced Education Nursing Program (AENP)

CFDA: 93.247.

Legislative Authority: Public Health Service Act, Title VIII, Section 811, 42 U.S.C. 296j.

Purpose: Grants are awarded to eligible institutions for projects that support the enhancement of advanced nursing education and practice. For the purpose of this section, advanced education nurses means individuals trained in advanced degree programs including individuals in combined RN to Master's degree programs, post-nursing Master's certificate programs, or in the case of nurse-midwives, in certificate programs in existence on November 12, 1998, to serve as nurse practitioners, clinical nurse specialists, nurse midwives, nurse anesthetists, nurse educators, nurse administrators or public health nurses.

Eligibility: Eligible applicants are schools of nursing, academic health centers, other appropriate public or private nonprofit entities, and for-profit entities capable of carrying out the legislative purpose.

Review Criteria: Final review criteria are included in the application kit.

Funding Preferences: As provided by section 805 of the Public Health Service Act, preference will be given to applicants with projects that will substantially benefit rural or underserved populations, or help meet public health nursing needs in state or local health departments.

Estimated Amount of This Competition: $2,091,892.

Estimated Number of Awards: 8.

Estimated Project Period: 3 years.

HRSA-04-010 Advanced Education Nursing Program (AENP)

Application Availability Date: September 15, 2003.

Application Deadline: November 25, 2003.

Projected Award Date: July 1, 2004.

Program Contact Person: Irene Sandvold.

Program Contact Phone: (301) 443-2295.

Program Contact E-mail: isandvold@hrsa.gov.

HRSA-04-011 Nursing Workforce Diversity Grants (NWD)

CFDA: 93.178.

Legislative Authority: Public Health Service Act, Title VIII, Section 821, 42 U.S.C. 296m.

Purpose: Grants are awarded to increase nursing education opportunities for individuals from disadvantaged backgrounds (including racial and ethnic minorities underrepresented among registered nurses) by providing student scholarships or stipends, pre-entry preparation, and retention activities.

Eligibility: Eligible applicants are schools of nursing, nursing centers, academic health centers, State or local governments, an Indian Tribe or Tribal organization, other public or private nonprofit entities, including faith-based organizations and community-based organizations, and for-profit entities capable of carrying out the legislative purpose.

Review Criteria: Final review criteria are included in the application kit.

Funding preferences: As provided in section 805 of the Public Health Service Act, as amended, preference will be given to applicants with projects that will substantially benefit rural or underserved populations, or help meet public health nursing needs in State or local health departments.

Estimated Amount of This Competition: $11,396,000.

Estimated Number of Awards: 39.

Estimated Project Period: 3 years.

HRSA-04-011 Nursing Workforce Diversity Grants (NWD)

Application Availability Date: September 15, 2003.

Application Deadline: December 5, 2003.

Projected Award Date: July 1, 2004.

Program Contact Person: Ernell Spratley.

Program Contact Phone: 301-443-1915.

Program Contact E-mail: espratley@hrsa.gov.

HRSA-04-012 Advanced Education Nursing Traineeships (AENT)

CFDA: 93.358.

Legislative Authority: Public Health Service Act, Title VIII, Section 811, 42 U.S.C. 296j.

Purpose: Grants are awarded to eligible institutions to meet the cost of traineeships for individuals in advanced nursing education programs. Traineeships are awarded to individuals by participating educational institutions offering Master's and doctoral degree programs, combined RN to Master's degree programs, post-nursing Master's certificate programs, or in the case of nurse midwives, certificate programs in existence on November 12, 1998 to serve as nurse practitioners, clinical nurse specialists, nurse midwives, nurse anesthetists, nurse educators, nurse administrators or public health nurses. The traineeship program is a formula program and all eligible schools will receive awards.

Eligibility: Eligible applicants are schools of nursing, academic health centers, other appropriate public or private nonprofit entities, and for-profit entities capable of carrying out the legislative purpose.

Review Criteria: Final review criteria are included in the application kit.

Funding Preferences: As provided in section 805 of the Public Health Service Act, preference shall be given to applicants with projects that will substantially benefit rural or underserved populations or help meet public health nursing needs in State or local health departments.

Special Consideration: A statutory special consideration, as provided for in section 811(f)(3) of the PHS Act, will be given to an eligible entity that agrees to expend the award to train advanced education nurses who will practice in health professional shortage areas designated under section 332 of the PHS Act.

Estimated Amount of This Competition: $4,800,000.

Estimated Number of Awards: 335.

Estimated Project Period: 1 year.

HRSA-04-012 Advanced Education Nursing Traineeships (AENT)

Application Availability Date: September 12, 2003.

Application Deadline: November 14, 2003.

Projected Award Date: July 1, 2004.

Program Contact Person: Karen D. Breeden.

Program Contact Phone: (301) 443-5787.

Program Contact E-mail: kbreeden@hrsa.gov.

HRSA-04-013 Nurse Anesthetist Traineeships (NATR)

CFDA: 93.124.

Legislative Authority: Public Health Service Act, Title VIII, Section 811, 42 U.S.C. 296j.

Purpose: Grants are awarded to eligible institutions for projects that support traineeships for licensed registered nurses enrolled as full-time students beyond the twelfth month of study in a Master's nurse anesthesia program. The traineeship program is a formula program and all eligible entities will receive awards.

Eligibility: Eligible applicants are schools of nursing, academic health centers, other public and private nonprofit institutions, and for-profit entities capable of carrying out the legislative purpose which provide registered nurses with full-time nurse anesthetist education programs that have pre-accreditation or accreditation status from the American Association of Nurse Anesthetists (AANA) Council on Accreditation of Nurse Anesthesia Educational Programs.

Review Criteria: Final review criteria are included in the application kit.

Funding Preferences: As provided in section 805 of the Public Health Service Act, preference shall be given to applicants with projects that will substantially benefit rural or underserved populations or help meet public health nursing needs in State or local health departments.

Special Consideration: A statutory special consideration, as provided for in section 811(f)(3) of the PHS Act, will be given to an eligible entity that agrees to expend the award to train advanced education nurses who will practice in health professional shortage areas designated under section 332 of the PHS Act.

Estimated Amount of This Competition: $500,000.

Estimated Number of Awards: 69.

Estimated Project Period: 1 year.

HRSA-04-013 Nurse Anesthetist Traineeships (NATR)

Application Availability Date: September 12, 2003.

Application Deadline: November 14, 2003.

Projected Award Date: July 1, 2004.

Program Contact Person: Karen D. Breeden.

Program Contact Phone: (301) 443-5787.

Program Contact E-mail: kbreeden@hrsa.gov.

HRSA-04-014 Nursing Education, Practice and Retention Grants (NEPR)

CFDA: 93.359.

Legislative Authority: Public Health Service Act, Title VIII, Section 831, 42 U.S.C. 296p.

Purpose: Grants are awarded to eligible institutions for projects to strengthen and enhance the capacity for nurse education, practice and retention to address the nursing shortage. Education priority areas are: (1) Expanding enrollment in baccalaureate nursing programs; (2) developing and implementing internship and residency programs to encourage mentoring and the development of specialties; (3) providing education in new technologies, including distance learning methodologies. Practice priority areas are: (1) Establishing or expanding nursing proactive arrangements in non-institutional settings to demonstrate methods to improve access to primary health care in medically underserved communities; (2) providing care for underserved populations and other high-risk groups such as the elderly, individuals with HIV/AIDS, substance abusers, the homeless, and victims of domestic violence; (3) providing managed care, quality improvement, and other skills needed to practice in existing and emerging organized health care systems; (4) developing cultural competencies among nurses. Retention priority areas are: (1) Career ladder programs which: (A) Promote career advancement for nursing personnel in a variety of training settings, cross training or specialty training among diverse population groups, and the advancement of individuals to become professional nurses, advanced education nurses, licensed practical nurses, certified nurse assistants, and home health aides; and (B) assist individuals in obtaining education and training required to enter the nursing profession and advance within such profession, such as by providing career counseling and mentoring; or (2) enhancing patient care delivery systems through improving the retention of nurses and enhancing patient care that is directly related to nursing activities by enhancing collaboration and communication among nurses and other health care professionals, and by promoting nurse involvement in the organizational and clinical decision making processes of a health care facility.

Eligibility: Eligible applicants for the purpose to expand enrollment in baccalaureate nursing programs are collegiate schools of nursing. Eligible entities for all other purposes are: Schools of nursing, health care facilities, or a partnership of such a school and facility, nursing centers, academic health centers, State or local governments, an Indian Tribe or Tribal organization, other public or private non-profit entities including faith-based organizations and community-based organizations, and for-profit entities capable of carrying out the legislative purpose.

Review Criteria: Final review criteria are included in the application kit.

Funding Preferences: As provided in Section 805 of the Public Health Service Act, as amended, preference will be given to applicants with projects that will substantially benefit rural or underserved populations, or help meet public health nursing needs in state or local health departments. For purposes of any amount of funds appropriated to carry out Section 831 for fiscal year 2003, 2004, or 2005 that is in excess of the amount of funds appropriated to carry out this section for fiscal year 2002, preference will be given to awarding grants under subsections (a)(2) Developing and implementing internship and residency programs to encourage mentoring and development of specialties, and (c) Retention Priority grants for Career Ladder Programs and for Enhancing Patient Care Delivery Systems.

Estimated Amount of This Competition: $3,058,400.

Estimated Number of Awards: 11.

Estimated Project Period: 2 to 5 years.

HRSA-04-014 Nursing Education, Practice and Retention Grants (NEPR)

Application Availability Date: September 15, 2003.

Application Deadline: December 15, 2003.

Projected Award Date: July 1, 2004.

Program Contact Person: Madeline Turkeltaub.

Program Contact Phone: 301-443-6193.

Program Contact E-mail: mturkeltaub@hrsa.gov.

HRSA-04-015 Training in Primary Care Medicine and Dentistry (DRPC) *

CFDA: 93.884.

Legislative Authority: Public Health Service Act, Title VII, Section 747, 42 U.S.C. 293k.

Purpose: Grants are awarded for any single purpose or combination of the following purposes: (1) Residency Training in Primary Care—to plan, develop, and operate or participate (including provision of financial assistance) in approved residency programs in family medicine, general internal medicine and/or general pediatrics; (2) Faculty Development in Primary Care—to plan, develop, and operate (including provision of financial assistance) programs for the training of physicians who plan to teach in family medicine (including geriatrics), general internal medicine and/or general pediatrics training programs; (3) Predoctoral Training in Primary Care—to plan, develop, and operate or participate (including provision of financial assistance) in predoctoral programs in family medicine, general internal medicine and/or general pediatrics; (4) Academic Administrative Units—to meet the costs of projects to establish, maintain or improve academic administrative units to provide clinical instruction in family medicine, general internal medicine and/or general pediatrics; (5) Physician Assistant Training—to meet the costs of projects to plan, develop and operate or maintain approved programs, as defined in section 799B, for the training of physician assistants, and for the training of individuals who will teach in programs to provide such training; (6) General and Pediatric Dentistry—to meet the costs of planning, developing, or operating approved residency programs of general or pediatric dentistry, including providing financial assistance to the trainees in these programs.

* This program is not included in the President's budget for FY 2004. Potential applicants for funds should consider this announcement provisional until final Congressional action on appropriations is taken. Updated information on Congressional action on appropriations will be available on the HRSA Web site.

Eligibility: For program purposes (1), (2), and (5) public or nonprofit private hospitals, accredited schools of medicine or osteopathic medicine, or public or private nonprofit entities are eligible to apply.

For program purposes (3) and (4) public or nonprofit private accredited schools of allopathic or osteopathic medicine are eligible to apply.

For program purpose (6) entities that have programs in accredited dental schools, approved residency programs in the pediatric or general practice of dentistry, approved advanced education programs in the pediatric or general practice of dentistry, or approved residency programs in pediatric dentistry are eligible to apply.

For all grant program purposes (1) through (6), nonprofit entities, including faith-based organizations and community-based organizations, that meet other eligibility requirements are eligible to apply.

Review Criteria: Final review criteria are included in the application kit.

Funding Priorities: In accordance with Section 747(c)(1) of the Public Health Service Act, for program purposes (1) through (6), a funding priority will be given to approved applicants that have a record of training the greatest percentage of providers or that have demonstrated significant improvements in the percentage of providers who enter and remain in primary care practice or general or pediatric dentistry.

In accordance with Section 747(c)(2) of the Public Health Service Act, for program purposes (1) through (6), a funding priority will be given to approved applicants that have a record of training individuals who are from disadvantaged backgrounds (including racial and ethnic minorities underrepresented among primary care practice or general or pediatric dentistry).

In accordance with Section 747(b)(3) of the Public Health Service Act, for program purpose (4), a funding priority will be given to approved applicants that propose a collaborative project between departments of primary care medicines.

Funding Preferences: As provided in section 791(a) of the Public Health Service Act, for purposes (1) through (6), preference will be given to any approved applicant that: (A) has a high rate for placing graduates in practice settings having the focus of serving residents of medically underserved communities or (B) during the two-year period preceding the fiscal year for which such an award is sought, has achieved a significant increase in the rate of placing graduates in such settings. This statutory general preference will be applied to only those applications that rank above the 20th percentile of the applications recommended for approval by the peer review group. So that new applicants may compete equitably, a preference will be given to those new programs that meet at least four of the criteria described in section 791(c)(3) of the Public Health Service Act concerning underserved communities and populations.

Special Considerations: In accordance with Section 747(c)(3) of the Public Health Service Act, for grant program purposes (1) through (6), special consideration will be given to approved applicants proposing projects to prepare practitioners to care for underserved populations and other high risk groups such as the elderly, individuals with HIV-AIDS, substance abusers, homeless and victims of domestic violence.

Estimated Amount of This Competition: $31,000,000.

Estimated Number of Awards: 160.

Estimated Project Period: 3 years.

HRSA-04-015 Training in Primary Care Medicine and Dentistry (DRPC) *

Application Availability Date: September 2, 2003.

Letter of Intent Deadline: September 12, 2003.

Application Deadline: November 6, 2003.

Projected Award Date: July 1, 2004.

Regional Contact Information for Training in Primary Care Medicine and Dentistry (DRPC) Grant Program

Program Contact Person:

Region 1 (CT, ME, MA, NH, RI, VT)—Shane Rogers

Region 2 (NY, NJ, PR, Virgin Islands)—Brenda Williamson

Region 3 (DE, MD, PA, VA, WV, DC)—Elsie Quinones

Region 4 (AL, FL, GA, KY, MS, NC, SC, TN)—Marcia Britt

Region 5 (IL, IN, MI, OH, WI, MN)—Martha Evans

Region 6 (AR, NM, OK, TX, LA)—Ellie Grant

Region 7 (IA, KS, MO, NE)—Shelby Biedenkapp

Region 8 (CO, MT, UT, ND, SD, WY)—Shelby Biedenkapp

Region 9 (AZ, CA, HI, NV, Pacific Basin)—Shane Rogers

Region 10 (AK, ID, OR, WA)—Shelby Biedenkapp

Phone Number: (301)-443-1467.

E-mail:

Shelby Biedenkapp—sbiedenkapp@hrsa.gov

Marcia Britt—mbritt@hrsa.gov

Martha Evans—mevans@hrsa.gov

Ellie Grant—egrant@hrsa.gov

Elsie Quinones—equinones@hrsa.gov

Shane Rogers—srogers@hrsa.gov

Brenda Williamson—bwilliamson@hrsa.gov

HRSA-04-016 Podiatric Residency Training in Primary Care (PODPC) *

CFDA: 93.181.

Legislative Authority: Public Health Service Act, Title VII, Part D, Section 755(b)(2), 42 U.S.C. 294.

Purpose: Grants are awarded to plan and implement projects in preventive and primary care training for podiatric physicians in approved or provisionally approved residency programs that shall provide financial assistance in the form of traineeships to residents who participate in such projects and who plan to specialize in primary care.

* This program is not included in the President's budget for FY 2004. Potential applicants for funds should consider this announcement provisional until final Congressional action on appropriations is taken. Updated information on Congressional action on appropriations will be available on the HRSA Web site.

Eligibility: Eligible entities are health professions schools, academic health centers, State or local governments, an Indian Tribe or Tribal organization, or other appropriate public or private nonprofit entities. To be eligible, the applicant shall propose a project which is collaborative among two or more disciplines. Nonprofit entities, including faith-based organizations and community-based organizations, that meet other eligibility requirements are eligible to apply.

Review Criteria: Final review criteria are included in the application kit.

Funding Preferences: As provided in section 791(a) of the Public Health Service Act, preference will be given to any approved applicant that: (A) has a high rate for placing graduates in practice settings having the focus of serving residents of medically underserved communities or (B) during the two-year period preceding the fiscal year for which such an award is sought, has achieved a significant increase in the rate of placing graduates in such settings. This statutory general preference will be applied to only those applications that rank above the 20th percentile of the applications recommended for approval by the peer review group. So that new applicants may compete equitably, a preference will be given to those new programs that meet at least four of the criteria described in section 791(c)(3) of the Public Health Service Act concerning underserved communities and populations.

Estimated Amount of This Competition: $760,000.

Estimated Number of Awards: 4.

Estimated Project Period: 3 years.

HRSA-04-016 Podiatric Residency Training in Primary Care (PODPC) *

Application Availability Date: September 2, 2003.

Application Deadline: October 20, 2003.

Projected Award Date: July 1, 2004.

Program Contact Person: Rebecca Bunnell.

Program Contact Phone: 301-443-6326.

Program Contact E-mail: rbunnell@hrsa.gov.

HRSA-04-017 Graduate Psychology Education Program (GPEP) *

CFDA: 93.191.

Legislative Authority: Public Health Service Act, Title VII, Section 755(b)(1)(J), 42 U.S.C. 294e.

Purpose: The Graduate Psychology Education Program addresses the interrelatedness of behavior and health and the critical need for integrated health care services.

Grants will be awarded to assist eligible entities in meeting the costs to plan, develop, operate, or maintain graduate psychology doctoral, doctoral internship, and doctoral residency programs, accredited by the American Psychological Association (APA). These programs must foster an integrated approach to health care services and address access for underserved populations by training psychologists to work:

• With underserved populations including children, the elderly, victims of abuse, the chronically ill or disabled; and

• In areas of emerging needs.

* This program is not included in the President's budget for FY 2004. Potential applicants for funds should consider this announcement provisional until final Congressional action on appropriations is taken. Updated information on Congressional action on appropriations will be available on the HRSA Web site.

Eligibility: Eligible entities are accredited health profession schools, universities, and other public or private nonprofit entities. As provided in section 750 of the Public Health Service Act, to be eligible to receive assistance, the applicant must propose to use the grant funds in collaboration with two or more disciplines.

Review Criteria: Final review criteria are included in the application kit.

Funding Preferences: As provided in section 791(a) of the Public Health Service Act, preference will be given to any approved applicant that: (A) has a high rate for placing graduates in practice settings having the focus of serving residents of medically underserved communities or (B) during the two-year period preceding the fiscal year for which such an award is sought, has achieved a significant increase in the rate of placing graduates in such settings. This statutory general preference will be applied to only those applications that rank above the 20th percentile of the applications recommended for approval by the peer review group. So that new applicants may compete equitably, a preference will be given to those new programs that meet at least four of the criteria described in section 791(c)(3) of the Public Health Service Act concerning underserved communities and populations.

Estimated Amount of This Competition: $3,000,000.

Estimated Number of Awards: 20.

Estimated Project Period: 3 years.

HRSA-04-017 Graduate Psychology Education Program (GPEP) *

Application Availability Date: October 1, 2003.

Application Deadline: December 12, 2003.

Projected Award Date: May 1, 2004.

Program Contact Person: Roger Straw.

Program Contact Phone: 301-443-6326.

Program Contact E-mail: rstraw@hrsa.gov.

HRSA-04-018 Basic/Core Area Health Education Centers (BAHEC) *

CFDA: 93.824.

Legislative Authority: Public Health Service Act, Title VII, Section 751(a)(1), 42 U.S.C. 294a.

Purpose: To improve the distribution, diversity, and quality of health personnel in the health services delivery system by encouraging the regionalization of health professions schools. Emphasis is placed on community-based training of primary care oriented students, residents, and providers, and health careers programs for K-12 students. The Area Health Education Centers (AHEC) program assists schools in the planning, development and operation of AHEC centers to initiate education systems incentives to attract and retain health care personnel in scarcity areas. By linking the academic resources of the university health science center with local planning, educational and clinical resources, the AHEC programs and AHEC centers establish a network of community-based training sites to provide educational services to students, faculty and practitioners in underserved areas, and ultimately to improve the delivery of health care in the service area.

• This program is not included in the President's budget for FY 2004. Potential applicants for funds should consider this announcement provisional until final Congressional action on appropriations is taken. Updated information on Congressional action on appropriations will be available on the HRSA Web site.

Cost Sharing: Awardees must pay not less than 50 percent of the operating costs of the AHEC Program from non-Federal contributions in cash (directly through contributions from State, county or municipal government, an Indian Tribe or Tribal organization or the private sector). These funds must be for the express use of the AHEC Programs and Centers to address AHEC project goals and objectives and not funds designated for other categorical or specific purposes. However, the Secretary may grant a waiver for up to 75 percent of the amount required in the first 3 years in which an awardee receives funds for this program. It is expected that the non-Federal contributions in cash should be equal to the Federal request—that is, a one-to-one match.

Eligibility: Public or private non-profit, accredited schools of medicine and osteopathic medicine and incorporated consortia made up of such schools or the parent institutions of such schools. In States where no AHEC program is in operation (Iowa, Kansas, North Dakota, South Dakota, Rhode Island and Puerto Rico) accredited schools of nursing are eligible.

Review Criteria: Final review criteria are included in the application kit.

Funding Preferences: All applicants have the option to request the general statutory funding preference found in Section 791(a) of the Public Health Service Act. Only data from the applicant/awardee school may be submitted. To be considered for this funding preference, an applicant must request it by either completing the appropriate table, or in the case of a new program, request and submit the appropriate narrative to support the request. For more information on funding preferences, see the Basic/Core AHEC Program Application Kit under General Statutory Funding Preference.

Special Considerations: In accordance with Section 751(a)(1)(A)(iii) of the Public Health Service Act, special consideration will be given to approved applicants who support the Kids Into Health Careers initiative by establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. For more information, see: http://www.bhpr.hrsa.gov.

In accordance with Section 751(a)(1)(A)(vii) of the Public Health Service Act, special consideration will also be given to approved applicants who (a) develop new and innovative approaches to education and training using distance learning methodologies/telehealth, or (b) enhance or expand existing distance learning educational programs to prepare health professionals and health professional students to deliver quality health care in medically underserved communities.

Estimated Amount of This Competition: $8,000,000.

Estimated Number of Awards: 10.

Estimated Project Period: 3 years.

HRSA-04-018 Basic/Core Area Health Education Centers (BAHEC) *

Application Availability Date: September 19, 2003.

Application Deadline: February 3, 2004.

Projected Award Date: September 1, 2004.

Program Contact Person: Louis D. Coccodrilli.

Marion Aldrich: CT, DC, FL, ME, RI, VA

Jan Clear: CA, CO, HI, IN, KS, MD, MN, NV, OK, OR, WI

Susan Goodman: AZ, KY, MA, MO, NJ, NY, NC, PR, TN, UT

David Hanny: AL, DE, GA, MS, OH, PA, SD, TX

Armando Pollack: AR, IL, NH, ND, VT, WV

Barry Stern: AK, ID, IA, LA, MI, MT, NE, NM, SC, WA, WY

Program Contact Phone: 301-443-6950.

Program Contact E-mail:

lcoccodrilli@hrsa.gov

maldrich@hrsa.gov

jclear@hrsa.gov

sgoodman@hrsa.gov

dhanny@hrsa.gov

apollack@hrsa.gov

bstern@hrsa.gov

HRSA-04-019 Model State-Supported Area Health Education Centers (MAHEC) *

CFDA: 93.107.

Legislative Authority: Public Health Service Act, Title VII, Section 751(a)(2), U.S.C. 294a.

Purpose: To improve the distribution, diversity, and quality of health personnel in the health services delivery system by encouraging the regionalization of health professions schools. Emphasis is placed on community-based training of primary care oriented students, residents, and providers, and health careers programs for K-12 students. The Area Health Education Centers (AHEC) program assists schools in the planning, development and operation of AHEC centers to initiate education systems incentives to attract and retain health care personnel in scarcity areas. By linking the academic resources of the university health science center with local planning, educational and clinical resources, the AHEC programs and AHEC centers establish a network of community-based training sites to provide educational services to students, faculty and practitioners in underserved areas, and ultimately to improve the delivery of health care in the service area.

* This program is not included in the President's budget for FY 2004. Potential applicants for funds should consider this announcement provisional until final Congressional action on appropriations is taken. Updated information on Congressional action on appropriations will be available on the HRSA Web site.

Cost Sharing: To be eligible to apply for funding under this authority, an entity must make available (directly through contributions from State, county or municipal government, an Indian Tribe or Tribal organization, or the private sector) recurring non-Federal contributions in cash toward the costs of operating the model AHEC program in an amount not less than 50 percent of this cost. It is expected that the non-Federal contributions in cash should be equal to the Federal request—that is, a one-to-one match. These funds shall be for the express use of the AHEC Programs and Centers to address AHEC project goals and objectives, and not funds designated for other categorical or specific purposes.

Eligibility: An entity that:

• Has previously received funding under Title VII of the Public Health Service Act for a Basic AHEC program;

• Is currently operating an AHEC program; and

• Is no longer receiving funds under the Title VII Basic AHEC authority.

Review Criteria: Final review criteria are included in the application kit.

Funding Preferences: All applicants have the option to request the general statutory funding preference found in Section 791(a) of the Public Health Service Act. Only data from the applicant/awardee school may be submitted. To be considered for this funding preference, an applicant must request it by either completing the appropriate table, or in the case of a new program, request and submit the appropriate narrative to support the request. For more information on the funding preferences, see the Model State Supported AHEC Program Application Kit under General Statutory Funding Preference.

Special Considerations: In accordance with Section 751(a)(1)(A)(iii) of the Public Health Service Act, special consideration will be given to approved applicants who support the Kids Into Health Careers initiative by establishing linkages with one or more elementary, middle, or high schools with a high percentage of minority and disadvantaged students to: (1) Inform students and parents about health careers and financial aid to encourage interest in health careers; (2) promote rigorous academic course work to prepare for health professions training; or (3) provide support services such as mentoring, tutoring, counseling, after school programs, summer enrichment, and college visits. For more information, see: http://www.bhpr.hrsa.gov.

In accordance with Section 751(a)(1)(A)(vii) of the Public Health Service Act, special consideration will also be given to approved applicants who (a) develop new and innovative approaches to education and training using distance learning methodologies/telehealth, or (b) enhance or expand existing distance learning educational programs to prepare health professionals and health professional students to deliver quality health care in medically underserved communities.

Estimated Amount of This Competition: $8,000,000.

Estimated Number of Awards: 15.

Estimated Project Period: 3 years.

HRSA-04-019 Model State-Supported Area Health Education Centers (MAHEC) *

Application Availability Date: September 19, 2003.

Application Deadline: February 3, 2004.

Projected Award Date: September 1, 2004.

Program Contact Person: Louis D. Coccodrilli.

Marion Aldrich: CT, DC, FL, ME, RI, VA

Jan Clear: CA, CO, HI, IN, KS, MD, MN, NV, OK, OR, WI

Susan Goodman: AZ, KY, MA, MO, NJ, NY, NC, PR, TN, UT

David Hanny: AL, DE, GA, MS, OH, PA, SD, TX

Armando Pollack: AR, IL, NH, ND, VT, WV

Barry Stern: AK, ID, IA, LA, MI, MT, NE, NM, SC, WA, WY

Program Contact Phone: 301-443-6950.

Program Contact E-mail:

lcoccodrilli@hrsa.gov

maldrich@hrsa.gov

jclear@hrsa.gov

sgoodman@hrsa.gov

dhanny@hrsa.gov

apollack@hrsa.gov

bstern@hrsa.gov

HRSA-04-020 Grants to States for Loan Repayment Programs (SLRP)

CFDA: 93.165.

Legislative Authority: Public Health Service Act, Title III, Section 338I, 42 U.S.C. 254q-1.

Purpose: The Program's purpose is to assist States in operating programs for the repayment of health professionals' educational loans in return for their practice in federally-designated health professional shortage areas. This Program strives to increase the availability of primary health services in underserved areas. Of the estimated 16 awards, 13 are project period renewals and 3 are new awards.

States seeking support must provide assurances that, with respect to costs of making loan repayments under contracts with health professionals, the State will make available (directly or through donations from public or private entities) non-Federal contributions in cash in an amount equal to not less than $1 for every $1 of Federal funds provided in grants. In determining the amount of non-Federal contributions in cash that a State has to provide, no Federal funds may be used in the State's match. Further information about this Program is available in the application guidance and can be obtained from the contact person.

Cost Sharing: Yes.

Eligibility: All 50 States are eligible to apply for funding. The Program operated with the grant must be administered by a State agency.

Review Criteria: Final review criteria are included in the application kit.

Estimated Amount of This Competition: $3,100,000.

Estimated Number of Awards: 16 (13 renewals, 3 new).

Estimated Project Period: 3 years.

HRSA-04-020 Grants to States for Loan Repayment Programs (SLRP)

Application Availability Date: March 2, 2004.

Application Deadline: April 1, 2004.

Projected Award Date: September 1, 2004.

Program Contact Person: Mildred Brooks-McDow.

Program Contact Phone: 301-443-1648.

Program Contact E-mail: mbrooks-mcdow@hrsa.gov.

HRSA-04-021 Bioterrorism Training and Curriculum Development Program (BTCDP)

CFDA: 93.996.

Legislative Authority: Public Health Service Act, Title III, Section 319F(g), 42 U.S.C. 247d-6.

Purpose: The goal of this program is the development of a health care workforce with the knowledge, skills and ability to: (1) Recognize indications of a terrorist event; (2) meet the acute care needs of patients, including pediatric and other vulnerable populations, in a safe and appropriate manner; (3) participate in a coordinated, multidisciplinary response to terrorist events and other public health emergencies; and (4) rapidly and effectively alert the public health system of such an event at the community, State, and national level. Cooperative agreements will be awarded to assist entities to prepare a workforce of healthcare professionals to address the medical consequences of bio-terrorism and other public health emergency preparedness and response issues, including other forms of terrorism (such as use of chemical, explosive, incendiary, or nuclear agents against the civilian population) natural disasters and catastrophic accidents. Applicants may apply for funding to: (1) Provide continuing education for practicing providers; and/or (2) Enhance curricula in health professions schools. Each area requires a separate application for funds. To apply for funding in both areas, submit two separate applications.

Federal Involvement: The scope of the Federal involvement is included in the application kit.

Eligibility:

Eligible Applicants for Continuing Education: The entities eligible to apply for this program are academic health centers; other public or private nonprofit accredited or licensed health professions schools; other educational entities such as professional organizations and societies; private accrediting organizations; other nonprofit institutions or entities including faith-based organizations and community-based organizations; and multi-state or multi-institutional consortia of various combinations of these eligible entities. In selecting from among the most highly ranked applications, efforts will be made to balance awards to achieve broad professional and geographical distribution.

Eligible Applicants for Curricular Enhancement: The entities eligible to apply for this program are public or private nonprofit accredited or licensed health professions schools; other educational entities such as professional organizations and societies; and other nonprofit institutions or entities including faith-based organizations and community-based organizations.

To apply for funding for curricular enhancement, an entity that is not a health professions school must provide a written agreement with a health professions school to participate in carrying out the project.

In funding approved applications, consideration will be given to balance the distribution of awards across the following types of health professions schools: Medicine, Nursing, Mental Health, Allied Health, and others.

Review Criteria: Final review criteria are included in the application kit.

Special Considerations: Under Section 319(g)(1)(D) of the Public Health Service Act, special consideration will be given to applicants who (a) develop new and innovative approaches to education and training using distance learning methodologies/telehealth, or (b) enhance or expand existing distance learning educational programs to prepare health professionals and health professional students to deliver quality health care in medically underserved communities.

Estimated Amount of This Competition: $30,000,000.

Estimated Number of Awards: 40.

Estimated Project Period: 2 years.

HRSA-04-021 Bio-Terrorism Training and Curriculum Development Program (BTTCD)

Application Availability Date: December 8, 2004.

Application Deadline: March 5, 2004.

Projected Award Date: September 1, 2004.

Program Contact Persons:

Lynn Rothberg Wegman

Lou Coccodrilli

Marion Aldrich

Susan Goodman

Armando Pollack

Barry Stern

Program Contact Phone: 301-443-1648.

Program Contact E-mail:

Lynn Rothberg Wegman—lwegman@hrsa.gov

Lou Coccodrilli—lcoccodrilli@hrsa.gov

Marion Aldrich—maldrich@hrsa.gov

Susan Goodman—sgoodman@hrsa.gov

Armando Pollack—apollack@hrsa.gov

Barry Stern—bstern@hrsa.gov

HRSA-04-022 Preventive Medicine Residency Program (PMRP) *

CFDA: 93.117.

Legislative Authority: Public Health Service Act, Title VII, Section 768, 42 U.S.C.295c.

Purpose: The Preventive Medicine Residency Grant Program is designed to promote postgraduate medical education in the field of preventive medicine and public health. Grants assist eligible entities to: plan and develop new residency training programs, maintain and improve existing residency training programs and provide financial support to residency trainees in these programs.

* This program is not included in the President's budget for FY 2004. Potential applicants for funds should consider this announcement provisional until final Congressional action on appropriations is taken. Updated information on Congressional action on appropriations will be available on the HRSA Web site.

Eligibility: Eligible applicants are schools of medicine, osteopathic medicine and public health (support for dental residencies will be offered through a separate announcement). An applicant must demonstrate that it has or will have available full-time faculty members trained in preventive medicine or dental public health and support from other faculty members trained in public health and other relevant specialties and disciplines.

Preferences: Under Section 765(c) of the Public Health Service Act, a preference will be given to approved applicants: (1) Who demonstrate that at least 40 percent of the program enrollees meet the definition of disadvantaged and/or underrepresented minorities, and (2) who demonstrate that at least 40 percent of their graduates have subsequently practiced in disadvantaged and/or underserved communities. An established program (one having graduated three or more classes), must submit supporting documentation to receive this preference. A new program (one having graduated three or fewer classes) must submit documentation evidencing that it meets at least four of the following criteria to qualify for the funding preference: (A) A specific purpose of the program is the preparation of health professionals to serve underserved populations; (B) The curriculum of the program includes content to prepare practitioners to serve underserved populations; (C) The program requires substantial clinical training experience in medically underserved communities; (D) A minimum of 20 percent of the clinical faculty of the program spends at least 50 percent of its time providing or supervising care in medically underserved communities; (E) The entire program or a substantial portion of the program is physically located in a medically underserved community; (F) Student assistance that is linked to service in medically underserved communities following graduation is available to the students in the program; (G) The program has a graduate placement program to find employment for graduates in medically underserved communities.

Estimated Amount of This Competition: $1,800,000.

Estimated Number of Awards: 12.

Estimated Project Period: 3 years.

HRSA-04-022 Preventive Medicine Residency Program (PMRP) *

Application Availability: September 2, 2003.

Application Deadline: October 16, 2003.

Estimated Project Award Date: July 1, 2004.

Program Contact Name: Rochelle L. Rollins.

Program Contact Phone: 301-443-5244.

Program Contact E-Mail: rrollins@hrsa.gov.

HRSA-04-023 Geriatric Education Centers Program (GECS) *

CFDA: 93.969.

Legislative Authority: Public Health Service Act, Title VII, Section 753(a), 42 U.S.C. 294c.

Purpose: Grants are available to support the development of Geriatric Education Centers (GECs)—collaborative arrangements involving several health professions schools and health care facilities—to train health professional faculty, students, and practitioners in the diagnosis, treatment, prevention of disease, disability, and other health problems of the aged.

Applicants must propose to carry out all of the following statutory purposes: (1) Improve the training of health professionals in geriatrics, including geriatric residencies, traineeships or fellowships; (2) develop and disseminate curricula relating to the treatment of the health problems of elderly individuals; (3) support the training and retraining of faculty to provide instruction in geriatrics; (4) support continuing education of health professionals who provide geriatric care; and (5) provide students with clinical training in geriatrics in nursing homes, chronic and acute disease hospitals, ambulatory care centers, and senior centers.

This training must involve four or more health profession disciplines, one of which must be allopathic or osteopathic medicine. Other health professions may include allopathic physicians, osteopathic physicians, dentists, optometrists, podiatrists, pharmacists, nurses, nurse practitioners, physician assistants, chiropractors, clinical psychologists, health administrators, and allied health professionals including professional counselors and social workers.

* This program is not included in the President's budget for FY 2004. Potential applicants for funds should consider this announcement provisional until final Congressional action on appropriations is taken. Updated information on Congressional action on appropriations will be available on the HRSA Web site.

Eligibility: Grants may be made to entities as defined by sections 799B(1), (3) and (4) and section 801(2) of The Public Health Service Act. These include, among others: schools of medicine; schools of dentistry; schools of osteopathic medicine; schools of pharmacy; schools of optometry; schools of podiatric medicine; schools of veterinary medicine; schools of public health; schools of chiropractic; graduate programs in clinical psychology, clinical social work, health administration, and behavioral health and mental health practice; programs for the training of physician assistants; schools of allied health; and schools of nursing. Applicants must be located in the United States, the District of Columbia, the Commonwealth of Puerto Rico, the Commonwealth of the Northern Mariana Islands, the Virgin Islands, Guam, American Samoa, the Republic of Palau, the Republic of the Marshall Islands, or the Federated States of Micronesia. In selecting from among the most highly ranked applications, efforts will be made to balance awards to achieve broad geographical distribution.

Review Criteria: Final review criteria are included in the application kit.

Funding Preferences: As provided in section 791(a) of the Public Health Service Act, as amended, preference will be given to any approved applicant that: (A) Has a high rate for placing graduates in practice settings having the focus of serving residents of medically underserved communities or (B) during the two-year period preceding the fiscal year for which such an award is sought, has achieved a significant increase in the rate of placing graduates in such settings. This statutory general preference will be applied to only those applications that rank above the 20th percentile of the applications recommended for approval by the peer review group. So that new applicants may compete equitably, a preference will be given to those new programs that meet at least four of the criteria described in section 791(c)(3) of the Public Health Service Act concerning medically underserved communities and populations.

Estimated Amount of This Competition: $3,600,000.

Estimated Number of Awards: 9.

Estimated Project Period: 5 years.

HRSA-04-023 Geriatric Education Centers Program (GECS) *

Application Availability Date: October 3, 2003.

Application Deadline: January 13, 2004.

Projected Award Date: July 1, 2004.

Program Contact Person: Barbara Broome.

Program Contact Phone: 301-443-6866.

Program Contact E-Mail: bbroome@hrsa.gov.

HRSA-04-024 Geriatric Academic Career Awards (GACA) *

CFDA: 93.250.

Legislative Authority: Public Health Service Act, Title VII, Section 753(c), 42 U.S.C. 294c.

Purpose: The purpose of this program is to increase the number of junior faculty in geriatrics at accredited schools of medicine and osteopathic medicine and to promote their careers as academic geriatricians. Award recipients must serve as members of the faculties of accredited schools of allopathic or osteopathic medicine providing teaching services, according to the service requirements under this award, for up to 5 years. Prior to submitting an application for the Geriatric Academic Career Award, individuals must have an agreement with an eligible school setting forth the terms and conditions of the award. The agreement with the school must permit the individual to serve as a full-time (as determined by the school) member of the faculty, for not less than the period of the award. As provided in Section 753(c)(5) of the Public Health Service Act, as amended, an individual who receives an award shall provide training in clinical geriatrics, including the training of interdisciplinary teams of health care professionals. The provision of such training shall constitute at least 75 percent of the obligations of the individual under this award. Geriatric Academic Career Awards are made directly to individuals, not institutions.

* This program is not included in the President's budget for FY 2004. Potential applicants for funds should consider this announcement provisional until final Congressional action on appropriations is taken. Updated information on Congressional action on appropriations will be available on the HRSA Web site.

Eligibility: Geriatric Academic Career Awards are provided for individuals who meet the following criteria: (1) Are board certified or board eligible in internal medicine, family practice, or psychiatry; (2) have completed an approved fellowship program in geriatrics; and (3) have a junior faculty appointment at an accredited school of medicine (allopathic or osteopathic).

Review Criteria: Final review criteria are included in the application kit.

Estimated Amount of This Competition: $1,000,000.

Estimated Number of Awards: 20.

Estimated Project Period: 5 years.

HRSA-04-024 Geriatric Academic Career Awards (GACA) *

Application Availability Date: October 10, 2003.

Application Deadline: February 2, 2004.

Projected Award Date: July 1, 2004.

Program Contact Person: Kathleen Bond.

Program Contact Phone: 301-443-8681.

Program Contact E-Mail: kbond@hrsa.gov.

HRSA-04-025 Geriatric Training for Physicians, Dentists, and Behavioral and Mental Health Professionals (GTPD) *

CFDA: 93.156.

Legislative Authority: Public Health Service Act, Title VII, Section 753(b), 42 U.S.C. 294c.

Purpose: This program provides two-year fellowship programs and/or one-year retraining programs for physicians, dentists, and behavioral and mental health professionals who teach or plan to teach geriatric medicine, geriatric dentistry, or geriatric behavioral and mental health. Learning components for two-year fellows include clinical, research, administration, and teaching. A minimum of three fellows—one from each discipline—is required each year of the award.

Funded projects will provide training in the physical and mental disabilities of elderly individuals through rotations such as geriatric consultation services, acute care services, dental services, geriatric behavioral and/or mental health units, day and home care programs, rehabilitation services, extended care facilities, geriatric ambulatory care and comprehensive evaluation units, and community care programs for elderly mentally retarded individuals. Programs emphasize the principles of primary care as demonstrated through continuity, ambulatory, preventive, and psychosocial aspects of the practice of geriatric medicine, geriatric dentistry, and geriatric behavioral and mental health.

* This program is not included in the President's budget for FY 2004. Potential applicants for funds should consider this announcement provisional until final Congressional action on appropriations is taken. Updated information on Congressional action on appropriations will be available on the HRSA Web site.

Eligibility: Schools of medicine, schools of osteopathic medicine, teaching hospitals, and graduate medical education programs.

Review Criteria: Final review criteria are included in the application kit.

Funding Preferences: As provided in section 791(a) of the Public Health Service Act, as amended, preference will be given to any approved applicant that: (A) Has a high rate for placing graduates in practice settings having the focus of serving residents of medically underserved communities or (B) during the two-year period preceding the fiscal year for which such an award is sought, has achieved a significant increase in the rate of placing graduates in such settings. This statutory general preference will be applied to only those applications that rank above the 20th percentile of the applications recommended for approval by the peer review group.

So that new applicants may compete equitably, a preference will be given to those new programs that meet at least four of the criteria described in section 791(c)(3) of the Public Health Service Act, as amended, concerning medically underserved communities and populations.

Estimated Amount of This Competition: $2,000,000.

Estimated Number of Awards: 5.

Estimated Project Period: 5 years.

HRSA-04-025 Geriatric Training for Physicians, Dentists, and Behavioral and Mental Health Professionals (GTPD) *

Application Availability Date: September 2, 2003.

Application Deadline: December 15, 2003.

Projected Award Date: July 1, 2004.

Program Contact Person: Kathleen Bond.

Program Contact Phone: 301-443-8681.

Program Contact E-Mail: kbond@hrsa.gov.

HRSA-04-026 Quentin N. Burdick Program for Rural Interdisciplinary Training (QBRH) *

CFDA: 93.192.

Legislative Authority: Public Health Service Act, Title VII, Section 754, U.S.C. 294d, Section 750(a), 42 U.S.C. 294.

Purpose: These grants support the education and training of health professions students in rural underserved communities and improve access to health care in rural areas. To address needs of the rural health professions workforce, this program funds student stipends and interdisciplinary training projects that: (1) Use new and innovative methods to train health care practitioners to provide services in rural areas; (2) demonstrate and evaluate innovative interdisciplinary methods and models designed to provide access to cost-effective comprehensive health care; (3) deliver health care services to individuals residing in rural areas; (4) enhance the amount of relevant research conducted concerning health care issues in rural areas; and (5) increase the recruitment and retention of health care practitioners in rural areas and make rural practice a more attractive career choice for health care practitioners.

* This program is not included in the President's budget for FY 2004. Potential applicants for funds should consider this announcement provisional until final Congressional action on appropriations is taken. Updated information on Congressional action on appropriations will be available on the HRSA Web site.

Eligibility: Eligible applicants include: health professions schools, academic health centers, State or local governments, an Indian Tribe or Tribal organization, or other appropriate public or private nonprofit entities, including faith-based organizations and community-based organizations. Applications must be jointly submitted by at least two eligible applicants with the express purpose of assisting individuals in academic institutions in establishing long-term collaborative relationships with health care providers in rural areas. Applicants must designate a rural health care agency or agencies for clinical treatment or training including hospitals, community health centers, migrant health centers, rural health clinics, community behavioral and mental health centers, long-term care facilities, Native Hawaiian health centers or facilities operated by the Indian Health Service or an Indian tribe or tribal organization or Indian organization under a contract with the Indian Health Service under the Indian Self-Determination Act.

Review Criteria: Final review criteria are included in the application kit.

Funding Preferences: As provided in Section 791(a) of the Public Health Service Act, as amended, preference will be given to any approved applicant that: (A) has a high rate for placing graduates in practice settings having the principal focus of serving residents of medically underserved communities; or (B) during the 2-year period preceding the fiscal year for which such an award is sought, has achieved a significant increase in the rate of placing graduates in such settings. This statutory general preference will only be applied to applications that rank above the 20th percentile of applications recommended for approval by the peer review group.

So that new applicants may compete equitably, a preference will be given to those new programs that meet at least four of the criteria described in Section 791(c)(3) of the Public Health Service Act, as amended, concerning medically underserved communities and populations.

Estimated Amount of This Competition: $1,500,000.

Estimated Number of Awards: 6.

Estimated Project Period: 3 years.

HRSA-04-026 Quentin N. Burdick Program for Rural Interdisciplinary Training (QBRH) *

Application Availability Date: September 29, 2003.

Application Deadline: January 13, 2004.

Projected Award Date: July 1, 2004.

Program Contact Person: Marcia Starbecker, Public Health Analyst.

Program Contact Phone: 301-443-6867.

Program Contact E-mail: mstarbecker@hrsa.gov.

HRSA-04-027 Allied Health Projects (AHPG) *

CFDA: 93.191.

Legislative Authority: Public Health Service Act, Title VII, Section 755, 42 U.S.C. 294e.

Purpose: Grants are awarded to assist eligible entities in meeting the associated costs of expanding or establishing programs to increase the number of individuals trained in allied health professions. Projects include the following activities: (1) Expanding enrollment in allied health disciplines that are in short supply or whose services are most needed by the elderly; (2) providing rapid transition training programs in allied health fields to individuals who have baccalaureate degrees in health-related sciences; (3) establishing community-based training programs that link academic centers to rural clinical settings; (4) providing career advancement training for practicing allied health professionals; (5) expanding or establishing clinical training sites for allied health professionals in medically underserved or rural communities in order to increase the number of individuals trained; (6) developing curriculum that will emphasize knowledge and practice in the areas of prevention and health promotion, geriatrics, long-term care, home health and hospice care, and ethics; (7) expanding or establishing interdisciplinary training programs that promote the effectiveness of allied health practitioners in geriatric assessment and the rehabilitation of the elderly; (8) expanding or establishing demonstration centers to emphasize innovative models to link allied health, clinical practice, education, and research; and (9) meeting the costs of projects to plan, develop, and operate or maintain graduate programs in behavioral and mental health practice.

* This program is not included in the President's budget for FY 2004. Potential applicants for funds should consider this announcement provisional until final Congressional action on appropriations is taken. Updated information on Congressional action on appropriations will be available on the HRSA Web site.

Eligibility: Eligible entities are health professions schools, academic health centers, State or local governments, an Indian Tribe or Tribal organization, or other public or private nonprofit entities, including faith-based organizations and community-based organizations. Eligible academic institutions must use funds in collaboration with two or more disciplines.

Review Criteria: Final review criteria are included in the application kit.

Funding priorities: Based on President's Executive Orders 12876, 12900, 13021, and 13125, a funding priority will be given to approved applicants who devote significant resources to provide community-based training experiences designed to improve access to health care services in underserved areas; these applicants include Asian-American and Pacific Islander Serving Institutions, Hispanic Serving Institutions, Historically Black Colleges and Universities, Tribal Colleges, and Universities serving American Indians and Alaska Natives, or an institution that collaborates with one or more of the above listed institutions.

Based on House Report 107-229 and Senate Report 107-084, a funding priority will be given to approved applicants who educate and train allied health professionals experiencing shortage in the areas of medical technology, cytotechnology, genetic counseling and/or emergency preparedness.

Funding Preferences: As provided in section 791(a) of the Public Health Service Act, preference will be given to any approved applicant that: (1) Has a high rate for placing graduates in practice settings having the focus of serving residents of medically underserved communities; or (2) during the 2-year period preceding the fiscal year for which such an award is sought, has achieved a significant increase in the rate of placing graduates in such settings. This statutory general preference will only be applied to applications that rank above the 20th percentile of applications recommended for approval by the peer review group. A preference will be given to those new programs that meet at least four of the criteria described in section 791(c)(3) of the Public Health Service Act concerning medically underserved communities and populations so that new applicants may also compete equitably.

Estimated Amount of This Competition: $1,500,000.

Estimated Number of Awards: 13.

Estimated Project Period: 3 years.

HRSA-04-027 Allied Health Projects (AHPG) *

Application Availability Date: September 29, 2003.

Application Deadline: January 13, 2004.

Projected Award Date: July 1, 2004.

Program Contact Person: Young Song.

Program Contact Phone: 301-443-3353.

Program Contact E-mail: ysong@hrsa.gov.

Special Programs—Loan Repayments and Scholarships

National Health Service Corps Loan Repayment Program (NHSCL)

CFDA: 93.162.

Legislative Authority: Public Health Service Act, Title III, Sections 338B-E, 42 U.S.C. 254l-1-254o.

Purpose: The purpose of the National Health Service Corps (NHSC) Loan Repayment Program (LRP) is to ensure an adequate supply of health professionals to provide primary health services (through a culturally competent, interdisciplinary team of clinicians) to populations located in health professional shortage areas (HPSAs) identified by the Secretary of the Department of Health and Human Services. HPSAs can be found in rural and urban communities across the Nation. The NHSC LRP recruits health professionals who agree to provide primary health services in approved NHSC community sites. In return, the NHSC LRP assists clinicians in their repayment of qualifying educational loans. The NHSC is seeking clinicians who demonstrate interest in serving the Nation's medically underserved populations and remaining in HPSAs beyond their service commitment. Additional information on the NHSC may be found at http://nhsc.bhpr.hrsa/gov.htm.

Eligibility: An applicant for the NHSC LRP must be a citizen or national of the United States and must: (1)(A) have a degree in medicine, osteopathic medicine, dentistry, or other health profession, an appropriate degree from a graduate program in behavioral or mental health, or be certified as a nurse midwife, nurse practitioner, or physician assistant; (B) be enrolled in an approved graduate training program in medicine, osteopathic medicine, dentistry, behavioral and mental health, or other health profession; or (C) be enrolled as a full-time student in an accredited educational institution in a State, and in the final year of a course of study or program, offered by such institution and approved by the Secretary, leading to a degree in medicine, osteopathic medicine, dentistry, or other health profession; (2) be eligible for, or hold, an appointment as a commissioned officer in the Regular or Reserve Corps of the Public Health Service or be eligible for selection for civilian service in the NHSC; and (3) submit to the Secretary an application for a contract relating to the payment by the Secretary of the educational loans of the individual in consideration of the individual serving for an obligated period of time. Applicants should be in final negotiations or have secured employment at an eligible community site, and must not have any other service obligations, and must meet the other eligibility criteria set forth in the application kit.

Review Criteria: Final review criteria are included in the application kit.

Funding Priorities: In accordance with Section 338B(d) of the Public Health Service Act, priority will be given to (A) applicants whose health professions training is needed by the NHSC (needed disciplines will be identified in the application kit), (B) applicants who have characteristics that increase the probability of their continuing to practice in HPSAs after they have completed service, and (C) subject to paragraph (B), applicants from disadvantaged backgrounds.

Administrative Funding Preference: An administrative funding preference will be given to applicants serving HPSAs of greatest need.

Estimated Amount of This Competition: $111,500,000.

Estimated Number of Awards: 1643.

Estimated Project Period: 2 years.

National Health Service Corps Loan Repayment Program (NHSCL)

Application Availability Date: November 1, 2003.

Application Deadline: March 26, 2004.

Projected Award Date: September 1, 2004.

Program Contact Person: Kay Cook.

Program Contact Phone: (301) 594-4403.

Program Contact E-Mail: kcook@hrsa.gov.

National Health Service Corps Scholarship Program (NHSC)

CFDA: 93.288.

Legislative Authority: Public Health Service Act, Title III, Section 338A, C-H, 42 U.S.C. 254l, m-q.

Purpose: The purpose of the National Health Service Corps (NHSC) Scholarship Program (SP) is to ensure an adequate supply of health professionals to provide primary health services (through a culturally competent, interdisciplinary team of clinicians) to populations located in health professional shortage areas (HPSAs) identified by the Secretary of the Department of Health and Human Services. HPSAs can be found in rural and urban communities across the Nation. The NHSC provides scholarships to full-time students of allopathic (MD) and osteopathic (DO) medicine, dentistry, family nurse practitioner, nurse midwifery, and physician assistant education. The scholarship covers the payment of tuition and required fees to the school (on behalf of the student), the payment of a monthly stipend for living expenses, and an annual payment for books, equipment, and supplies. In return, for each year of support received, students commit to providing primary health care services in a federally designated underserved community in the U.S. The minimum service commitment is two years; the maximum is four. Additional information on the NHSC may be found at http://nhsc.bhpr.hrsa/gov.htm. Application kits may be obtained by calling 1-800-221-9393.

Eligibility: Applicants must: Be accepted for enrollment or enrolled full-time in an accredited school in the U.S.; be pursuing one of the health professions programs set forth above; be a U.S. citizen or national; be eligible to hold an appointment as a commissioned officer in the Regular or Reserve Corps of the Public Health Service or eligible for a Federal civil service appointment; be free of Federal judgment liens; have no delinquent Federal debt; have no conflicting service obligation; and submit an application, a signed scholarship contract and an authorization to release school enrollment information.

Review Criteria: Final review criteria are included in the application kit.

Funding Priorities: In accordance with Section 338A(d) of the Public Health Service Act, priority will be given (A) first, to applicants who are former recipients of NHSC scholarship support and to former recipients of the Federal Scholarship Program for Students of Exceptional Financial Need; (B) second, to applicants who have characteristics that increase the probability of their continuing to practice in HPSAs after they have completed service; and (C) third, subject to subparagraph (B), to applicants from disadvantaged backgrounds.

Estimated Amount of This Competition: $32,600,000.

Estimated Number of Awards: 345.

Estimated Project Period: 2 to 4 years.

National Health Service Corps Scholarship Program (NHSC)

Application Availability Date: November 30, 2003.

Application Deadline: March 26, 2004.

Projected Award Date: September 1, 2004.

Program Contact Person: Ellen Volpe.

Program Contact Phone: 301-594-4376.

Program Contact E-Mail: evolpe@hrsa.gov.

Nursing Scholarship Program (NSP)

CFDA: 93.908.

Legislative Authority: Public Health Service Act, Title VIII, Section 846(d), 42 U.S.C. 297n(d).

Purpose: The Nursing Scholarship Program authorizes scholarships to individuals for attendance at schools of nursing in exchange for service for a period of not less than two years at a health care facility with a critical shortage of nurses. Additional information may be found at: http://bhpr.hrsa.gov/nursing/scholarship.htm.

Eligibility: An “eligible individual” is a U.S. citizen or national who is enrolled or accepted for enrollment in a professional program as a full-time or part-time student in an accredited school of nursing. A “school of nursing” is a collegiate, associate degree, or diploma school of nursing in a State. Other eligibility criteria are outlined in the application kit.

Review Criteria: Final review criteria are included in the application kit.

Funding Preferences: Section 846(e) of the Public Health Service Act provides that a funding preference shall be given to qualified applicants with the greatest financial need. To evaluate financial need, the HRSA will use the Department of Education's Expected Family Contribution (EFC) determination. The EFC measures a student's family's financial strength and is used to determine eligibility for federal student aid. First funding preference will be given to qualified applicants who have a zero EFC, have agreed to complete their nursing program as a full-time student, and are enrolled or accepted for enrollment in an undergraduate nursing program.

Second funding preference will be given to the remaining qualified applicants who have a zero EFC. Third, qualified applicants who have an EFC that exceeds zero will be grouped according to their EFC in increments of $500 from highest to lowest need (i.e., applicants with EFC of $1-$500, applicants with EFC of $501-$1,000, etc.), and these groups will be funded, to the extent monies remain available, in order of decreasing need. Within each group, applicants who have agreed to complete their nursing program as a full-time student and are enrolled or accepted for enrollment in an undergraduate nursing program will be funded first, and then the remaining qualified applicants within that group will be funded. If there are insufficient funds to award a contract to all qualified applicants who meet a given funding preference, applicants will be randomly selected within that preference level until all funds are expended.

Estimated Amount of This Competition: $6,000,000.

Estimated Number of Awards: 120.

Estimated Project Period: 1 to 4 years.

Nursing Scholarship Program (NSP)

Application Availability Date: April 16, 2004.

Application Deadline: May 31, 2004.

Projected Award Date: July 30, 2004.

Program Contact Person: Bruce Baggett.

Program Contact Phone: 301-443-5395.

Program Contact E-Mail: bbaggett@hrsa.gov.

Nursing Education Loan Repayment Program (NELRP)

CFDA: 93.908.

Legislative Authority: Public Health Service Act, Title VIII, Section 846, 42 U.S.C. 297n.

Purpose: Under the Nursing Education Loan Repayment Program (NELRP), registered nurses are offered the opportunity to enter into a contractual agreement with the Secretary to receive loan repayment for up to 85 percent of their qualifying loan balance as follows—30 percent each year for the first two years and 25 percent for the third year. In exchange, nurses agree to serve for a minimum of two years in a critical shortage facility (CSF). Application kits may be obtained by calling 1-866-813-3753.

Eligibility: An individual is eligible to apply for NELRP if the individual: (1) Has received a baccalaureate or associate degree in nursing, a diploma in nursing, or a graduate degree in nursing; (2) has obtained one or more nursing student loans authorized under section 835(a) of the PHS Act, as amended, or any other educational loan for nurse training costs; (3) enters into an agreement to serve as a full-time registered nurse for a period of not less than two years in a CSF, which is defined as (a) an Indian Health Service health center, (b) a Native Hawaiian health center, (c) a hospital, (d) a federally-qualified community health center or look-alike, migrant health center or look-alike, health care for the homeless center or look-alike, (e) a rural health clinic, (f) a nursing home, (g) a home health agency, (h) a hospice program, (i) a State or local public health department including a public health clinic within the department, (j) a skilled nursing facility, and (k) an ambulatory surgical center; and (4) is a U.S. citizen, U.S. national, or a permanent legal resident of the United States.

Review Criteria: Final review criteria are included in the application kit.

Funding Preferences: As provided in section 846(e) of the PHS Act, as amended, a funding preference will be given to eligible applicants with the greatest financial need. Applicants whose total qualifying loans are 40% or greater than their annualized salary, will meet the greatest financial funding preference. Applicants are ranked based on their debt to salary ratio. Awards are made to applicants within each preference described below by decreasing debt to salary ratio until funds are expended.

Among qualified applicants, contracts will be awarded according to the following preferences:

First preference for funding will be given to NELRP applicants with greatest financial need working in a Disproportionate Share Hospital (DSH) for Medicare and Medicaid, nursing home, or State or local public health department including a public health clinic within these departments.

Second preference for funding will be given to applicants with greatest financial need working in a community health center; migrant health center; health care for the homeless health center, rural health clinic, Indian Health Service health center, Native Hawaiian health center, or non-Federal non-DSH for Medicare and Medicaid. Second preference will also be given to qualified applicants with greatest financial need working in the following types of CSFs located in geographic areas identified as Nursing Shortage Counties: ambulatory surgical center, home health agency, hospice program, skilled nursing facility or Federal hospital.

Third preference for funding will be given to applicants with greatest financial need working in the following types of CSFs regardless of geographic location: ambulatory surgical center, home health agency, hospice program, skilled nursing facility, federally qualified health center look-alike, or Federal hospital.

Fourth preference for funding will be given to applicants without greatest financial need working in a DSH for Medicare and Medicaid, nursing home, or State or local public health department including a public health clinic within the department.

Fifth preference for funding will be given to applicants without greatest financial need working a community health center, migrant health center, health care for the homeless health center, rural health clinic, Indian Health Service health center, Native Hawaiian health center, or non-Federal non-DSH for Medicare and Medicaid. Fifth preference will also be given to qualified applicants without greatest financial need working in the following types of CSFs located in geographic areas identified as Nursing Shortage Counties: ambulatory surgical center, home health agency, hospice program, skilled nursing facility, or Federal hospital.

Sixth preference for funding will be given to applicants without greatest financial need working in the following types of CSFs regardless of geographic location: ambulatory surgical center, home health agency, hospice program, skilled nursing facility, federally qualified health center look-alike; or Federal hospital.

Estimated Amount of This Competition: $15,460,000.

Estimated Number of Awards: 900.

Estimated Project Period: 2 years.

Nursing Education Loan Repayment Program (NELRP)

Application Availability Date: December 1, 2003.

Application Deadline: February 18, 2004.

Projected Award Date: September 15, 2004.

Program Contact Person: Jacqueline Brown.

Program Contact Phone: 301-443-3232.

Program Contact E-Mail: jbrown1@hrsa.gov.

Scholarships for Disadvantaged Students Program (SDS)

CFDA: 93.925.

Legislative Authority: Public Health Service Act, Title VII, Section 737, U.S.C. 293a.

Purpose: The Scholarships for Disadvantaged Students (SDS) program promotes diversity among health professions students and practitioners by providing scholarships for students from disadvantaged backgrounds. Eligible health professions and nursing schools apply for grants to make scholarships to students from disadvantaged backgrounds who have financial need for scholarships and are enrolled, or accepted for enrollment, as full-time students at the schools.

Eligibility: Eligible entities must have a program for recruiting and retaining students from disadvantaged backgrounds and be a school of allopathic medicine, osteopathic medicine, dentistry, optometry, pharmacy, podiatric medicine, veterinary medicine, public health, nursing, chiropractic, or allied health, graduate program in behavioral and mental health practice, or an entity providing programs for the training of physician assistants.

Review Criteria: Final review criteria are included in the application kit.

Funding Priorities: In accordance with section 737(c) of the Public Health Service Act, health professions and nursing schools are eligible to receive a funding priority based on the proportion of graduating students going into primary care, the proportion of underrepresented minority students, and the proportion of graduates working in medically underserved communities.

Estimated Amount of This Competition: $9,900,000.

Estimated Number of Awards: 411.

Estimated Project Period: 1 year.

Scholarships for Disadvantaged Students Program (SDS)

Application Availability Date: November 1, 2003.

Application Deadline: December 17, 2003.

Projected Award Date: March 31, 2004.

Program Contact Person: Andrea Castle.

Program Contact Phone: 301-443-1701.

Program Contact e-mail: dpolicy@hrsa.gov.

Faculty Loan Repayment Program (FLRP) *

CFDA: 93.923.

Legislative Authority: Public Health Service Act, Title VII, section 738a, 42 U.S.C. 293b.

Purpose: The Faculty Loan Repayment Program (FLRP) is a loan repayment program for individuals from disadvantaged backgrounds who serve as faculty at eligible health professions schools for a minimum of two years. In return, the Federal Government agrees to pay up to $20,000 of the outstanding principal and interest on the individual's education loans for each year of service.

This program is designed to increase the number of faculty from disadvantaged backgrounds who act as role models and mentors for students from similar backgrounds. Hence, faculty, as used in this section, means a position that is primarily teach, rather than administrative or research. The employing school must also make payments of principal and interest to the faculty member in an amount equal to the amount of such quarterly payments made by the HHS Secretary for each year in which the recipient serves as a faculty member under contract with HHS. In addition, the school must pay the usual salary to the faculty member. The Secretary may waive the school's matching requirement if the Secretary determines it will impose an undue financial hardship on the school.

* This program is not included in the President's budget for FY 2004. Potential applicants for funds should consider this announcement provisional until final Congressional action on appropriations is taken. Updated information on Congressional action on appropriations will be available on the HRSA Web site.

Eligibility: An individual is eligible to apply for loan repayment under FLRP if the individual is from a disadvantaged background and:

• Has a degree in allopathic or osteopathic medicine, dentistry, nursing, or in another health profession;

• Is enrolled in an approved health professions graduate program; or

• Is enrolled as a full-time student in the final year of health professions training that leads to a degree in one of the following health professions: allopathic medicine, osteopathic medicine, podiatric medicine, veterinary medicine, dentistry, pharmacy, optometry, nursing, public health, dental hygiene, medical laboratory technology, occupational therapy, physical therapy, radiologic technology, speech pathology, audiology, medical nutrition therapy and graduate programs in behavioral health and mental health practice, clinical psychology, clinical social work, and marriage and family therapy.

Review Criteria: Final review criteria are included in the application kit.

Estimated Amount of This Competition: $1,000,000.

Estimated Number of Awards: 30.

Estimated Project Period: 2 years.

Faculty Loan Repayment Program (FLRP) *

Application Availability Date: March 1, 2004.

Application Deadline: May 28, 2004.

Projected Award Date: August 28, 2004.

Program Contact Person: Lorraine Evans.

Program Contact Phone: 301-443-0785.

Program Contact E-mail: flrpinfo@hrsa.gov.

Primary Health Care Programs

HRSA-04-028 Radiation Exposure Screening and Education Program (RESEP)

CFDA: 93.257.

Legislative authority: Public Health Service Act, section 417C, 42 U.S.C. 285a-9.

Purpose: The mission of the Radiation Exposure Screening and Education Program (RESEP) is to aid the thousands of individuals adversely affected by the mining, transport and processing of uranium and the testing of nuclear weapons for the Nation's weapons arsenal. This will be accomplished by carrying out programs designed for public education and information; screening eligible individuals for cancer and other related diseases; providing appropriate referrals for medical treatment; and facilitating documentation of claims under the Radiation Exposure Compensation Act.

Eligibility: The following entities are eligible to apply for funding: National Cancer Institute-designated cancer centers; Department of Veterans Affairs hospitals or medical centers; Federally Qualified Health Centers (FQHC), FQHC Look-A-Likes, Community Health Centers, hospitals, agencies of any State or local government that currently provide direct health care services; Indian Health Service (IHS) health care facilities; including programs provided through tribal contracts, compacts, grants, or cooperative agreements with the IHS which are determined appropriate to raising the health status of Indians; and nonprofit organizations. Among the nonprofit organizations eligible to apply are faith-based organizations and community-based organizations.

Review Criteria: Final review criteria are included in the application kit.

Estimated Amount of This Competition: $2,000,000.

Estimated Number of Awards To Be Made: 6.

Estimated Project Period: 1-5 years.

HRSA-04-028 Radiation Exposure Screening and Education Program (RESEP)

Application Availability Date: February 1, 2004.

Application Deadline: April 5, 2004.

Projected Award Date: September 1, 2004.

Program Contact Person: Barbara Bailey.

Program Contact Phone: 301-594-4420.

Program Contact E-mail: bbailey@hrsa.gov.

HRSA-04-029 Integrated Services Development Initiative (ISDI)

CFDA: 93.224.

Legislative Authority: Public Health Service Act, section 330 42 U.S.C. 254b.

Purpose: The purpose of the ISDI is to support the creation and further development of health center controlled networks to ensure access to health care for the medically underserved, including the uninsured and underinsured. Applications will be accepted for the following:

1. Planning activities that will result in the establishment of a network to enhance the operations of collaborating health centers;

2. Development of health center controlled networks to ensure access to health care for the underserved, including the uninsured and underinsured through enhancing the operations of the enhancement of the collaborating health centers through the integration of functions within a core area, e.g., administrative, clinical, managed care, etc. across business and clinical functions among network members;

3. Development of shared integrated management systems (SIMIS) which will provide health centers across a State an opportunity to collaborate, share, and/or integrate functions or components of the systems to facilitate centralized data integration, e.g., common business rules/practices, data structure, practice management software, etc.;

4. Development of information and communication technology (ICT) infrastructure that supports the health disparities collaborative care model and leads to a seamless health care delivery system that is more effective, efficient, patient-family centered and reduce errors; and

5. Implement comprehensive pharmacy service in networks of health centers by adding pharmacy services that will improve clinical outcomes, increase medication safety and reduce health disparities.

Eligibility: Applications for ISDI Planning and Development of Managed Care Network funds are limited to currently funded health centers (section 330(e)). Applications for Planning and Development of Practice Management Networks are limited to currently funded section 330 health centers. Applications for SIMIS and ICT funds are limited to section 330(e) health centers and section 330(m) primary care associations. Applications for implementing comprehensive pharmacy services are limited to current recipients of section 330 grant funds.

Cost Sharing: A cost share of 5 or 10 percent in cash is required for ISDI Planning and/or Development applications respectively.

Review Criteria: Final review criteria are included in the application kit.

Funding Preferences: In selecting applications for funding, preference will be given to approvable applications submitted from sparsely populated areas.

Estimated Amount of This Competition: ISDI Planning $1,000,000; ISDI Development $1,000,000; SIMIS $2,000,000; ICT $3,000,000; Pharmacy $1,500,000

Estimated Number of Awards To Be Made: ISDI Planning up to 6 awards; ISDI Development up to 6 awards; SIMS up to 4 awards; ICT up to 5 awards; Pharmacy up to 8 awards.

Estimated Project Period: 1-5 years.

HRSA-04-029 Integrated Services Development Initiative (ISDI)

Application Availability Date: December 1, 2003.

Application Deadline: April 5, 2004.

Projected Award Date: August 1, 2004.

Program Contact Person: Susan Lumsden.

Program Contact Phone: 301-594-4488.

Program Contact e-mail: SLumsden@hrsa.gov.

HRSA-04-030 Community and Migrant Health Centers (CMHS)

CFDA: 93.224.

Legislative Authority: Public Health Service Act, section 330, 42 U.S.C. 254b.

Purpose: The Community Health Center and Migrant Health Center (C/MHC) programs are designed to promote the development and operation of community-based primary health care service systems in medically underserved areas for medically underserved populations. It is the intent of HRSA to continue to support health services in these areas, given the unmet need inherent in their provision of services to medically underserved populations. It is expected that each application submitted to serve one of these areas will present a clear focus on maintaining access to care and reducing health disparities identified in the target population. In FY 2004, HRSA will be implementing the third year of the President's Initiative to Expand Health Centers to increase access to the Nation's poor and underserved. HRSA will open competition for awards under section 330 of the Public Health Service Act to support health services in the areas served by these grants. One hundred sixty-three C/MHC grantees will reach the end of their project period during FY 2004.

Eligibility: Applicants are limited to currently funded programs whose project periods expire during FY 2004 and new organizations proposing to serve the same areas or populations being served by these existing programs. New organizations eligible to compete to serve one of these areas are public and nonprofit private entities, including faith-based organizations and community-based organizations. In the list of service areas that follows, those shown with an asterisk after the area description are currently being served through interim arrangements. The HRSA is interested in establishing a permanent grantee in each of these areas. Organizations interested in these competitive opportunities are encouraged to contact the listed program officials for more information.

Community/Migrant Health Centers
City | State | Expiration date
Contact: Jack Egan, 301-594-4339
East Boston | MA | 11/30/2003
Boston | MA | 12/31/2003
Roxbury | MA | 1/31/2004
Lynn | MA | 1/31/2004
Boston | MA | 2/29/2004
Boston | MA | 3/31/2004
Dorchester | MA | 3/31/2004
Fitchburg | MA | 3/31/2004
Augusta | ME | 3/31/2004
Lowell | MA | 3/31/2004
Peabody | MA | 3/31/2004
East Hartford | CT | 5/31/2004
Richford | VT | 5/31/2004
New Bedford | MA | 5/31/2004
Littleton | CH | 6/30/2004
Franklin | NH | 6/30/2004
New York | NY | 11/30/2003
Cortland | NY | 11/30/2003
Rochester | NY | 12/31/2003
Ossining | NY | 12/31/2003
Rio Grande | PR | 12/31/2003
Brooklyn | NY | 1/31/2004
New York | NY | 1/31/2004
Perth Amboy | NJ | 2/29/2004
St. Croix | VI | 2/29/2004
St. Thomas | VI | 2/29/2004
Jersey City | NJ | 3/31/2004
Trenton | NJ | 3/31/2004
Patillas | PR | 3/31/2004
Barceloneta | PR | 5/31/2004
Plainfield | NJ | 5/31/2004
Loiza | PR | 5/31/2004
Monsey | NY | 6/30/2004
Jersey City | NJ | 6/30/2004
New Brunswick | NJ | 6/30/2004
Spring Valley | NY | 6/30/2004
Elizabeth | WV | 2/29/2004
Hamlin | WV | 2/29/2004
Washington | DC | 2/29/2004
Dawes | WV | 2/29/2004
Scott Depot | WV | 2/29/2004
Blacksville | WV | 5/31/2004
St. Charles | VA | 5/31/2004
Danville | VA | 6/30/2004
Contact: Jerri Regan, 301-594-4283
Eutaw:
Service Area 1* | AL | 11/30/2003
Service Area 2* | AL | 11/30/2003
Service Area 3* | AL | 11/30/2003
Service Area 4* | AL | 11/30/2003
Service Area 5* | AL | 11/30/2003
Fairfax | SC | 11/30/2003
Chattanooga | TN | 11/30/2003
Manson | NC | 11/30/2003
Louisville | KY | 11/30/2003
Mantachie | MS | 11/30/2003
Savannah | GA | 11/30/2003
Stone Mountain | GA | 12/31/2003
Savannah | TN | 12/31/2003
Wartburg | TN | 12/31/2003
Jacksonville | FL | 12/31/2003
Miami Springs | FL | 1/31/2004
Eutaw | AL | 1/31/2004
Wade | NC | 1/31/2004
Leakesville | MS | 1/31/2004
Lexington | KY | 1/31/2004
Tiptonville | TN | 1/31/2004
Johns Island | SC | 1/31/2004
Gastonia | NC | 2/29/2004
Jacksboro | TN | 2/29/2004
Immokalee | FL (2) | 3/31/2004
Tampa | FL | 3/31/2004
Windsor | NC | 3/31/2004
Byhalia | MS | 3/31/2004
Ashland | MS | 3/31/2004
Tuskegee Institute | AL | 3/31/2004
Atlanta | GA (2) | 5/31/2004
Decatur | GA | 5/31/2004
Wadesboro | NC | 5/31/2004
McKee | KY | 5/31/2004
Ridgeland | SC (2) | 5/31/2004
Trenton | FL | 5/31/2004
Little River | SC | 5/31/2004
Memphis | TN | 5/31/2004
Spartanburg | SC | 6/30/2004
Waycross | GA | 6/30/2004
Wilson | NC | 6/30/2004
Contact: Barbara Bailey, 301-594-4317
Chicago | IL (2) | 11/30/2003
Waukegan | IL | 11/30/2003
East Chicago | IN | 11/30/2003
Cincinnati | OH | 12/31/2003
Oquawka | IL | 12/31/2003
Minneapolis | MN | 12/31/2003
Cincinnati | OH | 12/31/2003
Hillman | MI | 1/31/2004
Pontiac | MI | 2/29/2004
Madison | WI | 2/29/2004
Minneapolis | MN | 2/29/2004
Aurora | IL | 2/29/2004
Flint | MI | 3/31/2004
Indianapolis | IN | 5/31/2004
Wausau | WI | 6/30/2004
Kenosha | WI | 6/30/2004
Springfield | IL | 6/30/2004
Chicago | IL | 6/30/2004
Elgin | IL | 6/30/2004
Contact: Theresa Watkins-Bryant, 301-594-4423
West Memphis | AR | 11/30/2003
Dallas | TX | 11/30/2003
New Orleans | LA | 11/30/2003
Portales | NM | 1/31/2004
Alexandria | LA | 2/29/2004
Mena | AR | 2/29/2004
Tulsa | OK | 3/31/2004
Battiest | OK | 5/31/2004
Richmond | TX | 5/31/2004
Lake Charles | LA | 5/31/2004
Espanola | NM | 5/31/2004
Bryan | TX | 6/30/2004
St. Gabriel | LA | 6/30/2004
Mora | NM | 6/30/2004
Contact: Jerri Regan, 301-594-4283
St. Louis | MO | 1/31/2004
West Plains | MO | 2/29/2004
Wichita | KS | 3/31/2004
Springfield | MO | 5/31/2004
West Burlington | IA | 6/30/2004
Council Bluffs | IA | 6/30/2004
Contact: Barbara Bailey, 301-594-4317
Denver | CO | 12/31/2003
St. George | UT | 2/29/2004
Glenwood Springs | CO | 5/31/2004
Dove Creek | CO | 5/31/2004
Ashland | MT | 6/30/2004
Helena | MT | 6/30/2004
Contact: Theresa Watkins-Bryant, 301-594-4423
Los Angeles:
Service Area 1* | CA | 11/30/2003
Service Area 2* | CA | 11/30/2003
Surprise | AZ (2) | 11/30/2003
San Ysidro | CA | 12/31/2003
Arcata | CA | 12/31/2003
Los Angeles | CA | 12/31/2003
Vista | CA | 02/29/2004
Arboga | CA | 2/29/2004
Guerneville | CA | 2/29/2004
Tulare | CA | 2/29/2004
San Diego | CA | 2/29/2004
Redway | CA | 2/29/2004
Healdsburg | CA | 2/29/2004
San Bernardino | CA | 2/29/2004
Long Beach | CA | 5/31/2004
Nogales | AZ | 5/31/2004
Los Angeles | CA | 5/31/2004
Bieber | CA | 5/31/2004
Santa Rosa | CA | 5/31/2004
Carson City | NV | 5/31/2004
Pago Pago | AS | 5/31/2004
Hana | HI | 6/30/2004
Hilo | HI | 6/30/2004
Honolulu | HI | 6/30/2004
Waimanalo | HI | 6/30/2004
West Covina | CA | 6/30/2004
Borrego Springs | CA | 6/30/2004
Campo | CA | 6/30/2004
Gualala | CA | 6/30/2004
Escondido | CA | 6/30/2004
San Pablo | CA | 6/30/2004
Contact: Barbara Bailey, 301-594-4317
Hood River | OR (2) | 1/31/2004
Bonners Ferry | ID | 2/29/2004
Astoria | OR | 2/29/2004
Prineville | OR | 5/31/2004
Everett | WA | 6/30/2004
Talkeetna | AK | 6/30/2004
Roseburg | OR | 6/30/2004
Nome | AK | 8/31/2004
Anchorage | AK (3) | 8/31/2004
Juneau | AK | 8/31/2004
Naknek | AK | 8/31/2004
Unalaska | AK | 8/31/2004
Fairbanks | AK | 8/31/2004
Seldovia | AK | 8/31/2004
Fort Yukon | AK | 8/31/2004
Bethel | AK | 8/31/2004
Kotzebue | AK | 8/31/2004
Dillingham | AK | 8/31/2004

Review Criteria: Final review criteria are included in the application kit.

Special Considerations: Communication with program staff is essential for interested parties in deciding whether to pursue federal funding as a C/MHC. Technical assistance and detailed information about each service area, such as census tracts, can be obtained from the program staff shown for each geographical area.

Estimated Amount of This Competition: $234,000,000.

Estimated Number of Awards To Be Made: 180.

Estimated Project Period: 3 to 5 years.

HRSA-04-030 Community and Migrant Health Centers (CMHS)

Application Availability Date: September 2, 2003.

Application Deadline: Applications for areas with expiring project period end dates of October 31, 2003, November 30, 2003, December 31, 2003, January 31, 2004, February 29, 2004, March 31, 2004, May 31, 2004, or June 30, 2004 are due December 1, 2003. Applications for areas with expiring project period end date of August 31, 2004, are due May 3, 2004.

Projected Award Date: Varies.

Program Contact Person: Preeti Kanodia.

Program Contact Phone: 301-594-4300.

Program Contact E-mail: pkanodia@hrsa.gov.

HRSA-04-031 Health Care for the Homeless (HCH)

CFDA: 93.224.

Legislative Authority: Public Health Service Act, Section 330, 42 U.S.C. 254b.

Purpose: The Health Care for the Homeless (HCH) program is designed to increase the access of homeless populations to cost-effective, case managed, and integrated primary care and substance abuse services provided by existing community-based programs/providers. It is expected that each application submitted to serve an identified homeless population will present a clear focus on maintaining access to care and reducing health disparities identified in the target population by proposing a comprehensive health care and social services program. It is the intent of HRSA to continue to support health services to the homeless people in these areas/locations given the continued need for cost-effective, community-based primary care services. Twenty-four HCH grantees will reach the end of their project period during FY 2004.

Eligibility: Applicants are limited to currently funded programs whose project periods expire during FY 2004 and new organizations proposing to serve the same areas or populations being served by these existing programs. New organizations eligible to compete to serve one of these areas are public and nonprofit private entities, including faith-based organizations and community-based organizations.

Health Care for the Homeless
City | State | Expiration date
Contact: Jack Egan, 301-594-4339
New York | NY | 10/31/2003
Rochester | NY | 10/31/2003
Manhattan | NY | 10/31/2003
White Plains | NY | 11/30/2003
Trenton | NJ | 3/31/2004
Jersey City | NJ | 3/31/2004
Contact: Jerri Regan, 301-594-4283
Orlando | FL | 10/31/2003
Hazard | KY | 10/31/2003
Ft. Lauderdale | FL | 10/31/2003
Clearwater | FL | 10/31/2003
Jacksonville | FL | 10/31/2003
Nashville | TN | 10/31/2003
Lexington | KY | 1/31/2004
Tampa | FL | 3/31/2004
Little River | SC | 5/31/2004
Contact: Barbara Bailey, 301-594-4317
Dayton | OH | 10/31/2003
Cincinnati | OH | 12/31/2003
Contact: Theresa Watkins-Bryant, 301-594-4423
Dallas | TX | 10/31/2003
New Orleans | LA | 10/31/2003
Tulsa | OK | 3/31/2004
Contact: Jerri Regan, 301-594-4283
St. Louis | MO | 1/31/2004 | Wichita | KS | 3/31/2004
Contact: Theresa Watkins-Bryant, 301-594-4423
Carson City | NV | 5/31/2004
Contact: Barbara Bailey, 301-594-4317
Everett | WA | 6/30/2004

Review Criteria: Final review criteria are included in the application kit.

Special Considerations: Communication with program staff is essential for interested parties in deciding whether to pursue Federal funding as a HCH. Technical assistance and detailed information about each service area, such as census tracts, can be obtained by contacting the program staff shown for each geographical area.

Estimated Amount of This Competition: $12,000,000.

Estimated Number of Awards To Be Made: 24.

Estimated Project Period: 1-5 years.

HRSA-04-031 Health Care for the Homeless (HCH)

Application Availability Date: September 1, 2003.

Application Deadline: Applications for areas with expiring project period end dates of October 31, 2003, November 30, 2003, December 31, 2003, January 31, 2004, February 29, 2004, March 31, 2004, May 31, 2004, or June 30, 2004, are due December 1, 2003. Applications for areas with expiring project period end date of August 31, 2004, are due May 3, 2004.

Projected Award Date: Varies.

Program Contact Person: Preeti Kanodia.

Program Contact Phone: 301-594-4300.

Program Contact E-mail: pkanodia@hrsa.gov.

HRSA-04-032 Public Housing Primary Care (PHPC)

CFDA: 93.224.

Legislative Authority: Public Health Service Act, Section 330, 42 U.S.C. 254b.

Purpose: The mission of the Public Housing Primary Care (PHPC) program is to increase access to comprehensive primary and preventive health care and to improve the physical, mental, and economic well-being of public housing residents. The three priorities for promoting access to primary care and improving the well being of residents of public housing are: resident involvement and participation in program development and implementation; innovative service delivery systems that address the special health needs of public housing residents; and collaboration with other health, education and community-based organizations. It is expected that each application to serve an identified population of residents of public housing will present a clear focus on maintaining access to care and reducing health disparities identified in the target population. It is the intent of HRSA to continue to support health services to public housing residents in these areas/locations given the continued need for cost-effective, community-based primary care services. Six PHPC grantees will reach the end of their project period during FY 2004.

Eligibility: Applicants are limited to currently funded programs whose project periods expire in FY 2004 and new organizations proposing to serve the same areas or populations being served by these existing programs. New organizations eligible to compete to serve one of these areas are public and nonprofit private entities, including faith-based organizations and community-based organizations. In the list of service areas that follows, those shown with an asterisk after the area description are currently being served through interim arrangements. The HRSA is interested in establishing a permanent grantee in each of these areas. Organizations interested in these competitive opportunities are encouraged to contact the listed program officials for more information.

Public Housing Primary Care
City | State | Expiration date
Contact: Jack Egan, 301-594-4339
Roxbury | MA | 1/31/2004
Pittsburgh | PA | 8/31/2004
Contact: Jerri Regan, 301-594-4283
Savannah | GA | 11/30/2003 | Marietta | GA | 08/31/2004
Contact: Barbara Bailey, 301-594-4317
Chicago | IL | 11/30/2003 | Chicago | IL | 06/30/2004
Contact: Jerri Regan, 301-594-4283
St. Louis | MO | 01/31/2004
Contact: Theresa Watkins-Bryant, 301-594-4423
Los Angeles* | CA | 11/30/2003

Review Criteria: Final review criteria are included in the application kit.

Special Considerations: Communication with program staff is essential for interested parties in deciding whether to pursue Federal funding as a PHPC. Technical assistance and detailed information about each service area, such as census tracts, can be obtained by contacting the program staff shown for each geographical area.

Estimated Amount of This Competition: $2,700,000.

Estimated Number of Awards To Be Made: 6.

Estimated Project Period: 1-5 years.

HRSA-04-032 Public Housing Primary Care (PHPC)

Application Availability Date: September 1, 2003.

Application Deadline: Applications for areas with expiring project period end dates of October 31, 2003, November 30, 2003, December 31, 2003, January 31, 2004, February 29, 2004, March 31, 2004, May 31, 2004, or June 30, 2004 are due December 1, 2003. Applications for areas with expiring project period end date August 31, 2004, are due May 3, 2004.

Projected Award Date: Varies.

Program Contact Person: Preeti Kanodia.

Program Contact Phone: 301-594-4300.

Program Contact E-mail: pkanodia@hrsa.gov.

HRSA-04-033 School Based Health Centers (SBHC)

CFDA: 93.224

Legislative Authority: Public Health Service Act, Section 330, 42 U.S.C. 254b.

Purpose: The purpose of the School Based Health Centers (SBHC) is to increase access to comprehensive primary and preventive health care to underserved children, adolescents and families. The SBHC provide comprehensive primary and preventive health care services including mental health, oral health, ancillary, and enabling services in the school or on school grounds on a full-time basis. These services are culturally sensitive, family oriented, and tailored to meet the health care needs of youth, adolescents and the community. The array of services provided on-site is determined locally by school principals, school boards, parents and providers, and referral arrangements are provided for services not available on-site. No SBHC services are provided without fully informed parental consent. Each SBHC supports educational efforts by making sure that children are ready to learn through an integrated system providing continuity of care, and assuring after hours and year-round coverage. It is expected that each application submitted to serve a school-based population presents a clear focus on maintaining access to care and reducing health disparities identified in the target population. It is the intent of HRSA to continue to support health services for these populations in the areas served by these grantees. Sixteen SBHC grantees will reach the end of their project period during FY 2004.

Eligibility: Applicants are limited to currently funded programs whose project periods expire during FY 2004 and new organizations proposing to serve the same areas or populations being served by these existing programs. New organizations eligible to compete to serve one of these areas are public and nonprofit private entities, including faith-based organizations and community-based organizations.

School Based Health Centers
City | State | Expiration date
Contact: Jack Egan, 301-594-4339
Lynn | MA | 1/31/2004
Lowell | MA | 3/31/2004
St. Croix | VI | 2/29/2004
Plainfield | NJ | 5/31/2004
Baltimore | MD | 6/30/2004
Contact: Jerri Regan, 301-594-4283
Lexington | KY | 1/31/2004
Ridgeland | SC | 5/31/2004
Atlanta | GA | 6/30/2004
Contact: Barbara Bailey, 301-594-4317
Chicago | IL | 11/30/2003
Indianapolis | IN | 6/30/2004
Denver | CO | 12/31/2003
Contact: Theresa Watkins-Bryant, 301-594-4423
Surprise | AZ | 11/30/2003
Green Valley | AZ | 1/31/2004
Long Beach | CA | 5/31/2004
San Bernardino | CA | 6/30/2004
San Jose | CA | 6/30/2004

Review Criteria: Final review criteria are included in the application kit.

Special Considerations: Communication with program staff is essential for interested parties in deciding whether to pursue Federal funding as a HSHC. Technical assistance and detailed information about each service area, such as census tracts, can be obtained by contacting the program staff shown for each geographical area.

Estimated Amount of This Competition: $4,000,000.

Estimated Number of Awards To Be Made: 16.

Estimated Project Period: 1-5 years.

HRSA-04-033 School Based Health Centers (SBHC)

Application Availability Date: September 1, 2003.

Application Deadline: Applications for areas with expiring project period end dates of October 31, 2003, November 30, 2003, December 31, 2003, January 31, 2004, February 29, 2004, March 31, 2004, May 31, 2004, or June 30, 2004 are due December 1, 2003. Applications for areas with expiring project period end date of August 31, 2004, are due May 3, 2004.

Projected Award Date: Varies.

Program Contact Person: Preeti Kanodia.

Program Contact Phone: 301-594-4300.

Program Contact E-mail: pkanodia@hrsa.gov.

HRSA-04-034 New Delivery Sites and New Starts in Programs Funded Under the Health Centers Consolidation Act (NDSCS)

CFDA: 93.224.

Legislative Authority: Public Health Service Act, Section 330, 42 U.S.C. 254b.

Purpose: The purpose of this activity is to support the establishment of new service delivery sites in each of the Health Center programs funded under Section 330 of the Public Health Service Act. Each application for support to establish a new site must identify a population in need of primary health care services, and propose a specific plan to increase access to care and reduce disparities identified in the population or community to be served. This activity is the lead in fulfilling the President's multi-year Initiative to Expand Health Centers to bring much needed primary health care services to the Nation's neediest communities. In FY 2004, the establishment of new delivery sites under this program will be in the third year of a five-year initiative. The purpose of the Health Center program is to extend comprehensive primary and preventive health services (including mental health, substance abuse and oral health services) and supplemental services to populations currently without access to such services, and to improve their health status. The programs under this activity include: (1) Community Health Centers, section 330(e); (2) Migrant Health Centers, section 330(g); (3) Health Care for the Homeless program, section 330 (h); (4) Public Housing Primary Care, section 330(i); and (5) School Based Health Centers, section 330. The population served by these programs are: (1) Medically underserved populations in urban and rural areas; (2) migratory and seasonal agricultural workers and their families; (3) homeless people, including children and families; (4) residents of publicly subsidized housing; and (5) medically underserved school students (K-12), their families, and medically underserved populations surrounding the school.

Eligibility: Public and nonprofit private entities, including faith-based organizations and community-based organizations, are eligible to apply.

Review Criteria: Final review criteria are included in the application kit.

Funding Preferences: In selecting applications for funding, preference will be given to approvable applications submitted from sparsely populated areas.

Special Considerations: Communities seeking support are strongly encouraged to promote and seek outside funding and are required to maximize third party revenue to establish and maintain new service delivery areas.

Estimated Amount of This Competition: $56,000,000.

Estimated Number of Awards To Be Made: 94.

Estimated Project Period: 3 years.

HRSA-04-034 New Delivery Sites and New Starts in Programs Funded Under the Health Centers Consolidation Act (NDSCS)

Application Availability Date: October 1, 2003.

Application Deadline: December 1, 2003 and May 17, 2004.

Projected Award Date: Varies.

Program Contact Person: Tonya Bowers.

Program Contact Phone: 301-594-4300.

Program Contact E-Mail: tbowers@hrsa.gov.

HRSA-04-035 Increase in Medical Capacity in Programs Funded Under the Health Care Consolidation Act of 1996 (IMCHC)

CFDA: 93.224.

Legislative Authority: Public Health Service Act, Section 330, 42 U.S.C. 254b.

Purpose: FY 2004 marks the third year of the President's multi-year plan to serve more of the Nation's neediest communities through significantly expanded health center access points. The HRSA is committed to improving and expanding access to health care for the underserved and to pledging new funding to strengthen the health care safety net through each of the Health Center programs funded under section 330 of the Public Health Service Act. Health centers extend preventive and primary health care services to populations currently without such services and improve the health status of medically underserved individuals. One way of achieving these goals and reaching new users of health centers is to approve funding increases for existing health center grantees that provide a plan for achieving increased medical capacity within their current service area. The programs included under this activity include: (1) Community Health Centers, section 330(e); (2) Migrant Health Centers, section 330(g); (3) Health Care for the Homeless; section 330(h); (4) Public Housing Primary Care, section 330(i); and (5) School Based Health Centers, section 330. The populations served by these programs are: (1) Medically underserved populations in urban and rural areas; (2) migratory and seasonal agricultural workers and their families; (3) homeless people, including children and families; (4) residents of publicly subsidized housing, and (5) medically underserved students in grades K through 12, their families, and medically underserved populations surrounding the school.

Eligibility: Applicants are limited to currently funded health center programs (i.e., those organizations funded under section 330).

Review Criteria: Final review criteria are included in the application kit.

Funding Preferences: In selecting applications for funding, preference will be given to approvable applications submitted from sparsely populated areas.

Estimated Amount of This Competition: $42,000,000.

Estimated Number of Awards To Be Made: 94.

Estimated Project Period: 1-5 years.

HRSA-04-035 Increase in Medical Capacity in Programs Funded Under the Health Care Consolidation Act of 1996 (IMCHC)

Application Availability Date: December 1, 2003.

Application Deadline: February 2, 2004.

Projected Award Date: June 30, 2004.

Program Contact Person: Joe Fitzmaurice.

Program Contact Phone: 301-594-4300.

Program Contact E-Mail: JFitzmaurice@hrsa.gov.

HRSA-04-036 National Health Center Technical Assistance Cooperative Agreement (NAT)

CFDA: 93.224.

Legislative Authority: Public Health Service Act, Title III, Section 330(m), 42 U.S.C. 254b(m).

Purpose: The purpose of the funding for National Health Center Technical Assistance Cooperative Agreements is to support and expand Primary Care Association's capacity to address the following three strategies:

1. Strengthening and expanding existing health center grantees;

2. Creating new access points; and

3. Improving health status outcomes of persons served in BPHC-supported programs.

Federal Involvement: The scope of Federal involvement is included in the application kit.

Eligibility: Public and private nonprofit entities, including faith-based organizations and community-based organizations, as well as for-profit entities, are eligible to apply.

Estimated Amount of This Competition: $8,000,000.

Estimated Number of Awards To Be Made: 4.

Estimated Project Period: 3 years.

HRSA-04-036 National Health Center Technical Assistance Cooperative Agreement (NAT)

Application Availability Date: February 1, 2004.

Application Deadline: April 5, 2004.

Projected Award Date: August 1, 2004.

Program Contact Person: Cephas Goldman.

Program Contact Phone: 301-594-4488.

Program Contact E-Mail: cgoldman@hrsa.gov.

HRSA-04-037 Increase in Mental Health and Substance Abuse, Oral Health, and Care Management, in Programs Funded Under the Health Centers Consolidation Act of 1996 (IMHSA)

CFDA: 93.224.

Legislative Authority: Public Health Service Act, Section 330, 42 U.S.C. 254b.

Purpose: Access to mental health and substance abuse (MH/SA), and oral health is critical to ensuring the overall health and well being of the populations served by health centers and reducing disparities in health center populations being served. In addition, sustaining and spreading the care and improvement models implemented through the Health Disparities Collaborative is enhanced by expanded care management capacity. As part of the President's multi-year plan to impact 1,200 of the Nation's neediest communities, the HRSA will continue to expand access to essential health care services and to support practice improvement through a targeted approach to care management.

The availability of MH/SA, oral health and care management services will enhance the ability of health centers to provide basic primary care result in an increase in users at existing grantee sites, and continue to improve the health status of persons served. Applicants for this funding opportunity are expected to: (1) Describe the target population and its need for MH/SA, oral health, or care management services; (2) present a service delivery plan that demonstrates responsiveness to the identified needs of the target population; and (3) present a sound business plan that links the goals and objectives from the service delivery plan to the budget. The programs included under this activity include: (1) Community Health Centers, section 330(e); (2) Migrant Health Centers, section 330 (g); (3) Health Care for the Homeless, section 330(h); (4) Public Housing Primary Care, section 330(i); and (5) School Based Health Centers, section 330. The populations served by these programs are: (1) Medically underserved populations in urban and rural areas; (2) migratory and seasonal agricultural workers and their families; (3) homeless people, including children and families; (4) residents of publicly subsidized housing; and (5) medically underserved students in grades K through 12, their families, and medically underserved populations surrounding the school.

Eligibility: Applicants are limited to currently funded health center programs (i.e., those organizations funded under section 330).

Review Criteria: Final review criteria are included in the application kit.

Funding Preferences: In selecting applications for funding, preference will be given to approvable applications submitted from sparsely populated areas.

Estimated Amount of This Competition: $19,000,000.

Estimated Number of Awards To Be Made: 125.

Estimated Project Period: 1-5 years.

HRSA-04-037 Increase in Mental Health and Substance Abuse, Oral Health, and Care Management, in Programs Funded Under the Health Centers Consolidation Act of 1996 (IMHSA)

Application Availability Date: November 1, 2003.

Application Deadline: January 5, 2004.

Projected Award Date: May 31, 2004.

Program Contact Person: Lisa Dolan-Branton.

Program Contact Phone: 301-594-4300.

Program Contact E-Mail: LDolan@hrsa.gov.

HRSA-04-038 Healthy Communities Access Program (HCAP) *

CFDA: 93.252.

Legislative Authority: Public Health Service Act, Section 340, 42 U.S.C. 256.

Purpose: The purpose of the Healthy Community Access Program (HCAP) is to provide assistance to communities and consortia of health care providers and others to develop or strengthen integrated community health care delivery systems that coordinate health care services for individuals who are uninsured or underinsured, and to develop or strengthen activities related to providing coordinated care for individuals with chronic conditions who are uninsured or underinsured.

* This program is not included in the President's budget for FY 2004. Potential applicants should consider this announcement provisional until final Congressional action on appropriations is taken. Updated information on Congressional action on appropriations will be available on the HRSA Web site.

Eligibility: Indian Tribes or Tribal organizations, faith-based and community-based organizations are encouraged to apply. For an entity to be eligible to receive a new HCAP award, the following requirements must be met:

1. The applicant entity must represent a consortium whose principal purpose is to provide a broad range of coordinated health care services to their defined community's uninsured and underinsured populations.

2. The community-wide consortium represented by the applicant entity must include at least one of each of the following providers that serve the state community, unless such provider does not exist, declines or refuses to participate, or places unreasonable conditions on its participation:

• A Federally qualified health center (as defined in section 186(aa) of the Social Security Act (42 U.S.C. 1395x(aa));

• A hospital with a low-income utilization rate (as defined in section 1923(b)(3) of the Social Security Act (42 U.S.C. 1396r-4(b)(3)), that is greater than 25 percent;

• A public health department; and

• An interested public or private sector health care provider or an organization that has traditionally served the medically uninsured or underserved.

• 3. The applicant is neither a current nor former Community Access Program (CAP) grantee and is proposing to serve a community of uninsured or underinsured individuals that have never been served by a CAP grant.

Review Criteria: Final review criteria are included in the application kit.

Funding Preferences: In selecting applications for funding, a preference will be given to applicants that demonstrate the extent of unmet need in the community involved for a more coordinated system of care as provided through evidence in their “Community System Needs Assessment”.

Estimated Amount of this Competition: $20,000,000.

Estimated Number of Awards to be Made: 35.

Estimated Project Period: Up to 3 years.

HRSA-04-038 Healthy Communities Access Program (HCAP) *

Application Availability Date: February 1, 2004.

Application Deadline: April 5, 2004.

Projected Award Date: September 1, 2004.

Program Contact Person: Susan Lumsden.

Program Contact Phone: 301-594-4420.

Program Contact E-Mail: SLumsden@hrsa.gov.

HRSA-04-039 Black Lung Clinics Program (BLCP)

CFDA: 93.965.

Legislative Authority: The Black Lung Benefits Reform Act of 1977, Section 427(a), 30 U.S.C. 937(a)

Purpose: The primary purpose of the Black Lung Clinics grant program is to provide treatment and rehabilitation for Black Lung patients and others with occupationally related pulmonary diseases. In addition, individual grantee programs are expected to include case finding and outreach, preventive and health promotion services, education for patients and their families, and testing to determine eligibility for Department of Labor or State benefits. Although the number of active coal miners has decreased substantially because of mechanization, there has been an increase in the number of retired coal miners with the disease and in the number of pulmonary patients from other occupations. A current objective of the program is to expand outreach so that more of the eligible population is made aware of the services offered by the grantee clinics.

Eligibility: Applicants are limited to currently funded programs whose project periods expire during FY 2004 and new organizations proposing to serve the same areas or populations being served by these existing programs.

Black Lung Clinics Program
City | State | Expiration Date
Contact: Jack Egan, 301-594-4339
Altoona | PA | 6/30/2004 | Washington | PA | 6/30/2004
Contact: Barbara Bailey, 301-594-4317
Denver | CO | 6/30/2004

Review Criteria: Final review criteria are included in the application kit.

Funding Preferences: In selecting applications for funding, preference will be given to applicants that are State entities who meet the legislative requirements of the Federal Mine and Safety Act of 1977 as amended by the Black Lung Benefits Reform Act of 1977.

Estimated Amount of This Competition: $1,000,000.

Estimated Number of Awards: 3.

Estimated Project Period: 1-5 years.

HRSA-04-039 Black Lung Clinics Program (BLCP)

Application Availability Date: January 1, 2004.

Application Deadline: March 1, 2004.

Projected Award Date: July 1, 2004.

Program Contact Person: Jack Egan.

Program Contact Phone: 301-594-4420.

Program Contact E-Mail: jegan@hrsa.gov.

HRSA-04-040 State Primary Care Associations Supplemental Funding for Managing Health Center Growth and Quality (PCA) *

CFDA: 93.129.

Legislative Authority: Public Health Service Act, Title III, Section 330, 42 U.S.C. 254b.

Purpose: The HRSA announces an opportunity for existing Primary Care Associations (PCAs) to apply for supplemental funding to advance the goals of the President's initiative to expand health centers. The purpose of the funding is to support and expand the PCAs capacity to address the following three strategies: (1) Strengthening and expanding existing health center grantees; (2) creating new access points; and (3) improving health status outcomes and reducing disparities through evidence-based quality care and quality improvement in all HRSA-supported programs. Each proposed activity must be clearly linked to strengthening health centers' ability to contribute to the President's Initiative.

Eligibility: Applicants are limited to currently funded PCAs.

Review Criteria: Final review criteria are included in the application kit.

Estimated Amount of This Competition: $3,000,000.

Estimated Number of Awards To Be Made: 25.

Estimated Project Period: 1-5 years.

HRSA-04-040 State Primary Care Associations Supplemental Funding for Managing Health Center Growth and Quality (PCA)

Application Availability Date: November 1, 2003.

Application Deadline: January 5, 2004.

Projected Award Date: April 1, 2004.

Program Contact Person: Cephas Goldman.

Program Contact Phone: 301-594-4488.

Program Contact E-Mail: cgoldman@hrsa.gov.

HRSA-04-041 Operational Health Center Networks (OHCN) *

CFDA: 93.224.

Legislative Authority: Public Health Service Act, Section 330(e)(1)(C).

Purpose: Operational Health Center Networks (OHCN) support health centers that receive assistance under section 330, or at the request of the health centers, directly to a managed care or practice management network or plan that is at least majority controlled and, as applicable, at least majority owned by such health centers receiving assistance under section 330 for the costs associated with the operation of such network or plan, including the purchase or lease of equipment (including the costs of amortizing the principal of, and paying the interest on, loans for equipment). Operational networks are defined as a group of three or more health centers that can demonstrate that an essential, mission-critical function is performed at the network level for the network members, enabling the member centers to perform their business and clinical operations more efficiently and effectively.

Eligibility: The following entities are eligible to apply for funding under this announcement:

(1) A health center, as defined and funded under section 330 of the Public Health Service Act, acting on behalf of the member health centers and the network;

(a) A health center applying on behalf of a managed care network or plan must have received Federal grants under subsection (e)(1)(A) of section 330 for at least two consecutive preceding years;

(b) A health center (Community Health Center, Migrant Health Center, Health Care for the Homeless, Public Housing Primary Care and School Based Health Centers) applying on behalf of a practice management network must have received Federal grants under section 330 for at least two consecutive years;

(c) Eligibility is limited to public and non-profit organizations; or

(2) Operational networks, controlled by and acting on behalf of the health center(s) as defined and funded under section 330 of the Public Health Service Act. At the request of all the member health centers, a network may apply for direct funds if it is at least majority controlled and, as applicable, at least majority owned, by such health centers.

Matching or Cost Sharing Requirement: Grantees must provide at least 60 percent of the total approved cost of the project. The total approved cost of the project is the sum of the HRSA share and the non-Federal share. Applicants must demonstrate that at least 30 percent of the cost-sharing requirement is met through cash contributions. The remaining non-Federal share may be met by cash or in kind contributions.

Review Criteria: Final review criteria are included in the Application kit.

Funding Preference: A funding preference will be given to applicants proposing to serve sparsely populated rural or frontier areas.

Estimated Amount of This Competition: $2,100,000.

Estimated Number of Awards To Be Made: 5-7 Awards.

Estimated Project Period: 3 years.

HRSA-04-041 Operational Health Center Networks (OHCN)

Application Availability Date: November 1, 2003.

Application Deadline: March 8, 2004.

Projected Award Date: August 1, 2004.

Program Contact Person: Susan Lumsden.

Program Contact Phone: 301-594-4472.

Program Contact E-Mail: Slumsden@hrsa.gov.

HIV/AIDS Programs

HRSA-04-042 Special Projects of National Significance (SPNS)

CFDA: 93.928.

Legislative Authority: Public Health Service Act, Section 2691; 42U.S.C. 300ff-101.

Purpose: The purpose of this program is to fund Demonstration Models of Outreach, Care, and Prevention Engaging Young HIV Seropositive Men of Color. In the United States, the predominant mode of transmission of HIV remains men who have sex with men (MSM). Over half of new AIDS cases reported among men who have sex with men occur in young men of color.

This funding initiative will support 4-5 projects targeting young (ages 13-24), HIV seropositive MSM of color. The funding start date and duration of this initiative will be the same for both the Evaluation Center and the demonstration projects.

The purpose of this initiative is to support the development and evaluation of innovative service models designed to reach young, HIV seropositive MSM of color not engaged in clinical care and link them to appropriate clinical, supportive, and preventive services. The specific objectives of this initiative are to: (1) Conduct outreach, (2) conduct HIV counseling and testing, (3) link HIV-infected persons with primary care services, and (4) prevent transmission of HIV infection from HIV positive men to others, among young MSM of color. The Evaluation Center will evaluate model effectiveness in reaching and engaging HIV seropositive young MSM in clinical, supportive, and preventive services. The Center will also support the replication of effective models.

Eligibility: Eligible applicants are public and private nonprofit entities, including faith-based and community-based organizations. Existing HIV clinical entities that collaborate with faith-based and community-based organizations are also eligible to apply.

Review Criteria: Final review criteria are included in the application kit.

Funding Preferences: In awarding these grants, preference will be given to applicants whose primary mission includes serving the target population for this initiative.

Estimated Amount of This Competition: $2,000,000.

Estimated Number of Awards: 5.

Estimated Project Period: 5 years.

HRSA-04-042 Special Projects of National Significance (SPNS)

Application Availability Date: January 16, 2004.

Letter of Intent Deadline: February 13, 2004.

Application Deadline: March 22, 2004.

Projected Award Date: September 1, 2004.

Program Contact Person: Pamela Belton.

Program Contact Phone: 301-443-9976.

Program Contact E-Mail: pbelton@hrsa.gov.

HRSA-04-043 Title III: Early Intervention Services Capacity Development Grants (EISCDG)

CFDA: 93.918.

Legislative Authority: Public Health Service Act, Section 2654(c), 42 U.S.C. 300ff-54(c).

Purpose: The purpose of this grant program is to support eligible entities in their planning efforts to strengthen their organizational infrastructure and enhance their capacity to develop, enhance or expand high quality HIV primary health care services in (1) Rural or (2) urban underserved areas and (3) communities of color. The applicant must propose capacity building activities that develop, enhance, or expand a comprehensive continuum of outpatient HIV primary care services in their community through the applicant agency. Capacity building grant funds are intended for a fixed period of time (one to three years) and not for long-term activities. Grants will not exceed $150,000 per successful applicant.

Eligibility: Eligible applicants must be public or private non-profit agencies. Faith-based and community-based organizations are eligible to apply.

Review Criteria: Final review criteria are included in the Application kit.

Funding Preferences: Congress has directed HRSA, in appropriating Minority AIDS Initiative funds, to provide Services to communities of color. Consequently, in Awarding these Grants, preference will be given to applicants seeking funds that are located in or near the community(ies) of color they are intending to serve.

Estimated Amount of this Competition: $1,700,000.

Estimated Number of Awards: 12.

Estimated Project Period: Up to 3 years.

HRSA-04-043 Title III: Early Intervention Services Capacity Development Grants (EISCDG)

Application Availability Date: January 5, 2003.

Application Deadline: March 5, 2004.

Projected Award Date: August 1, 2004.

Program Contact Person: Wayne Sauseda.

Program Contact Phone: 301-443-0493.

Program Contact E-Mail: wsauseda@hrsa.gov.

HRSA-04-044 National HIV Training and Technical Assistance Cooperative Agreements (NHIV)

CFDA: 93.145.

Legislative Authority: Public Health Service Act, Section 2692 of the [Title 42, U.S.C. 300ff-III] as amended by Pub. L. 106-345 of the Ryan White CARE Act Amendments of 2000.

Purpose: The goal of this Cooperative Agreement is to assist people working with Ryan White CARE Act funded programs, and other programs with an interest in HIV/AIDS, to understand and put into action the requirements of the CARE Act and research based best practices for high quality, comprehensive HIV primary care and support service delivery to people living with HIV/AIDS. The Cooperative Agreement will transfer knowledge and provide practical help to a diverse group of organizations and individuals, including administrative and direct service staff of State/local AIDS programs, State/local health departments, CARE Act grantees and their subcontractors, other AIDS service organizations, community based organizations and faith-based organizations; members of CARE Act planning bodies; and consumers. Cooperative Agreement recipients will build upon the lessons learned from other training, technical assistance and capacity building efforts sponsored by the HIV/AIDS Bureau and work to address needs not fulfilled by existing efforts.

Federal Involvement: The scope of the federal involvement is included in the application kit.

Eligibility: National, regional and local non-profit organizations involved in addressing HIV/AIDS related issues. Applicants must have a history of developing and disseminating informational materials and providing training and technical assistance, to HIV/AIDS related organizations within the past three years. Community-based and faith-based organizations are eligible to apply.

Review Criteria: Review criteria include evaluating applicants whose staff assigned to the project have the following characteristics:—Experience managing large technical assistance programs;—Experience working with organizations providing HIV/AIDS primary care, treatment and support services and people living with HIV/AIDS;—Knowledge of the challenges faced by organizations providing care, treatment and support services to people living with HIV/AIDS; —Knowledge of regulatory, financing, managerial and clinical aspects of the HIV service delivery system and the larger health care delivery system; and —An organizational mission that includes a commitment to addressing the needs of community based organizations providing HIV-related services in communities severely impacted by HIV. Final review criteria are included in the application kit.

Funding Priorities: Priority will be given to applicants who demonstrate significant experience working with populations targeted by this initiative.

Estimated Amount of this Competition: $1,350,000.

Estimated Number of Awards: 5.

Estimated Project Period: 3 years.

HRSA-04-044 National HIV Training and Technical Assistance Cooperative Agreements (NHIV)

Application Availability Date: October 17, 2003.

Letter of Intent Deadline: November 15, 2003.

Application Deadline: December 19, 2003.

projected Award Date: September 1, 2004.

Program Contact Person: Angela Powell.

Program Contact Phone: 301-443-5761.

Program Contact E-Mail: apowell@hrsa.gov.

HRSA-04-046 Telehealth Resource Centers Cooperative Agreement Program (TRCCP)

CFDA: 93.211.

Legislative Authority: The Public Health Services Act, Section 330I. The Health Care Safety Net Amendments of 2002 (Public Law 107-251) amended the Public Health Service Act by adding Section 330I.

Purpose: The purpose of the Telehealth Resource Centers Cooperative Agreements Program is to establish regional resource centers which will provide services to past and existing office for the Advancement of Telehealth (OAT) grantees and other institutions in need of Technical Assistance in order to refine or create new telehealth programs. Working in close collaboration with OAT, the Resource Centers will develop an array of services. Resource Center services will include: providing Technical assistance, training, and support for health care providers and a range of health care entities that currently provide or seeking to provide telehealth services; disseminating information, research findings and best practices related to the field of telehealth; promoting effective collaboration among telehealth care providers in their region; conducting evaluations to determine the best utilization of telehealth technologies to meet our nation's health care needs; fostering the use of telehealth technologies to provide health care information and education for health care providers and consumers in a more effective manner; and implementing special projects or studies under the direction of the OAT.

Federal Involvement: The scope of Federal involvement is included in the Application kit.

Eligibility: Public or private non-profit agencies. Faith-based and community-based organizations are eligible to apply.

Review Criteria: Final Review Criteria will be included in the application kit.

Funding Preferences: As stated in the Legislative Authority, preference will be given to an eligible entity that meets at least 1 of the following requirements:

A. Provision of services—The eligible entity has a record of success in the provision of telehealth services to medically underserved areas or medically underserved populations; B. Collaboration and sharing of expertise—The eligible entity has a demonstrated record of collaborating and sharing expertise with providers of telehealth services at the national, regional, State, and local levels; C. Broad range of telehealth services—The eligible entity has a record of providing a broad range of telehealth services, which may include—(i) A variety of clinical specialty services; (ii) patient or family education; (iii) health care professional education; (iv) rural residency support programs; and (v) informatics. In addition to providing technical assistance in their region, each grant will serve as a national resource that brings together the lessons learned from throughout the nation in at least two of the following areas: (i) Telehealth program evaluation; (ii) technology assessment; (iii) training, marketing, and information dissemination; (iv) telehealth program operations.

Estimated Amount of This Competition: $500,000.

Estimated Number of Awards: 2.

Estimated Project Period: up to three (3) years.

HRSA-04-046 Telehealth Resource Centers Cooperative Agreement Program (TRCCP)

Application Availability Date: December 15, 2003.

Application Deadline: March 22, 2004.

Projected Award Date: September 1, 2004.

Program Contact Person: Luigi S. Procopio.

Program Contact Phone: (301) 443-0262.

Program Contact E-Mail: Lprocopio@hrsa.gov.

HRSA-04-047 Title IV: Grants for Coordinated HIV Services and Access to Research for Women, Infants, Children, and Youth (CSWICY)

CFDA: 93.153.

Legislative Authority: Public Health Service Act, Section 2671, 42 U.S.C. 300ff-71.

Purpose: The Purpose of the Title IV funding is to improve access to primary medical care, research, and support Services for HIV-infected women, infants, children and youth, and to provide support services for their affected family members. Funded projects will link clinical and other research with comprehensive care systems, and improve and expand the coordination of a system of comprehensive care for women, infants, children and youth who are HIV-infected. Funds will be used to support programs that: (1) Link established systems of care to coordinate service delivery, HIV prevention efforts, and clinical research and other research activities, and (2) address the intensity of service needs, high costs, and other complex barriers to comprehensive care and research experienced by medically underserved and hard-to-reach populations. Activities under these grants should address the goals of enrolling and maintaining clients in HIV primary care; increasing client access to research by linking development and support of comprehensive, community-based and family-centered care infrastructures; and emphasizing prevention within the care system, particularly the prevention of perinatal HIV transmission.

Eligibility: Eligible organizations are public or private nonprofit entities that provide or arrange for primary care. Current grantees and new organizations proposing to serve the same patients and populations currently being serviced by these existing Projects are eligible to apply. Faith-based and community-based organizations are eligible to apply.

Limited Competition

Applications are limited to the areas where Project Periods expire in FY 2004. These areas are:

AL—Baldwin; Mobile

AR—Clay; Cleburne; Craighead; Fulton; Greene; Independence; Izard; Jackson; Lawrence; Marion; Poinsett; Randolph; Searcy; Sharp; White

AZ—Maricopa

CA—Los Angeles; Alameda; Contra Costa; San Francisco; Sonoma

CO—Adams; Arapahoe; Boulder; Denver; Douglas; El Paso; Jefferson

FL—Hillsborough; Pinellas; Pasco; Manatee; Sarasota; Duval; St. Johns; Clay; Nassau; Baker; Flagler; Volusia;

GA—South East; Clayton; Dekalb; Cobb; Fulton; Gwinnett Appling; Atkinson; Bacon; Brantley; Bulloch; Candler; Charlton; Clinch; Coffee; Evans; Jeff Davis; Pierce; Tattnall; toombs; Ware; Wayne

IL—Cook

KY—Jefferson

MA—Barnstable; Berkshire; Bristol; Dukes; Essex; Franklin; Hampden; Hampshire; Middlesex; Nantucket; Norfolk; Plymouth; Worcester

MO—St. Louis City; St. Louis; St. Clair; Madison

NC—Gates; Perquimans; Pasquotank; Chowan; Bertie; Martin; Pitt; Beaufort; Greene; Pamlico; Hyde; Washington; Tyrrell Alamance; Caswell; Guilford; Randolph; Rockingham

NM—Bernalillo; Torrance; Valencia

NV—State wide except Clark, Lincoln

NY—Bronx; New York; Kings; Richmond; Queens; Albany; Clinton; Columbia; Delaware; Dutchess; Essex; Franklin; Fulton; Greene; Hamilton; Herkimer; Montgomery; Oneida; Otsego; Rensselaer; Saratoga; Schenectady; Schoharie; Sullivan; Ulster; Warren; Washington

OK—State wide coverage

PA—Butler; Armstrong; Beaver; Allegheny; Westmoreland; Washington; Somerset; Cambria; Fayette; Greene

TN—Shelby; Fayette; Tipton; MS Desoto; AR Crittenden

TX—Dallas; Tarrant; Denton; Ellis; Kaufman; Smith; Gregg; Anderson; Navarro; Collin; Parker; Johnson; Hood; Navarro; Somervell; Erath; Palo Pinto; Wise

VA—Halifax; Charlotte; Prince Edward; Buckingham; Amelia; Powhatan; Nottoway; Chesterfield; Dinwiddie; Sussex; Charles City; New Kent; Hanover

VI—St. Thomas; St. Croix; St. John

WI—State wide coverage

Review Criteria: Final Review Criteria are included in the Application kit.

Funding Preferences: Preference for Funding will be given to Projects that support a comprehensive, Coordinated system of HIV care serving HIV-infected Women, Infants, Children and Youth, and their families, and are linked with or have initiated activities to link with clinical trials or other Research

Estimated Amount of this Competition: $22,276,300.

Estimated Number of Awards: 32.

Estimated Project Period: 3 years.

HRSA-04-047 Title IV: Grants for Coordinated HIV Services and Access to Research for Women, Infants, Children, and Youth (CSWICY)

Application Availability Date: November 5, 2003.

Application Deadline: January 5, 2004.

Projected Award Date: August 1, 2004.

Program Contact Person: Wayne Sauseda.

Program Contact Phone: 301-443-0493.

Program Contact E-Mail: wsauseda@hrsa.gov.

HRSA-04-048 Title IV: Grants for Coordinated HIV Services and Access to Research for Women, Infants, Children, and Youth: Youth Services Initiative (CSWICY: YSI)

CFDA: 93.153.

Legislative Authority: Public Health Service Act, Section 2671, 42 U.S.C. 300ff-71.

Purpose: The purpose of this initiative is to foster and expand systems of health care and social support services for youth (age 13-24) at risk for or infected with HIV in order to identify infected youth and enroll them in HIV primary care. Grantees will identify additional HIV infected youth and develop, coordinate and provide support services to enroll and maintain them in primary medical care. Adolescent clients should be enrolled into care early in the spectrum of disease and managed throughout the infection. In partnership with other Ryan White funded programs or other agencies, applicants will integrate youth services into existing systems of care to provide access to comprehensive, coordinated primary care, research and social support services.

Eligibility: Eligible organizations are public or private nonprofit entities that provide or arrange for primary care. Current grantees and new organizations proposing to serve the same patients and populations currently being serviced by these existing projects are eligible to apply. Faith-based and community-based organizations are eligible to apply.

Limited Competition

Applications are limited to the areas where project periods expire in FY 2004. These areas are:

CA—Alameda; San Francisco; Los Angeles

DC—District of Columbia

FL—Hillsborough; Pinellas

IL—Cook; Dupage; Douglas; Lake

MA—Norfolk; Suffolk; Middlesex

MD—State Wide Coverage

NY—New York; Manhattan

PR—Island Wide

TN—Shelby; Tipton; Fayette; AR Crittenden

TX—Willacy; Cameron; Hidalgo; Dallas; Houston; Harrison

Review Criteria: Final review criteria are included in the application kit.

Funding Priorities: Priority will be given to applicants with a history of working with youth, especially youth infected with HIV. Priority will be given to projects proposed in geographic areas where epidemiologic data demonstrate high numbers of infected youth. This funding priority is consistent with Congressional direction to bridge targeted prevention and medical care and treatment services to youth and young adults.

Funding Preferences: Preference will be given to currently funded adolescent programs that have enrolled significant numbers of HIV infected youth into a primary care system during the previous project period.

Estimated Amount of This Competition: 5,928,779.

Estimated Number of Awards: 16.

Estimated Project Period: 3 years.

HRSA-04-048 Title IV: Grants for Coordinated HIV Services and Access to Research for Women, Infants, Children, and Youth: Youth Services Initiative (CSWICY: YSI)

Application Availability Date: February 1, 2004.

Application Deadline: April 1, 2004.

Projected Award Date: September 1, 2004.

Program Contact Person: Wayne Sauseda.

Program Contact Phone: 301-443-0493.

Program Contact E-Mail: wsauseda@hrsa.gov.

HRSA-04-005 Title III: Categorical Grant Program To Provide Outpatient Early Intervention Services With Respect to HIV Disease (EISEGA)

CFDA: 93.918.

Legislative Authority: Public Health Service Act, Section 2651, 42 U.S.C. 300ff-51.

Purpose: The purpose of this funding is to provide, on an ongoing outpatient basis, high quality early intervention services/primary care to individuals with HIV infection. This is accomplished by increasing the present capacity and capability of eligible ambulatory health service entities. These expanded services become part of a continuum of HIV prevention and care for individuals who are at risk for HIV infections or are HIV infected. All early intervention services (EIS) programs must provide: HIV counseling and testing; counseling and education on living with HIV; appropriate medical evaluation and clinical care; and other essential services such as oral health care, outpatient mental health services, outpatient substance abuse services and nutritional services, and appropriate referrals for specialty services.

For the EIS Grants, a major focus is on increasing access to HIV primary care and support services for communities of color. Funding available through the Minority AIDS Initiative has improved our ability to fund indigenous organizations and those serving communities of color to deliver and implement culturally/linguistically proficient primary care HIV services. Funding preferences have been established for organizations serving communities of color that are highly affected by HIV/AIDS in an effort to improve care, and reduce disparities in health outcomes. These preferences are consistent with Congressional direction to maximize the participation of minority community-based organizations in delivering Early Intervention Services.

Eligibility: Applicants are limited to public or private nonprofit entities that are currently funded Title III programs whose project periods expire in FY 2004 or FY 2005 and new organizations proposing to serve the same patients and populations currently being serviced by these existing projects. Grantees must be public or private non-profit agencies. These may include but are not limited to: Consolidated Health Center Programs (Community Health Centers, Migrant Health Centers, Health Care for the Homeless, Public Housing Primary Care and Healthy Schools, Healthy Communities) receiving support under Section 330 of the PHS Act; Family planning agencies under Section 1001 of the PHS Act, other than States; Comprehensive Hemophilia Diagnostic and Treatment Centers; Federally qualified health centers as described in Title XIX, Section 1905 of the Social Security Act; Nonprofit private entities that currently provide comprehensive primary care services to populations at risk of HIV disease; Local health departments; University/Medical Center affiliated clinics.

Faith-based and community-based organizations are eligible to apply.

State and Service Area of Project Periods ending 6/30/04:

AK—Municipality of Anchorage

AR—Arkansas; Ashley; Chicot; Desha; Drew; Jefferson; Lincoln; Pulaski; Lonoke; Prairie; Francis; Woodruff Crittenden; Cross; Lee; Mississippi; Monroe; St.

CA—Kern; Los Angeles

CT—Fairfield; New Haven

FL—Broward; St. Lucie; Martin; Ft. Pierce; Indiantown; Collier

IA—Dallas; Polk; Warren; Appanoose; Cedar; Clinton; Davis; Des Moines; Henry; Jackson; Jefferson; Johnson; Keokuk; Lee; Louisa; Mahaska; Monroe; Muscatine; Poweshiek; Scott; Van Buren; Wapello; Washington; Hancock; Henderson; Knox; McDonough; Mercer; Rock Is

ID—Ada; Boise; Elmore; Valley; Owyhee; Canyon; Gem; Payette; Washington; Adams; Butte; Bingham; Power; Bannock; Caribou; Oneida; Franklin; Bear Lake

KY—Pike

MA—Barnstable; Plymouth; Suffolk; Worcester; Norfolk

MI—Wayne

MS—Bolivar; Sunflower; Washington

MT—Beaverhead; Big Horn; Blaine; Broadwater; Carbon; Carter; Cascade; Chouteau; Custer; Daniels; Dawson; Deer Lodge; Fallon; Fergus; Flathead; Gallatin; Garfield; Glacier; Golden Valley; Granite; Hill; Judith Basin; Lake; Lewis and Clark; Liberty; Lincoln

NC—Durham; Wake; Orange; Granville; Vance

NJ—Union; Monmouth; Mercer; Middlesex; Somerset; Hunterdon

NY—Westchester; Putnam; Dutchess; Columbia; Orange; Ulster

NY—Bronx; Albany; Rensselaer

PA—Philadelphia; York

PR—Lares; Barranquitas; Camuy; Ciales; Cidra; Comerio; Corozal; Florida; Naranjito; Hatillo; Patillas; Orocovis Mayaguez; San Sebastian; Western Puerto Rico Gurabo; Caguas; San Lorenzo; Cidra; Cayey

SC—Beaufort; Hampton; Jasper

TX—Bexar

VA Covington City; Clifton Forge City; Alleghany; Botetourt; Craig; Roanoke City; Salem City; Roanoke; Amherst; Appomattox; Bedford; Bedford City; Campbell; Lynchburg City; Buchanan; Dickenson; Russell; Tazewell; Danville City; Pittsylvania; Franklin; Henry

VT—Addison; Bennington; Caledonia; Chittenden; Essex; Franklin; Grand Isle; Lamoille; Orange; Orleans; Rutland; Washington; Windham; Windsor

WI—Dane; Adams; Buffalo; Crawford; Columbia; Dodge; Green; Fond Du Lac; Calumet; Pepin; Trempealeau; Jackson; La Crosse; Monroe; Vernon; Grant; Lafayette; Iowa; Jefferson; Sauk; Richland; Juneau; Marquette; Waushara; Waupaca; Winnebago; Sheboygan; Rock; Gree

State and Service Area of Project Periods ending 3/31/05:

AK—Anchorage Borough; Fairbanks North Star Borough; Juneau Borough

AR—Baxter; Clay; Cleburne; Craighead; Fulton; Greene; Independence; Izard; Jackson; Lawrence; Marion; Poinsett; Randolph; Searcy; Sharp; Stone; Van Buren; White

CA—Los Angeles; Sacramento; Fresno; San Diego

CT—Middlesex; New London; New Haven; Hartford

DC—District of Columbia

FL—Franklin; Gadsden; Jefferson; Leon; Liberty; Madison; Taylor; Wakulla; Dade; Miami Beach; Miami Lake; Osceola; Orange; Brevard; Volusia; Polk; Seminole

GA—Clarke; Elbert; Greene; Jackson; Madison; Morgan; Oconee; Oglethorpe; Walton; DeKalb

IL—Cook

IN—Lake

KY—Anderson; Bourbon; Boyle; Bath; Boyd; Bracken; Clark; Estill; Fayette; Franklin; Garrard; Jessamine; Lincoln; Madison; Mercer; Nicholas; Powell; Scott; Woodford; Fleming; Lewis; Mason; Robertson; Menifee; Montgomery; Morgan; Rowan; Carter; Elliott; Greenu; Henderson; Daviess; Union; Webster

LA—Allen; Avoyelles; Catahoula; Concordia; Grant; La Salle; Rapides; Vernon; Winn, Orleans

LA—Caldwell; Franklin; Jackson; Lincoln; Morehouse; Ouachita; Union; West Carroll; Bossier; Caddo

MA—Nantucket; Dukes; Barnstable; Worcester; Essex Middlesex; Norfolk; Suffolk; Plymouth

ME—Washington; Hancock; Penobscot; Piscataquis; Aroostook

MN—Beltrami; Clearwater; Pine; Sherburne; Anoka; Benton; Mille Lacs; Goodhue; Wabasha; Olmsted; Dodge; Mower; Lincoln; Lyon; Yellow Medicine; Renville; Lac Qui Parle; Chippewa; Redwood

MO—Andrew; Atchison; Buchanan; Caldwell; Carroll; Clinton; Daviess; DeKalb; Gentry; Grundy; Harrison; Holt; Livingston; Mercer; Nodaway; Worth

MS—Yazoo; Madison; Sharkey; Warren; Claiborne; Hinds; Copiah; Simpson; Rankin; Issaquena

NY—Warren; Washington; Hamilton; Essex; Saratoga; Bronx Kings; New York; Queens; Bronx; Staten Island

OH—Medina; Summit; Portage; Stark; Carroll; Holmes; Wayne; Tuscarawas; Williams; Wood; Fulton; Lucas; Ottawa; Defiance; Henry; Sandusky

PA—Philadelphia; Dauphin; Erie; Northampton

PA—Cameron; Clarion; Clearfield; Crawford; Elk; Erie; Forest; Jefferson; Lawrence; McKean; Mercer; Venango; Warren

RI—Providence

SC—Chester; Lancaster; Chesterfield; Darlington; Marlboro

SD—Union; Clay; Yankton; Bon Homme; Charles Mix; Lincoln; Turner; Hutchinson; Douglas; Minnehaha; McCook; Hanson; Davison; Aurora; Brule; Moody Lake; Miner; Sanborn; Buffalo; Brookings; Kingsbury; Beadle; Hand; Hyde; Hughes; Sully; Deuel; Hamlin; Codington

TN—Shelby

VA—Roanoke; Norton City; Wise; Dickenson; Russell; Scott; Washington; Tazewell; Smyth; Grayson; Carroll; Bland; Wythe; Galax City; Giles; Montgomery; Floyd; Patrick; Franklin; Henry; Craig; Alleghany; Covington City; Clifton Forge City; Botetourt; Bedford

WA—Spokane; Whitman; Garfield; Asotin; Adams; Lincoln; Ferry; Okanogan; Stevens; Pend Oreille; Whatcom; Skagit

WI—Milwaukee

WV—Boone; Putnam; Clay; Kanawha; Raleigh; Summers; Monroe; Wyoming; McDowell; Mercer; Braxton; Webster; Nicholas; Fayette; Greenbrier; Pocahontas

Review Criteria: Final review criteria are included in the application kit.

Funding Preferences: Preference will be given to applicants in an area experiencing an increase in the burden of providing services regarding HIV disease, as described by AIDS cases, sexually transmitted diseases, tuberculosis, drug abuse, lack of availability of early intervention services, lack of primary health providers other than the applicant, and the distance patients have to travel for care. Preference will be given to applicants that provide services in rural (outside urbanized areas and urban clusters as described by the U.S. Census Bureau) or underserved communities where the HIV epidemic is increasing and in areas that receive limited or no Ryan White CARE Act monies. Preference will be given to organizations serving communities of color that are highly impacted by HIV/AIDS, and are supported by the communities of color proposed to be served. This preference is consistent with Congressional direction to maximize the participation of minority community based organizations that have a history of serving communities of color.

Estimated Amount of This Competition: $94,116,800.

Estimated Number of Awards: 177.

Estimated Project Period: 3 years.

HRSA-04-005 Title III: Categorical Grant Program To Provide Outpatient Early Intervention Services With Respect to HIV Disease (EISEGA)

Application Availability Date: October 22, 2003; August 15, 2004.

Application Deadline: December 22, 2003; October 15, 2004.

Projected Award Date: July 1, 2004; April 1, 2005.

Program Contact Person: Wayne Sauseda.

Program Contact Phone: 301-443-0493.

Program Contact E-Mail: wsauseda@hrsa.gov.

Explanation: Application Availability Date is October 22, 2003 for project period ending June 30, 2004. Application Availability Date is August 15, 2004 for project periods ending March 31, 2005. Application Deadline is December 22, 2003 for project period ending June 30, 2004. Application Deadline is October 15, 2004 for project period ending March 31, 2005. Competition for programs with project periods ending December 31, 2003 and March 30,2004 were announced in a previously published Federal Register Notice. Contact Wayne Sauseda for further information.

HRSA-04-049 Title III: Early Intervention Services Planning Grants (EISPG)

CFDA: 93.918.

Legislative Authority: Public Health Service Act, Section 2654(c), 42 U.S.C. 300ff-54(c).

Purpose: The purpose of this grant program is to support eligible entities in their efforts to plan for the provision of high quality comprehensive HIV primary health care services in rural or urban underserved areas and communities of color. Planning grants support the planning process and do not fund any service delivery or patient care.

Eligibility: Eligible applicants must be public or private nonprofit agencies. Faith-based and community-based organizations are eligible to apply.

Review Criteria: Final review criteria are included in the application kit.

Funding References: In awarding grants, preference will be given to applicants seeking funds that are located in or near the community(ies) of color they are intending to serve. This preference is consistent with Congressional direction to maximize participation of minority community-based organizations that have a history of serving communities of color.

Estimated Amount of This Competition: $500,000.

Estimated Number of Awards: 10.

Estimated Project Period: 1 year.

HRSA-04-049 Title III: Early Intervention Services Planning Grants (EISPG)

Application Availability Date: January 5, 2003.

Application Deadline: March 5, 2004.

Projected Award Date: August 1, 2004.

Program Contact Person: Wayne Sauseda.

Program Contact Phone: 301-443-0493.

Program Contact E-Mail: wsauseda@hrsa.gov.

HRSA-04-050 HIV Emergency Relief Grant Program for Eligible Metropolitan Areas (EMAS)

CFDA: 93.914.

Legislative Authority: Public Health Service Act, Title XXVI, Pub. L. 106-345, 42 U.S.C. 300ff-11 et seq.

Purpose: Part A (Title I) of the Ryan White CARE Act authorizes grants for outpatient and ambulatory health and support services to Eligible Metropolitan Areas (EMAs). These grants fund systems of community-based care composed of approximately 25 categories of medical and other health and social support services for individuals with HIV/AIDS in EMAs. These services are intended primarily for low income/under insured people living with HIV/AIDS. Fifty percent of the funds available are awarded according to a formula based on the estimated number of living cases of AIDS in the EMAs. The remaining funds, less any hold harmless amounts and amounts appropriated for the Minority AIDS Initiative (MAI), are awarded as discretionary supplemental grants based on the demonstration of additional need by the EMA.

Eligibility: Limited to 51 Eligible Metropolitan Areas (EMAs).

Estimated Amount of This Competition: $247.2 million (amount excludes MAI award amounts).

Estimated Number of Awards: 51.

Estimated Project Period: March 1, 2004 through February 28, 2005.

HRSA-04-050 HIV Emergency Relief Grant Program for Eligible Metropolitan Areas (EMAS)

Application Availability Date: July 15, 2003.

Application Deadline: October 1, 2003.

Projected Award Date: No later than 60 days post final FY 2004 Appropriation.

Program Contact Person: Douglas H. Morgan.

Program Contact Number: (301) 443-6745.

Program Contact E-Mail: dmorgan@hrsa.gov.

HRSA-04-008 AETC National Evaluation Center (NECCA)

CFDA: 93.15.

Legislative Authority: Public Health Service Act, as amended, 42 U.S.C. 300ff-111(a).

Purpose: This cooperative agreement will be awarded to an eligible 0entity to develop, test, and disseminate methods and models for evaluating the impact of clinical education and training on provider behavior and clinical practice, with respect to changes in knowledge and skills, clinical practice behavior, and clinical outcomes.

Federal Involvement: The scope of Federal involvement is included in the application kit.

Eligibility: Funding will be directed to activities designed for documentation and data collection, outcome evaluation, technical assistance, writing and dissemination. Eligible entities include public or private non-profit entities, including schools and academic health sciences centers. Faith-based and community-based organizations are eligible to apply.

Review Criteria: Applications will be reviewed by an objective review committee using the following criteria: Understanding of the Problem, Professional Qualifications and Expertise of Applicant, Organizational Capacity, Methods and Program Plan, and Appropriateness and Justification of the Budget.

Estimated Amount for This Competition: $450,000.

Estimated Number of Awards: 1.

Estimated Project Year: 3 years.

HRSA-04-008 AETC National Evaluation Center (NECCA)

Application Availability Date: August 15, 2003.

Application Deadline: October 6, 2003.

Projected Award Date: December 1, 2003.

Program Contact Person: Marisol M. Rodriguez.

Program Contact Phone: (301) 443-4082.

Program Contact E-Mail: mrodriguez@hrsa.gov.

Maternal and Child Health Programs

HRSA-04-051 Maternal and Child Health Research Program (MCHR)

CFDA: 93.110.

Legislative Authority: Social Security Act, Title V, 42 U.S.C. 701(a)(2).

Purpose: The Maternal and Child Health Research Program will award grants for the following purposes: (1) Extramural MCH Research Program to support applied research relating to maternal and child health services, which show promise of substantial contribution to the advancement of the current knowledge pool, and when used in States and communities should result in health and health services improvements; and (2) Pediatric Research Network Program to support a pediatric applied research network that promotes coordinated multi-centered research activities, focused on translating research to practice and that should result in health and health service improvements when applied directly into pediatric primary care and/or service settings.

Eligibility: For program purpose, only public or nonprofit institutions of higher learning and public or private nonprofit agencies engaged in research or in programs relating to maternal and child health and/or services for children with special health care needs may apply for grants for research in maternal and child health services or in services for children with special health care needs, as cited in 42 CFR Part 51a.3 (b).

Review Criteria: Final review criteria are included in the application kit.

Estimated Amount of This Competition:

For program purpose—

(1) Extramural MCH Research Program: $2,800,000.

(2) Pediatric Research Network Program: $400,000.

Estimated Number of Awards:

For program purpose—

(1) Extramural MCH Research Program: 10 awards.

(2) Pediatric Research Network Program: 1 award.

Estimated Project Period:

For program purpose—

(1) Extramural MCH Research Program: Up to 4 years.

(2) Pediatric Research Network Program: 5 years.

HRSA-04-051 Maternal and Child Health Research Program (MCHR)

Application Availability Date:

For program purpose—

(1) Extramural MCH Research Program: Continuously.

(2) Pediatric Research Network Program: December 15, 2003.

Application Deadline:

(1) Extramural MCH Research Program: March 1, 2004; and August 15, 2004.

(2) Pediatric Research Network Program: March 1, 2004.

Projected Award Date:

(1) Extramural MCH Research Program: September 1, 2004, January 1, 2005.

(2) Pediatric Research Network: September 1, 2004.

Program Contact Person:

(1) Extramural MCH Research Program: Rita Haggerty (e-mail: rhaggerty@hrsa.gov) or Hae Young Park (e-mail: hpark@hrsa.gov).

(2) Pediatric Research Network Program: Rita Haggerty.

Program Contact Phone: 301-443-2207.

HRSA-04-052 Maternal and Child Health Minority Research Infrastructure Support Program (RMIN)

CFDA: 93.110.

Legislative Authority: Social Security Act, Title V, 42 U.S.C. 701(a)(2).

Purpose: The purpose of this program is to increase the capacity of institutions and their faculty to conduct rigorous maternal and child health (MCH) applied research addressing issues relating to health disparities. The intent of the research infrastructure program is to strengthen the research environments of institutions through grant support to develop and/or expand existing capacities for conducting research in all areas of MCH care and services, which shows promise of substantial contribution to the advancement of current knowledge pool, and when used in States and communities should result in health and health services improvements.

Eligibility: As cited in 42 CFR Part 51a.3(b), only public or nonprofit institutions of higher learning and public or private nonprofit agencies engaged in research or in programs relating to maternal and child health and/or services for children with special health care needs may apply for grants for research in maternal and child health services or in services for children with special health care needs.

Funding Preferences: All eligible applications will be considered. However, the Surgeon General's Healthy People 2010 Objectives, the Institute of Medicine's report Unequal Treatment: Confronting Racial and Ethnic Disparities in Health Care, and the HHS Secretary's initiative to eliminate racial and ethnic disparities in health all evidence a continuing—if not growing—trend of inequities in the health status of racial, ethnic and low income groups. In order to enhance research outcomes on health disparities in areas of MCH care and services (e.g., prenatal care, low birth weight, immunizations, maternal and infant morality), the program is seeking applicants who demonstrate: geographic proximity, a history of established relationships and commitment to the well being of the proposed study population, trust of the community, availability of researchers with cultural and linguistic competence relative to the research population, and evidence of research experience in the area to be studied with resultant professional presentations and/or publications.

Review Criteria: Final review criteria are included in the application guidance material.

Estimated Amount of This Competition: $250,000.

Estimated Number of Awards: 2.

Estimated or Average Size of Each Award: $125,000.

Estimated Project Period: 5 years.

HRSA-04-052 Maternal and Child Health Minority Research Infrastructure Support Program (RMIN)

Application Availability Date: December 1, 2003.

Application Deadline: March 26, 2004.

Projected Award Date: September 1, 2004.

Program Contact Person: Hae Young Park and/or Roscoe G. Dandy.

Phone Number: (301) 443-2207 for Ms. Park or (301) 443-2964 for Dr. Dandy.

E-Mail: hpark@hrsa.gov and rdandy@hrsa.gov.

HRSA-04-053 Long Term MCH Training (MCHLT)

CFDA: 93.110.

Legislative Authority: Social Security Act, Title V, Section 501(a)(2), 42 U.S.C. 702(b)(2).

Purpose:

(1) Long Term Training in Leadership Education in Neurodevelopmental and Related Disabilities (LEND) (T73)

The purpose of the Maternal and Child Health Interdisciplinary Leadership Education in Neurodevelopmental and Related Disabilities (LEND) program is to improve the health status of infants, children, and adolescents with, or at risk for, neurodevelopmental and related disabilities, including mental retardation, neurodegenerative and acquired neurological disorders, and multiple handicaps. The educational curricula emphasize the integration of services supported by State, local agencies, organizations, private providers and communities. The LEND programs will prepare health professionals to assist children and their families to achieve their developmental potentials by forging a community-based partnership of health resources and community leadership.

(2) Leadership Education Certificate in Public Health (T04)

The purpose of this program is to strengthen the Nation's Maternal and Child Health Public Health system by broadening the leadership base of the current and future MCH workforce. Emphasis will be placed on developing the public health workforce through innovative strategies that address the special education needs of health professionals who: live in isolated geographic communities; need to enhance or advance their skills while continuing to meet their daily on site work and family responsibilities; and/or are from underserved or underrepresented populations. These training programs could lead to a graduate degree (i.e., Masters in Public Health) and/or in-depth training which is tailored to the specific needs of public health students in improving their skills (i.e., certificate program). Institutions are encouraged to develop the certificate and degree programs for students who desire to build upon previous course work to continue their formal education.

Eligibility: As cited in 42 CFR Part 51a.3(b), only public or private nonprofit institutions of higher learning may apply for training grants.

Review Criteria: Final review criteria are included in the application kit.

Special Considerations:

(1) In the interest of equitable geographic distribution, special consideration for funding may be given to projects from States or jurisdictions without a currently funded project in this category.

Estimated Amount of This Competition:

(1) LEND $8,219,000.

(2) Leadership Educ. Certificate in Public Health, $720,000.

Estimated Number of Awards:

(1) LEND, 17.

(2) Leadership Educ. Certificate in Public Health, 4.

Estimated Project Period: 5 years.

HRSA-04-053 Long Term MCH Training (MCHLT)

Application Availability Date: September 12, 2003.

Letter of Intent Deadline: October 1, 2003.

Application Deadline: November 20, 2003.

Projected Award Date:

(1) LEND, July 1, 2004.

(2) Leadership Education in Public Health, June 1, 2004.

Program Contact Person:

(1) LEND, Denise Sofka.

(2) Leadership Education in Public Health, Nanette H. Pepper.

Program Contact Phone:

(1) LEND, (301) 443-0344.

(2) Leadership Education in Public Health, (301) 443-6445.

Program Contact E-Mail:

(1) LEND, dsofka@hrsa.gov.

(2) Leadership Education in Public Health, npepper@hrsa.gov.

HRSA-04-054 Continuing Education and Development (CED)

CFDA: 93.110.

Legislative Authority: Social Security Act, Title V, Section 501(a)(2), 42 U.S.C. 701(a)(2).

Purpose:

(1) Continuing Education and Development (General) (T02)

Continuing Education and Development (CED) focuses on increasing the leadership skills of MCH professionals by facilitating the timely transfer of new information, research findings, and technology related to MCH; and updating and improving the knowledge and skills of health and related professionals in programs serving mothers and children. CED programs support the conduct of short-term, non-degree related courses, workshops, conferences, symposia, institutes and distance learning strategies and/or development of curricula, guidelines, standards of practice, and educational tools/strategies intended to assure quality health care for the MCH population.

Programs must address a critical MCH training need, such as, but not limited to, oral health, behavioral health, cultural competency, core public health functions, asthma, early identification/detection of children with special health care needs, suicide prevention, health education, nutrition, nursing, or inter-professional education.

(2) Continuing Education/Distance Learning (T21)

Alternative education methodologies provide effective and efficient means by which maternal and child health (MCH) professionals can enhance and advance their analytical, managerial, administrative and clinical skills while continuing to meet their daily on-site responsibilities. These functions include assessing need; utilizing data; developing policies and programs; addressing and resolving problems; monitoring progress and evaluating performance. This grant program supports the development, implementation, creative utilization, application and evaluation of distance education opportunities for maternal and child health (MCH) professionals. Projects will work collaboratively with each other and the MCH Bureau to provide technical assistance in distance education and technology to the MCH community.

Eligibility: As cited in 42 CFR Part 51a.3(b), only public or private institutions of higher learning may apply for training grants.

Review Criteria: Final review criteria are included in the application kit.

Special Considerations:

(1) Special consideration will be given to applicants serving underrepresented minority students.

Estimated Amount of this Competition:

(1) Continuing Education and Development, $300,000;

(2) CED/Distance Learning, $525,000

Estimated Number of Awards:

(1) Continuing Education and Development, 10

(2) CED/Distance Learning, 4

Estimated Project Period:

(1) Continuing Education and Development, 1-3 years

(2) CED/Distance Learning, 3 years

HRSA-04-054 Continuing Education and Development (CED)

Application Availability Date: November 14, 2003.

Letter of Intent Deadline: December 15, 2003.

Application Deadline: January 15, 2004.

Projected Award Date: June 1, 2004.

Program Contact Person:

(1) Continuing Education and Development, Diana L. Rule

(2) CED/Distance Learning, Aaron Favors

Program Contact Phone:

(1) Continuing Education and Development, (301) 443-0233

(2) CED/Distance Learning, (301) 443-0392

Program Contact E-Mail:

(1) Continuing Education and Development, drule@hrsa.gov

(2) CED/Distance Learning, afavors@hrsa.gov

HRSA-04-055 Genetic Services Projects: Delivery of Genetic Services (GSGE) and Regional Newborn Screening and Genetics Collaboratives (GSRC)

Legislative Authority: Social Security Act, Title V, 42 U.S.C. 701.

CFDA: 93.110.

Purpose: The purpose of this grant activity is to fund two separate initiatives to establish demonstration projects to address issues confronting State newborn screening and State Title V genetics programs. These initiatives will provide models, best practices, and dissemination strategies for ensuring optimal follow-up and management for children identified with heritable conditions by helping to translate genetic technological advances into practice.

Initiative 1—Regional Newborn Screening and Genetics Collaboratives

The purpose of this grant activity is to establish demonstration projects that enhance and support the newborn screening and genetics service capacity of State Title V programs. The projects will reflect partnerships among State programs, medical homes, families, and tertiary care centers. The projects will focus on ensuring optimal follow-up and management for children identified with heritable conditions by helping to translate genetic technological advances into practice. They will also undertake a regional approach toward addressing the maldistribution of genetic resources. The initiative will establish Collaboratives to: Serve as regional focus of genetics expertise for the sub-specialty care and treatment and management of children identified with heritable disorders by newborn screening; Demonstrate partnerships with multiple state newborn screening and Title V programs within a region, modeling a regional approach toward facilitating access to the genetics expertise that providers and families need to diagnose and manage children identified with heritable disorders; Provide information, educational resources, technical assistance, and support to the medical homes within the region in the treatment and management of children identified with heritable disorders by newborn screening, as well as to the families of the children identified with heritable disorders in the region. This will be done by: Utilizing innovations in communication and telehealth medicine; Demonstrating partnerships with existing comprehensive care programs to provide genetics expertise; Demonstrating the ability to offer technical assistance to State newborn screening and Title V programs served by the region; Assessing the long term health outcomes of children identified by newborn screening in this region and the clinical validity and utility of this regional approach; and Addressing issues related to the incidence of heritable conditions identified by newborn screening in the region. Funds available: $2,000,000 for 4 cooperative agreements. The cooperative agreements will be funded for five years, subject to the availability of funding for years 2 through 5 and satisfactory grantee performance.

Initiative 2—Delivery of Genetic Services

The purpose of this grant activity is to establish 5 separate demonstration projects to examine genetic service issues such as service delivery and capacity, developing communities of practice for systems integration, quality of services, genetic literacy, education and awareness and the multiple social and ethical issues that have emerged from the use of new and evolving genetic technologies within these programs. All projects must consider the complexity of the public health and health care delivery systems. Applications may address Projects 1-5. Funds available: $1,000,000 for 5 cooperative agreements. The cooperative agreements will be funded for two years, subject to the availability of funding for the second year and satisfactory grantee performance.

• One project will identify strategies and develop materials and a model that identifies and measures quantifiable performance criteria for newborn genetic screening programs. Issues such as expanded newborn screening, missed infants, false positive results, and delayed diagnosis will be addressed—Project 1.

• One project will identify strategies and develop materials and a model that utilizes a consumer-based family history tool to increase awareness about genetics—Project 2.

• One project will identify strategies and develop materials and a model to evaluate existing data and recommend and weight priorities on health and economic value of genetic services, including genetic testing, education and counseling to provide important cost, health outcomes, and quality of care data—Project 3.

• One project will identify strategies and develop materials for addressing the ethical social issues surrounding the use of new and emerging technologies, the current models for delivering genetic tests and other genetic services—Project 4.

• One project will establish a resource center for developing a community of practice model for Genetic Service Branch's Best Practices in the Integration of Newborn Metabolic Screening Programs with Other Public Health Programs. The purpose of this resource center is to develop and implement policy initiatives related to achieving policy that supports integrating newborn metabolic screening programs with other public health programs and the health care delivery system. Components of the policy include definitions of integration, core function specification, standards of practice, and indicators to monitor and measure progress and outcomes. Direct involvement from a variety of public health programs and support functions, health care providers, community members, and families will be necessary for success because of the multiple, critical roles they play in the health of a newborn—Project 5.

Federal Involvement: The scope of federal involvement with respect to all of the cooperative agreements is included in the application kit.

Eligibility: As cited in 42CFR Part 51 a.3(a) any public or private entity, including an Indian Tribe or Tribal organization (as those terms are defined in 25 U.S.C. 450(b)) is eligible to apply for Federal Funding.

Review Criteria: Final review criteria are included in the application kit.

Estimated Amount of this Competition: $3,200,000.

Estimated Number of Awards: 9.

Estimated Project Period: 5 years for Priority 1 projects (Regional Newborn Screening and Genetics Collaboratives-GSRC) and 2 years for Priority 2 projects (Delivery of Genetic Services-GSGE).

HRSA-04-055 Genetic Services Projects: Delivery of Genetic Services (GSGE) and Regional Newborn Screening and Genetics Collaboratives (GSRC)

Application Availability: October 15, 2003.

Letter of Intent Deadline: December 1, 2003.

Application Deadline: January 9, 2004.

Estimated Project Start Date: July 1, 2004.

Program Contact Name: Michele A. Lloyd-Puryear.

Program Contact E-Mail: mpuryear@hrsa.gov.

Program Contact Telephone: 301-443-1080.

HRSA-04-056 Medical Home for Children With Special Health Care Needs (MHCSH)

CFDA: 93.110.

Legislative Authority: Social Security Act, Title V, 42 U.S.C. 701.

Purpose: In February 2001, President Bush released the New Freedom Initiative, a comprehensive plan to tear down barriers facing people with disabilities and preventing them from participating fully in community life. This broad interagency initiative calls upon the Federal government to assist States and localities to implement the decision of the Supreme Court in Olmstead v L.C., which requires States to place qualified individuals with mental disabilities in community settings in certain circumstances. As part of this initiative, HRSA was charged with “developing and implementing a plan to achieve appropriate community-based service systems for children and youth with special health care needs (CYSHCN) and their families.” A core component of community systems is that every child with a special health care need must have access to a regular ongoing source of health care in the community, i.e., a medical home. The medical home is articulated through the Healthy People 2010 Objectives and is a core performance measure for Title V Maternal and Child Health Programs. This initiative supports the medical home component of the President's New Freedom Initiative through: (1) A national resource center; (2) state implementation grants; (3) targeted support to pediatric practices for service models; (4) grants to assure access to specialty services; and (5) a cooperative agreement using autism as a case example to improve early identification and clinical management and referrals. These priorities will provide models, best practices, and dissemination strategies for ensuring that all children and youth with special health care needs have the services and support necessary for full community inclusion.

Priority 1

National Resource Center on Medical Home Implementation. One cooperative agreement to: (1) Develop and implement policy initiatives related to achieving medical homes for children and youth with special health care needs; (2) establish and implement strategies for enhancing timely interactive communication, including telecommunication, among pediatricians, health care providers, community leaders, and policy-makers concerned with access, appropriateness, and coordination of primary care with specialty care and the array of other services required for this population of children and families; (3) promote activities that establish medical home as the standard of care for all community-based primary care physicians caring for children with special needs; (4) expand and enhance the capacity to collect, analyze, and use quantitative and qualitative data to promote medical homes for children with special health care needs; (5) facilitate the development of resources that increase access and awareness of the medical home for families and children with special health care needs; (6) assist states in implementation, assessment, and evaluation of strategies to promote Healthy People 2010 Goals and the President's New Freedom Initiative around community based systems of care for children with special health care needs; and (7) build upon the operational definition of a medical home, utilizing tools that have been developed, such as the medical home index and continuous quality improvement measures. Funds available: $700,000 for one cooperative agreement. The scope of Federal involvement with respect to all cooperative agreements is included in the Application Kit. The cooperative agreement has a 5 year project period. Funding for the 2-5 years is contingent upon the availability of funds and satisfactory performance of the grantee.

Priority 2

Integrating and Sustaining Medical Home through Statewide Implementation. Grants to States to improve and ensure the sustainability of statewide implementation of the medical home for CSHCN. Applicants must: (1) Conduct a medical home needs assessment based on the State-specific findings of the National Survey of CSHCN and incorporate those findings into the Block Grant Application; (2) incorporate medical home into the ongoing budget for the State Title V program; (3) implement/expand a plan for achieving statewide implementation of medical home; (4) participate in a continuous quality improvement strategy with primary care practices in the state; (5) develop and implement a structured plan for fiscal and programmatic sustainability; and (6) implement formative and summative evaluation activities. Funds available: $1,200,000 for 6-8 grants. Grants are for four years.

Priority 3

Medical Home Implementation through Community-Based, Primary Care Practices. Grants to primary care practices/networks to improve the ability of community primary care practices to become medical homes and to promote and support community inclusion for children and youth with special health care needs by better linking medical homes with early intervention, child care, Head Start, schools, and other community programs. Eligible applicants are: (a) networks of medical home providers including but not limited to State primary care professional organizations and other existing networks of primary care practices: and (b) individual primary care practices. Funds available: $800,000 for grants up to $50,000 for individual practices, or up to $250,000 for Network applications supporting at least five pediatric primary care practices. Grants are for four years.

Priority 4

Subspecialty Capacity-Building. Grants to develop strategies for partnership between State Title V agencies, subspecialty networks, and the medical home to improve access and availability of health/medical services to support children and youth in their community. Funds will support: (a) Comprehensive Statewide, contiguous State, or national needs assessments of workforce capacity for specialists and sub-specialists serving CSHCN; (b) development and implementation of a plan to improve workforce capacity; and (c) strengthen subspecialty relationships with the medical home. The plan must define and articulate the role of subspecialty networks, the medical home, and Title V in improving access to and availability of appropriate health and related services to support inclusion of children and youth in their community. Funds available: $400,000 for 2 grants up to $200,000. Grants are for four years.

Priority 5

Early Identification and Intervention for Children with Autism. A cooperative agreement to improve the capacity of the medical home and the early intervention community to identify, appropriately serve, and integrate children with autism into their communities. The cooperative agreement will: (a) Work with MCHB, family leaders, and pediatric primary care providers to improve medical home capacity for early identification of young children with autism; (b) support the work of HRSA on the Interagency Autism Coordinating Council; (c) collaborate with CDC's national awareness campaign to ensure that medical homes are well-prepared to support identified children; and (d) implement community-based strategies to link the medical home with early intervention programs for children identified as having autism. Funds available: $300,000 for one cooperative agreement. The scope of Federal involvement with respect to all cooperative agreements is included in the Application Kit. The cooperative agreement is for four years.

Eligibility: As cited in 42 CFR Part 51a.3 (a), any public or private entity, including an Indian tribe or tribal organization, faith based and community based organization (as those terms are defined at 25 U.S.C. 450b), is eligible to apply for this Federal funding.

Review Criteria: Final review criteria are included in the application kit.

Estimated Amount of this Competition: $3,400,000.

Estimated Number of Awards: 18.

Estimated Project Period: See purpose.

HRSA-04-056 Medical Home for Children With Special Health Care Needs (MHCSH)

Application Availability Date: October 15, 2003.

Letter of Intent Deadline: November 17, 2003.

Application Deadline: January 15, 2004.

Projected Award Date: July 1, 2004.

Program Contact Person: Monique Fountain.

Program Contact Phone: 301 443-2370.

Program Contact E-mail: mfountain@hrsa.gov.

HRSA-04-057 Adolescent Health Resource Cooperative Agreements (AHR)

CFDA: 93.110.

Legislative Authority: Social Security Act, Title V, 42 U.S.C. 701.

Purpose: The overall purpose of the Adolescent Health Resource (AHR) program is to promote the health, development, safety, and social and emotional well-being of all school-aged children, adolescents, and young adults in the United States, and their families. It includes efforts that address the needs of decision-makers and professionals at national, State and community levels. The AHR program is founded on two frameworks: Healthy People 2010 and the principles of healthy youth development. Three categories of AHR cooperative agreement funding opportunities are offered for FY 2004: the State Adolescent Health Resource Center for Maternal and Child Health Personnel (SAMCH); the National Adolescent Health Information Center (NAHIC); and, the Public Policy Analysis and Education Center for Middle Childhood, Adolescent and Young Adult Health (PAE/CAYAH).

I. (SAMCH)—The specific purpose of this national technical assistance and resource center is to assist State Title V Maternal and Child Health Programs to promote core capacity in adolescent health and to improve measurable adolescent health status in such arenas as unintentional injury, interpersonal violence, mental health, substance use, reproductive health, nutrition and physical activity, and oral health. II. (NAHIC)—The specific purpose of the National Adolescent Health Information Center is to collect, synthesize, coordinate and disseminate information regarding the health, safety and well-being of school-aged children, adolescents, young adults, and their families. As part of this effort, this Center provides technical assistance, consultation and continuing education to States, communities, and groups of health professionals and decision-makers. III. (PAE/CAYAH)—The specific purpose of this Center is to analyze the effects of public policies, regulations and practices at the community, State and Federal levels on the health, safety and well-being of school-aged children, adolescents, young adults, and their families. The intent is to enhance the knowledge of, and to inform, policy and decision-makers as well as health professionals regarding the short- and long-term consequences of public policies on these population groups.

Federal Involvement: The scope of Federal involvement is included in the application kit.

Eligibility: As cited in 42 CFR Part 51a.3 (a), any public or private entity, including an Indian tribe or tribal organization (as those terms are defined at 25 U.S.C. 450b) is eligible to apply for this Federal funding.

Review Criteria: Final review criteria are included in the application kit.

Estimated Amount of this Competition: $695,000.

Estimated Number of Awards: 3.

Estimated Project Period: 5 years.

HRSA-04-057 Adolescent Health Resource Cooperative Agreements (AHR)

Application Availability Date: October 29, 2003.

Letter of Intent Deadline: December 17, 2003.

Application Deadline: January 5, 2004.

Projected Award Date: July 1, 2004.

Program Contact Person: Trina Menden Anglin.

Program Contact Phone: 301-443-4291.

Program Contact E-mail: tanglin@hrsa.gov.

HRSA-04-058 National Center on School-Based Health Care (NSBHC)

CFDA: 93.110.

Legislative Authority: Social Security Act, Title V, 42 U.S.C. 701.

Purpose: The purpose of this national resource center is to provide current, evidence-based information and other resources to school-based and school-linked health centers in order to improve and enhance their service capabilities and quality of care. As part of this effort, the Center will develop models of interagency and interdisciplinary collaboration for delivering health and mental health services in schools that involve school staff, school-based/linked health centers, and community agencies. The intent of Center activities will be to promote development of the school health infrastructure; foster the delivery of high quality services to students that integrate primary care, mental health, and substance abuse treatment services; contribute to positive health, social and educational outcomes; enhance collaboration between school-based/linked health care services and other school health programs; encourage parental involvement in the health care of their children and adolescents as well as engage parents in programs that promote health and prevent health risk behaviors; and address issues of practice management, such as quality improvement and financing of school-based/linked health care. Because this Center is national in scope, the applicant should be prepared to interact with the approximately 1500 school-based/linked health centers in our Nation, as well as with communities interested in developing this model of health care. The Center will be expected to interact collaboratively with other HRSA/MCHB programs that promote school health and adolescent health.

Federal Involvement: The scope of Federal involvement is included in the application kit.

Eligibility: As cited in 42 CFR Part 51a.3 (a), any public or private entity, including an Indian tribe or tribal organization (as those terms are defined at 25 U.S.C. 450b) is eligible to apply for this Federal funding.

Review Criteria: Final review criteria are included in the application kit.

Estimated Amount of This Competition: $200,000.

Estimated Number of Awards: 1.

Estimated Project Period: 5 years.

HRSA-04-058 National Center on School-Based Health Care (NSBHC)

Application Availability Date: October 29, 2003.

Letter of Intent Deadline: December 17, 2003.

Application Deadline: January 5, 2004.

Projected Award Date: July 1, 2004.

Program Contact Person: Isadora R. Hare.

Program Contact Phone: 301-443-6392.

Program Contact E-mail: ihare@hrsa.gov.

HRSA-04-059 Integrated Health and Behavioral Health Care for Children, Adolescents and Their Families (IHBHP)

CFDA: 93.110.

Legislative Authority: Social Security Act, Title V, 42 U.S.C. 701.

Purpose: The purpose of this set of planning grants is to assist community health care organizations to develop and formalize working relationships for planning a program of health service delivery for children, adolescents and their families that integrates physical and psychosocial primary care, comprehensive mental health services, and substance abuse prevention and treatment services. Plans for integration of services that are developed as part of grant activities need to address such issues as organizational structure, governance and executive leadership, staffing, education and training of personnel, facilities, information systems and protection of confidentiality, regulatory requirements, functioning in a managed care environment, fiscal arrangements, quality improvement and accountability, and involvement with the larger community. The ultimate goal of this initiative is to develop a set of integrated services models that meet the unique needs of different communities. This funding opportunity represents a third cycle for this initiative.

Eligibility: As cited in 42 CFR Part 51a.3 (a), any public or private entity, including an Indian tribe or tribal organization, faith based and community based organization (as those terms are defined at 25 U.S.C. 450b), is eligible to apply for this Federal funding. Organizations that have previously received funding under this initiative are not eligible to apply.

Review Criteria: Final review criteria are included in the application kit.

Estimated Amount of This Competition: $400,000.

Estimated Number of Awards: 8.

Estimated Project Period: 2 years.

HRSA-04-059 Integrated Health and Behavioral Health Care for Children, Adolescents and Their Families (IHBHP)

Application Availability Date: October 29, 2003.

Letter of Intent Deadline: December 17, 2003.

Application Deadline: February 2, 2004.

Projected Award Date: July 1, 2004.

Program Contact Person: Sharon Adamo.

Program Contact Phone: 301-443-3972.

Program Contact E-mail: sadamo@hrsa.gov.

HRSA-04-060 Breastfeeding Promotion in Physician's Office Practices (BPPOP)

CFDA: 93.110.

Legislative Authority: Social Security Act, Title V, 42 U.S.C. 701.

Purpose: This grant program is designed to: (1) Facilitate preparation of providers of obstetrical, family practice, pediatric health care and other health disciplines in office settings to effectively promote and manage breastfeeding with the goal to move breastfeeding initiation and duration rates toward the Healthy People 2010 national health objectives; (2) implement strategies to enroll health care providers working with underserved population in breastfeeding promotion, support, and technical assistance programs; and (3) encourage collaborations between obstetrical, pediatric, family health care, and other health providers at the local, state, and regional levels. Because this grant is national in scope, the applicant should be prepared to clearly demonstrate a national expertise and capacity for addressing breastfeeding promotion, support, and technical assistance issues related to providers of obstetrical, family practice and pediatric medical and health care to consumers and their families; and applicants building upon current breastfeeding promotion and support partnerships with professional organizations and federal agencies.

Eligibility: As cited in 42 CFR Part 51a.3(a), any public or private entity, including an Indian tribe or tribal organization (as those terms are defined at 25 U.S.C. 450b), is eligible to apply for this Federal funding.

Review Criteria: Final review criteria are included in the application kit.

Estimated Amount of This Competition: $200,000.

Estimated Number of Awards: 1.

Estimated Project Period: 3 years.

HRSA-04-060 Breastfeeding Promotion in Physician's Office Practices (BPPOP)

Application Availability Date: January 27, 2004.

Letter of Intent Deadline: March 17, 2004.

Application Deadline: April 1, 2004.

Projected Award Date: September 30, 2004.

Program Contact Person: Denise Sofka.

Program Contact Phone: 301-443-0344.

Program Contact E-Mail: dsofka@hrsa.gov.

HRSA-04-061 Partnership for Information and Communication Cooperative Agreement Program (PICA)

CFDA: 93.110.

Legislative Authority: Social Security Act, Title V, 42 U.S.C. 701.

Purpose: The general purpose of the Partnership for Information and Communication program is to collaborate with governmental, professional and private membership organizations representing community, state and private sector leaders to identify issues impacting maternal and child health, to share information about approaches to improving maternal and child health issues, and to clarify the particular perspectives of stakeholders in maternal and child health care. For FY 2004, two categories of PIC funding opportunities are offered:

I. Family Partnerships in Maternal and Child Health (FPPIC): The specific purpose of this category is to assist organizations representing the interests of culturally diverse families to: (a) Identify the particular concerns of those families regarding health, mental health and welfare; (b) collaborate with the MCHB to increase the involvement of culturally diverse families in MCH and Children with Special Health Care Needs (CSHCN) issues; (c) communicate to families, in a culturally competent manner, important issues identified by the MCHB; (d) assist state and local MCH/CSHCN programs in obtaining family perspectives from culturally diverse populations; and, (e) work collaboratively with other family organizations to promote the concerns of all families and to address health, mental health and social issues impacting families. Organizations will be selected in a manner to assure family representation from the variety of racial, ethnic and culturally diverse groups that make up the MCH/CSHCN population as well as family/parent organizations having a particular issue of concern (e.g., mental health, education, safety). The program will consider both well-established family organizations and family organizations which are not so well-established but demonstrate promise in supporting and representing families of currently under represented groups.

II. MCH and Mental Health (MHPIC): The specific purpose of this category is to support national organizations representing family/child health programs and mental health services programs in States to develop new ways for their State constituents to better understand each others' roles and responsibilities, to identify areas of common concern, and to support new ways of facilitating State agencies to work together on behalf of the mental heath and well-being of women, children and families. The outcome of this effort will be the creation of a coherent system to promote the mentally healthy development of children and adolescents, support the emotional health of families, improve the ability of the health care system to identify mental health issues at the earliest possible stage, and improve the mental health system's ability to intervene appropriately with the full range of emotional problems.

Federal Involvement: The scope of Federal involvement is included in the application kit.

Eligibility: As cited in 42 CFR Part 51a.3 (a), any public or private entity, including an Indian tribe or tribal organization, faith-based and community-based organization (as those terms are defined at 25 U.S.C. 450b), is eligible to apply for this Federal funding.

Review Criteria: Final review criteria are included in the application kit.

Funding Preferences: For the FPPIC category, national membership organizations representing parents will be considered for funding; for the MHPIC category, national membership organizations representing State health and mental health programs will be considered for funding.

Estimated Amount of This Competition: $700,000.

Estimated Number of Awards: 4—Funding is available to make 2 awards under the FPPIC category and 2 awards under the MHPIC category.

Estimated Project Period: 3 years.

HRSA-04-061 Partnership for Information and Communication Cooperative Agreement Program (PICA)

Application Availability Date: August 29, 2003.

Letter of Intent Deadline: September 18, 2003.

Application Deadline: November 17, 2003.

Projected Award Date: April 1, 2004.

Program Contact Person: Isadora Hare.

Program Contact Phone: 301-443-6392.

Program Contact E-Mail: IHare@hrsa.gov.

HRSA-04-062 Healthy Tomorrows Partnership for Children Program (HTPC)

CFDA: 93.110.

Legislative Authority: Social Security Act, Title V, 42 U.S.C. 701.

Purpose: The purpose of this program is to stimulate innovative community-based programs that employ prevention strategies to promote access to health care for mothers and children nationwide. This year, the HTPC will fund 2 separate initiatives, HTPC-General and HTPC-Targeted. It is anticipated that HTPC-General grants will be awarded to approximately 9 recipients The intent of HTPC-General grants are: (1) To support the development of family-centered, community-based initiatives that plan and implement innovative and cost-effective approaches for focusing resources to promote community defined preventive child health and developmental objectives for vulnerable children and their families, especially those with limited access to quality health services; (2) foster/promote collaboration among community organizations, individuals, agencies, businesses, and families; (3) involve pediatricians and other pediatric health professionals in community-based service programs; and (4) build community and statewide partnerships among professionals in health, education, social services, government, and business to achieve self-sustaining programs to assure healthy children and families.

The HTPC-Targeted grants will focus on the following targeted areas: increased access to pediatric oral health services; enhancement of behavioral and/or psychosocial aspects of pediatric care; and developing and delivering clinical pediatric telemedicine services that enhance access to community-based health care services for medically underserved areas, or for medically underserved populations. It is anticipated that approximately 10 grants will be awarded to organizations who address a community need in these critical targeted areas.

Cost Sharing Flag: Yes.

Eligibility: As cited in 42 CFR Part 51a.3 (a), any public or private entity, including an Indian tribe or tribal organization (as those terms are defined at 25 U.S.C. 450b) is eligible to apply for Federal funding. Community-based organizations, including faith-based organizations, are eligible to apply.

Review Criteria: Final review criteria are included in the application kit.

Special Considerations: In the interest of equitable geographic distribution, special consideration for funding may be given to projects from States without a currently funded project in this category. These States are: Alabama, Alaska, Delaware, Georgia, Hawaii, Idaho, Indiana, Iowa, Kansas, Kentucky, Louisiana, Maryland, Minnesota, Mississippi, Missouri, Montana, Nevada, New Hampshire, New Jersey, North Carolina, North Dakota, Oklahoma, Rhode Island, South Dakota, Tennessee, Utah, West Virginia, Wisconsin, Wyoming, American Samoa, Commonwealth of the Northern Mariana Islands, Federated States of Micronesia, Guam, Puerto Rico, Republic of Palau, Republic of the Marshall Islands, and the Virgin Islands.

Estimated Amount of This Competition: $950,000.

Estimated Number of Awards: 19.

Estimated or Average Size of Each Award: $50,000.

EStimated Project Period: 5 years.

HRSA-04-064 Healthy Tomorrows Partnership for Children Program (HTPC)

Application Availability Date: September 2, 2003.

Letter of Intent Deadline: September 29, 2003.

Application Deadline: October 29, 2003.

Projected Award Date: March 1, 2004.

Program Contact Person: Jose H. Belardo.

Program Contact Phone: 301-443-0757.

Program Contact E-Mail: jbelardo@hrsa.gov.

HRSA-04-063 Women's Health (MCH-WH)

CFDA: 93.110.

Legislative Authority: Social Security Act, Title V, 42 U.S.C. 701.

Purpose: Under this program, grants will be awarded in three areas each addressing significant issues in women's health: (1) Integrated Comprehensive Women's Health Services In State MCH Programs (ICWHS) will focus on expanding capacity in State MCH programs to improve women's health by providing a focal point for women's health to establish linkages and build partnerships with state and other organizations; this focal point will also identify gaps and facilitate the establishment of an infrastructure for comprehensive women's health services; (2) Women's Behavioral Health Systems Building: Innovative Ideas For Local And State Collaboration (WBHS-LSC) will fund creative partnerships in the area of women's health, specifically women of childbearing age, to develop horizontal networks of behavioral and health care service providers, policymakers and consumer and family groups; these networks will also foster systems coordination, policy development and coalition building among consumer and professional organizations and local and state agencies with local and state agencies with the ultimate goal of integrating and improving behavioral health services to women of childbearing age; and (3) Innovative Approaches To Promoting A Healthy Weight In Women (IPHWW) will fund projects to develop creative, innovative approaches that are effective in reducing the prevalence of overweight/obesity in women by increasing the number of women who adopt positive health lifestyles. The interventions must be substantive in nature and positively impact the woman's knowledge, attitudes, and behaviors. These approaches should target women in communities who have limited access to preventive health services and be linked with Title V, Community Centers of Excellence in Women's Health, Centers of Excellence in Women's Health, and/or other relevant resources. Proposals must target: (1) Women who are members of racial and ethnic minority populations who are disproportionately affected by overweight/obesity; and, (2) women before (preconception) and after (post-partum) pregnancy.

Eligibility: Any public or private entity, including an Indian tribe or tribal organization (as defined at 25 U.S.C. 450b), and faith and community-based organizations are eligible to apply.

Review Criteria: Final review criteria are included in the application kit.

Special Considerations: For purpose (1) to (3), only 1 applicant per state will be funded. For the purposes of the Integrated Comprehensive Women's Health Services in State MCH Programs (H74) only, in the interest of equitable geographic distribution, special consideration for funding may also be given to States or jurisdictions who have never received funding for this program

Estimated Amount of This Competition: For program purposes (1) $600,000; (2) $450,000; and (3) $600,000.

Estimated Number of Awards: For program purposes (1) 6 awards, (2) 3 awards; and (3) 4 awards.

Estimated Project Period: 3 years.

HRSA-04-063 Women's Health (MCH-WH)

Application Availability Date: November 18, 2003.

Letter of Intent Deadline: December 16, 2003.

Application Deadline: February 2, 2004.

Projected Award Date: For program purpose (1) July 1, 2004, (2) May 1, 2004; and (3) June 1, 2004.

Program Contact Person: For program purposes (1) and (3) Lisa King. For program purpose (2) Juliann De Stefano.

Program Contact Phone: Lisa King 301-443-5720; Juliann De Stefano 301-443-8783.

Program Contact E-Mail: Lisa King lking@hrsa.gov; Juliann De Stefano jdestefano@hrsa.gov.

HRSA-05-001 Maternal and Child Health Library Services (MCHLS)

CFDA: 93.110.

Legislative Authority: Social Security Act, Title V, 42 U.S.C. 701.

Purpose: The purpose of the MCH Library Services cooperative agreement is to support a national information and education resource library which provides the information needed by the MCH community to plan and carry out program and policy development and to improve service delivery. The overall goal is to use information sciences and information technology to identify, collect, and organize information from the MCH field that is not readily available from other information sources, such as Healthy Start, infant mortality, oral health, nutrition, mental health, health promotion, women's health, MCH organizations, Medicaid, research, etc. The MCH Library is expected to conduct activities in the following areas: Collection and management of MCH information, and outreach for awareness and utilization of MCH information, including maintenance of databases, bibliographies, and other information resources on a website which provides national access to key MCH-related data and information.

Federal Involvement: The scope of Federal involvement is included in the application kit.

Eligibility: As cited in 42 CFR part 51a.3 (a), any public or private entity, including an Indian tribe or tribal organization (as those terms are defined at 25 U.S.C. 450b), is eligible to apply for this Federal funding.

Review Criteria: Final review criteria are included in the application kit.

Estimated Amount of This Competition: $550,000.

Estimated Number of Awards: 1.

Estimated Project Period: 5 years.

HRSA-05-001 Maternal and Child Health Library Services (MCHLS)

Application Availability Date: April 20, 2004.

Letter of Intent Deadline: June 18, 2004.

Application Deadline: July 19, 2004.

Projected Award Date: January 1, 2005.

Program Contact Person: James A. Resnick.

Program Contact Phone: 301-443-2778.

Program Contact E-Mail: JResnick@hrsa.gov.

HRSA-04-006 Emergency Medical Services for Children Demonstration Grant Program (EMSC)

CFDA: 93.127.

Legislative Authority: Public Health Service Act, Section 1910, 42 U.S.C. 300w-9.

Purpose: The goal of the EMSC program is the reduction of child and youth mortality and morbidity sustained as a result of severe illness or trauma. The EMSC program does not intend to promote the development of a separate EMS system for children, but rather to enhance the pediatric capability of EMS systems originally designed primarily for adults. The EMSC grants support activities in the following areas: Injury prevention, database studies, outcome measures, patient assessments, facility and equipment standards, procedure standards, protocols for treatment, triage, and transfer, model agreements, training courses, videotapes and books, and community programs for special populations. EMSC projects demonstrate how the outcomes of pediatric emergencies can be improved by strengthening or expanding the pediatric capabilities of an existing EMS system.

For FY 2004, three categories of EMSC Demonstration Grant funding opportunities are offered: I. Funding is available for up to 9 EMSC State Partnership (EMSCP) demonstration grants to support activities that represent the steps to take in order to institutionalize EMSC within Emergency Medical Services (EMS) and to continue to improve and refine EMSC. Proposed activities should be consistent with documented needs in the State and should reflect a logical progression in enhancing pediatric capabilities. For example, funding might be used to: (a) Address problems identified in the course of a previous EMSC grant; (b) increase the involvement of families in EMSC; (c) improve linkages between local, regional, or State agencies; (d) promulgate standards developed for one region of the State under previous funding to include the entire State; or (e) assure effective triage of the child in physical or emotional crisis to appropriate facilities and/or other resources. II. To provide supplemental funds to approximately existing 8 EMSC State Partnership Demonstration grantees for Regional Symposium (EMSCS) round-table meetings that are convened for the explicit purpose of knowledge synthesis and dissemination. The primary goal of the EMSC program's knowledge synthesis and dissemination activities is to improve the quality of care to children. In collaboration with schools of medicine, regional consortia of State EMS programs will meet annually to develop and evaluate improved procedures and protocols for children. Meetings will involve coordinating, exchanging, and demonstrating innovative activities of common interest to participating States, while facilitating a forum for knowledge transfer on EMSC related issues between individual care providers and care providing organizations.

III. Funding is available for approximately 7 EMSC Targeted Issue Demonstration Grants (EMSCT) that are intended to address specific, focused issues related to the development of EMSC knowledge and capacity, with the intent of advancing the state-of-the-art tools, and creating tools or knowledge that will be helpful to the field. Proposals must have well-conceived methodology for analysis and evaluation.

Eligibility: For State Partnerships and Regional Symposiums, the eligible applicant is the State EMS Agency, unless the State specifically requests and designates another State entity or an accredited school of medicine. For targeted Issues, the eligible applicants are State governments, and accredited schools of medicine (Targeted Issue applicants from accredited schools of medicine do not need to be endorsed by the State EMS Office.)

Review Criteria: Final review criteria are included in the application kit.

Estimated Amount of This Competition: $2,755,000.

Estimated Number of Awards: 24.

Estimated Project Period: 1 or 3 years.

HRSA-04-006 Emergency Medical Services for Children Demonstration Grant Program (EMSC)

Application Availability Date: September 2, 2003.

Letter of Intent Deadline: October 3, 2003.

Application Deadline: October 31, 2003.

Projected Award Date: March 1, 2004.

Program Contact Person: Dan Kavanaugh.

Program Contact Phone: 301-443-1321.

Program Contact E-mail: dkavanaugh@hrsa.gov.

HRSA-04-064 Traumatic Brain Injury (TBI) Program—State Grants

CFDA: 93.234.

Legislative Authority: Public Health Service Act, Title XII, Section 1252, 42 U.S.C. 300d-52.

Purpose: The purpose of the Traumatic Brain Injury (TBI) program is to improve access, availability, appropriateness and acceptability of health and other services for individuals with traumatic brain injury (TBI) and their families. State TBI systems should be culturally competent and services should be person and family directed. States applying under this announcement must address the four Core Capacity Components of a TBI service system: a lead Designated State Agency and State staff person responsible for State TBI activities, a Statewide TBI Advisory Board, a Statewide Resource/Needs Assessment, and a Statewide Action Plan that is a comprehensive, community-based system of cure that addresses the need of individuals with TBI and their families. For FY 2004, three categories of State TBI funding opportunities are offered: I. Funding for up to 7 State TBI Planning (TBIP) Grant awards is available to assist States and Territories to develop the infrastructure needed to implement a TBI program. States applying under this category MUST submit a plan for developing the Four Core Capacity Components. These components DO NOT have to be in place at the time of application. II. Funding for approximately 7 State TBI Implementation (TBII) Grants is available to help States move toward a Statewide system that will assure access to comprehensive and coordinated services for individuals with TBI and their families. III. Funding for approximately 2 State TBI Post Demonstration (TBIPD) Grants to address issues that will encompass specific State capacity building initiatives to contribute to sustainable change in the system of community services and supports that reflect the best practices in the field of TBI.

Cost Sharing: Secretary may make a grant under such subsection only if the State agrees to make available non-Federal contributions toward such costs in an amount that is not less than $1 for each $2 of Federal funds provided under the grant.

Eligibility: For all TBI State grants, State governments are the only eligible applicants for funding under the Federal TBI Program. Applicants for State TBI Post-Demonstration Grants may only come from the State agency designated as the Lead Agency for TBI services within the State.

Review Criteria: Final review criteria are included in the application kit.

Estimated Amount of This Competition: $2,125,000.

Estimated Number of Awards: 16.

Estimated Project Period: 1, 2, or 3 years.

HRSA-04-064 Traumatic Brain Injury (TBI) State Grant Program

Application Availability Date: September 8, 2003.

Letter of Intent Deadline: September 18, 2003.

Application Deadline: November 17, 2003.

Projected Award Date: April 1, 2004.

Program Contact Person: Betty Hastings.

Program Contact Phone: 301-443-5599.

Program Contact E-mail: bhastings@hrsa.gov.

HRSA-04-065 Poison Control Centers Stabilization and Enhancement Grant Program, Financial Stabilization Grants (PCCFS)

CFDA: 93.253.

Legislative Authority: The Poison Control Center Enhancement and Awareness Act, Section 6(a) of Public Law 106-174.

Purpose: The purpose of the Poison Control Program is to stabilize and improve poison control centers (PCCs) and promote a comprehensive system for the delivery of high quality poison control services nationwide.

For FY 2004, two categories of PCC stabilization and enhancement grant opportunities are offered:

I. Funds are available to be awarded to existing, certified PCCs or poison control systems, and

II. Funds are available to be awarded to non-certified or newly established PCCs to obtain certification from the American Association of Poison Control Centers or a State with equivalent standards, as determined by the Secretary.

Eligibility: Eligibility for funding under Category I is limited to certified PCCs. Centers must be certified by the American Association of Poison Control Centers or a State with equivalent standards, as determined by the Secretary. Eligibility for Category II awards is limited to non-certified PCCs.

Review Criteria: Final review criteria are included in the application kit.

Estimated Amount of This Competition: I. $14,100,000; II. $2,100,000.

Estimated Number of Awards: 50 and 10.

Estimated Project Period: 3 years and 2 years.

HRSA-04-065 Poison Control Centers Stabilization and Enhancement Grant Program, Financial Stabilization Grants (PCCFS)

Application Availability Date: December 30, 2003.

Application Deadline: March 1, 2004.

Projected Award Date: September 1, 2004.

Program Contact Person: I. Maxine Jones; II. Carol Delany.

Program Contact Phone: 301-443-6192; 301-443-5848.

Program Contact E-Mail: mjones@hrsa.gov, cdelany@hrsa.gov.

HRSA-04-066 Healthy Start Program: Eliminating Disparities in Perinatal Health (HSED)

CFDA: 93.926.

Legislative Authority: Public Health Service Act, Title III, Section 330 H.

Purpose: Under this program, grants will be awarded in two areas to address significant disparities in perinatal health indicators: (1) Eliminating Disparities In Perinatal Health focuses on disparities among Hispanics, Americans Indians, African Americans, Alaska Natives, Asian/Pacific Islanders, Immigrant Populations, or differences occurring by education, income, disability, or living in rural/isolated areas by enhancing a community's service system; and (2) Eliminating Disparities In Perinatal Border Health focusing on enhancing a border community's perinatal service system to address significant disparities and deficiencies in these communities. Under both grants, communities must provide a scope of project services that will cover pregnancy and interconceptional phases for women and infants residing in the proposed project area. Services are to be given to both mother and infant for two years following delivery to promote longer interconceptional periods and prevent relapses of unhealthy risk behaviors.

Eligibility: For program purposes (1) and (2) Any public or private entity, including an Indian tribe or tribal organization (as defined at 25 U.S.C. 450b) is eligible to apply. Funding would be made available to community-based (and faith-based) projects which have: (1) Significant disparities in perinatal indicators which contribute to high infant mortality rates, among one or more subpopulations; (2) an existing active consortia of stakeholders which have underway a perinatal disparity reduction initiative for at least one year; and, (3) a feasible plan to reduce barriers, improve the local perinatal system of care, and work towards eliminating existing disparities in perinatal health. These sites must have or plan to implement/adapt Healthy Start strategies of consortium, case management, and outreach services in a culturally and linguistically sensitive manner. In addition, they must demonstrate existing/planned collaborations with key State and local services and resources systems. Such key State and local resources include Title V, Title X, Title XIX, Title XXI, WIC, Enterprise Communities/Empowerment Zones, federally funded Community and Migrant Health Centers, federally funded Health Care for the Homeless projects, and Indian/Tribal Health Services. For program purpose (2) To apply programs must target a community/geographic area(s) with disparate perinatal indicators (such as inadequate prenatal care, anemia) that can contribute to infant mortality The selected communities must be within 62 miles of the U.S.-Mexican border, or be in Alaska or Hawaii

Review Criteria: Final review criteria are included in the application kit.

Funding Priorities: In recognition of current efforts in high risk communities, a priority consideration will occur at the time of award.

Special Considerations: For purpose (1) and (2), only 1 applicant per community/project area will be funded.

Estimated Amount of This Competition: $6,100,000.

Estimated Number of Awards: 7.

Estimated Project Period: 4 years.

HRSA-04-066 Healthy Start Program: Eliminating Disparities in Perinatal Health (HSED)

Application Availability Date: September 18, 2003.

Letter of Intent Deadline: October 15, 2003.

Application Deadline: December 1, 2003.

Projected Award Date: June 1, 2004 .

Program Contact person: Beverly Wright.

Program Contact Phone: (301) 443-8427.

Program Contact E-Mail: BWright@HRSA.gov.

Rural Health Policy Programs

HRSA-04-001 Rural Health Care Services Outreach Grant Program (RHOGP)

CFDA: 93.912.

Legislative Authority: Public Health Service Act, Section 330A, 42 U.S.C. 254c.

Purpose: The Rural Health Care Services Outreach Grant Program supports projects that demonstrate creative or effective models of outreach and service delivery in rural communities. Applicants may propose projects to address the health care needs of a wide range of population groups and to deliver many different types of health care and health care related services in rural communities.

Eligibility:

(1) The applicant organization must be a public or nonprofit private entity located in a rural area or in a rural ZIP Code of an urban county (list included in application materials) and all services must be provided in a rural county or ZIP Code; or (2) The applicant organization exists exclusively to provide services to migrant and seasonal farm workers in rural areas and is supported under Section 330g of the Public Health Service Act or (3) The applicant is a federally recognized Native American Tribal or quasi-Tribal entity that will deliver services on Reservation or Federally recognized Tribal lands (documentation of status must be included). The entity must represent a consortium composed of members that include three or more health care providers and that may be nonprofit or for-profit entities.

Review Criteria: Final review criteria are included in the application kit.

Funding Preferences: The authorizing legislation for Rural Health Care Services Outreach Grants provides a funding preference for some applicants. Applicants receiving a preference will be placed in a more competitive position among the applications that can be funded. A funding preference will be given to any qualified applicant that can demonstrate one of the following three criteria:

(1) At least one of the consortium members is located in officially designated health professional shortage areas (HPSAs) OR medically underserved communities (MUCs) OR serve medically underserved populations (MUPs). To ascertain HPSA and MUP designation status, please refer to the following Web site: http://bhpr.hrsa.gov/shortage/index.htm. To qualify as a Medically Underserved Community (MUC) the project must include facilities that are federally designated as any of the following:

Community Health Centers, Migrant Health Centers, Health Care for the Homeless Grantees, Public Housing Primary Care Grantees, Rural Health Clinics, National Health Service Corps sites, Indian Health Services Sites, Federally Qualified Health Centers, Primary Medical Care Health Professional Shortage Areas, Dental Health Professional Shortage Areas, Nurse Shortage Areas, State or Local Health Departments, and Ambulatory practice sites designated by State Governors as serving medically underserved communities.

(2) Ambulatory practice sites designated by State Governors as serving medically underserved communities; OR

(3) Propose to develop project with a focus on primary care and prevention and wellness.

The applicant must request and identify the particular preference they are eligible for to receive a funding preference.

Special Considerations: The Office of Rural Health Policy seeks to expand the outreach program into geographic areas not currently served by the program. Consequently, HRSA will consider geographic location when deciding which approved applications to fund.

Estimated Amount of This Competition: $3,500,000.

Estimated Number of awards: 20.

Estimated Project Period: 3 years.

HRSA-04-001 Rural Health Care Services Outreach Grant Program (RHOGP)

Application Availability Date: June 16, 2003/June 15, 2004.

Application Deadline: September 12, 2003/September 13, 2004.

Projected Award Date: May 1, 2004/May 1, 2005.

Program Contact Person: Lilly Smetana.

Program Contact Phone: 301-443-6884.

Program Contact E-Mail: lsmetana@hrsa.gov.

HRSA-04-002 Health Network Development Grant Program (RHNGP)

CFDA: 93.912.

Legislative Authority: Public Health Service Act, Section, 330A, 116 STAT. 1621, Public Law 107-251, 42 U.S.C. 254c.

Purpose: The Rural Health Network Development Grant Program 330A(f) supports development of rural health networks. Grant funds are used to support activities that strengthen the organizational capabilities of these networks whose purpose is to overcome the fragmentation and vulnerability of providers in rural areas. This program is designed for organizations that wish to further ongoing collaborative relationships to integrate systems of care administratively, clinically, financially, and/or technologically. The goal of the Rural Health Network Development Program is to achieve efficiencies; expand access to, coordinate, and improve the quality of essential health care services; and strengthen the rural health care system as a whole.

Cost Sharing Flag: Yes.

Eligibility: The applicant must be a public or nonprofit entity that represents a network that includes at least three or more health care providers. In addition, the grantee must meet at least one of three following requirements:

(1) The applicant organization must be located in a rural area or in a rural ZIP code of an urban county (list included in application materials and on program Web site) and all grant-funded activities must support rural areas; or (2) The applicant organization exists exclusively to provide services to migrant and seasonal farm workers in rural areas and is supported under Section 330(g) of the Public Health Service Act or (3) The applicant is a federally recognized Native American Tribal or quasi-Tribal entity that will deliver services on Reservation or Federally recognized Tribal lands (documentation status must be included.)

Funding Preferences: The authorizing legislation for Network Development Grants provides a funding preference for some applicants. Applicants receiving the preference will be placed in a more competitive position among the applications that can be funded. A funding preference will be given to any qualified applicant that can demonstrate either of the following two criteria:

A. Those applicants for which at least 50% of the proposed rural health network's service area is located in officially designated health professional shortage areas (HPSAs) OR medically underserved communities (MUCs) OR serve medically underserved populations (MUPs).

To ascertain HPSA and MUP designation status, please refer to the following Web site: http://bhpr.hrsa.gov/shortage/.

To qualify as a Medically Underserved Community (MUC), at least 50% of the network's participation must include facilities that are federally designated as any of the following:

(a) Community Health Centers

(b) Migrant Health Centers

(c) Health Care for the Homeless Grantees

(d) Public Housing Primary Care Grantees

(e) Rural Health Clinics

(f) National Health Service Corps sites

(g) Indian Health Service sites

(h) Federally Qualified Health Centers

(i) Primary Medical Care Health Professional Shortage Areas

(j) Dental Health Professional Shortage Areas

(k) Nurse Shortage Areas

(l) State or Local Health Departments

(m) Ambulatory practice sites designated by State Governors as serving medically underserved communities; or

B. Those applicants whose projects focus on primary care, and wellness and prevention strategies.

Review Criteria: Final review criteria are included in the application kit.

Special Considerations: The Office of Rural Health Policy seeks to expand the Network Development grant program into geographic areas not currently supported by the program. Consequently, the Office will consider geographic location when deciding which approved applications to fund.

Estimated Amount of This Competition: $2,000,000.

Estimated Number of Awards: 10-15.

Estimated Project Period: 3 years.

HRSA-04-002 Rural Health Network Development Grant Program (RHNGP)

Application Availability Date: June 2, 2003/June 11, 2004.

Application Deadline: September 26, 2003/September 20, 2004.

Projected Award Date: May 1, 2004/May 1, 2005.

Program Contact Person: Katherine Bolus.

Program Contact Phone: 301-443-7444 or 301-443-7320.

Program Contact E-mail: kbolus@hrsa.gov, mpray@hrsa.gov.

HRSA-04-003 Rural Health Network Development Planning Grant Program (RHNPGP)

CFDA: 93.912.

Legislative Authority: Public Health Service Act, Section 330A(f), 42 U.S.C. 254c.

Purpose: The Rural Health Network Development Planning Grant Program supports one year of planning activities to develop integrated health care networks in rural areas. The Planning Grant Program provides support to rural entities that seek to develop a formal health care network and that do not have a significant history of collaboration. Formative networks are those that are not sufficiently evolved to apply for a 3-year planning implementation grant and do not yet have a formalized structure.

The program is designed to support organizations that wish to develop formal collaborative relationships among health care providers to integrate systems of care administratively, clinically, financially, and/or technologically. The goal of the Rural Health Network Development Program is to achieve efficiencies; expand access to, coordinate, and improve the quality of essential health care services; and strengthen the rural health care system as a whole. The Planning Grant Program supports this overall program goal by providing support to entities in the formative stages of planning and organizing a rural health network.

Eligibility: The applicant must be a public or nonprofit entity that represents a network that includes at least three or more health care providers. In addition, the grantee must meet at least one of three following requirements:

The applicant organization must be located in a rural area or in a rural ZIP code of an urban county (list included in application materials and on program Web site) and all grant-funded activities must support rural areas; OR the applicant organization exists exclusively to provide services to migrant and seasonal farm workers in rural areas and is supported under Section 330(g) of the Public Health Service Act; OR the applicant is a federally recognized Native American Tribal or quasi-Tribal entity that will deliver services on Reservation or Federally recognized Tribal lands (documentation status must be included.)

Existing networks that seek to expand services or expand their service area are not eligible to apply to this program.

Review Criteria: Final review criteria are included in the application kit.

Funding Preferences: The authorizing legislation for Network Development Planning Grants provides a funding preference for some applicants. Applicants receiving the preference will be placed in a more competitive position among the applications that can be funded. A funding preference will be given to any qualified applicant that can demonstrate either of the following two criteria:

A. Those applicants for which at least 50% of the proposed rural health network's service area is located in officially designated health professional shortage areas (HPSAs) OR medically underserved communities (MUCs) OR serve medically underserved populations (MUPs).

To ascertain HPSA and MUP designation status, please refer to the following Web site: http://bhpr.hrsa.gov/shortage/.

To qualify as a Medically Underserved Community (MUC), at least 50% of the network's participation must include facilities that are federally designated as any of the following:

(a) Community Health Centers

(b) Migrant Health Centers

(c) Health Care for the Homeless Grantees

(d) Public Housing Primary Care Grantees

(e) Rural Health Clinics

(f) National Health Service Corps sites

(g) Indian Health Service sites

(h) Federally Qualified Health Centers

(i) Primary Medical Care Health Professional Shortage Areas

(j) Dental Health Professional Shortage Areas

(k) Nurse Shortage Areas

(l) State or Local Health Departments

(m) Ambulatory practice sites designated by State Governors as serving medically underserved communities; OR

B. Those applicants whose projects focus on primary care, and wellness and prevention strategies.

Special Considerations: The Office will consider geographic location when deciding which approved applications to fund to ensure balanced distribution of grant funds to rural areas across the U.S.

Estimated Amount of This Competition: $1,000,000.

Estimated Number of Awards: 10-15.

Estimated Project Period: 1 year.

HRSA-04-003 Rural Health Network Development Planning Grant Program (RHNPGP)

Application Availability Date: June 16, 2003/June 11, 2004.

Application Deadline: September 10, 2003/September 8, 2004.

Projected Award Date: December 1, 2003/December 1, 2004.

Program Contact Person: Michele Pray-Gibson.

Program Contact Phone: 301-443-7320.

Program Contact E-Mail: mpray@hrsa.gov.

HRSA-04-067 Delta State Rural Development Network Grant Program (DELTA)

CFDA: 93.912.

Legislative Authority: Public Law 104-299, enacted in 1996, authorizes the Rural Health Outreach, Network Development, and Telemedicine Grant programs. The Consolidated Appropriations Act, 2001, Public Law 106-554, includes in the Rural Health Outreach appropriation line, the section on Miscellaneous Appropriations, Division B, Title V, subtitle F the Delta Regional Authority and in Division B Title I Sec. 153 defined the States and counties considered as part of the Mississippi River Delta region.

Purpose: The purpose of these grants is to provide support to the rural Mississippi Delta region to strengthen community-based organizations' abilities to target the under- and uninsured. Specifically, the grants are used to fund statewide organizations having the capability to support development of community-based networks. The primary responsibility of the statewide networks is to help local Delta rural counties in their respective States identify greatest local health needs, identify potential funding for these projects, and develop and implement fundable health intervention projects to address local needs.

Eligibility: Eligible applicants are limited to the eight designated Delta Region States: Alabama, Arkansas, Illinois, Kentucky, Louisiana, Mississippi, Missouri, Tennessee.

Review Criteria: Final review criteria are included in the application kit.

Estimated Amount of This Competition: $5,500,000.

Estimated Number of Awards: 8.

Estimated Project Period: 3 years.

HRSA-04-067 Delta State Rural Development Network Grant Program (DELTA)

Application Avaialbility Date: February 1, 2004 .

Application Deadline: May 1, 2004.

Projected Award Date: September 1, 2004.

Program Contact Person: Michele Pray-Gibson.

Program Contact Phone: 301-443-7320.

Program Contact E-Mail: mpray@hrsa.gov.

HRSA-04-068 Small Rural Hospital Improvement Program (SHIP)

CFDA: 93.301.

Legislative Authority: Social Security Act, Section 1820(g)(3).

Purpose: The Small Rural Hospital Improvement Program (SHIP) provides grants to small rural hospitals to help them do any or all of the following: (1) Pay for costs related to the implementation of PPS, (2) comply with provisions of HIPAA, and (3) reduce medical errors and support quality improvement.

Hospitals need to apply for these grants through their State's Office of Rural Health.

Eligibility: All small rural hospitals located in the fifty States and territories are eligible to apply for the SHIP Grant Program. Hospitals need to apply for these grants through their State's Office of Rural Health. For the purpose of this program, (1) small is defined as 49 available beds or less, (2) rural is defined as located outside a Metropolitan Statistical Area (MSA); or located in a rural census tract of a MSA as determined under the Goldsmith Modification or the Rural Urban Commuting Areas, and (3) hospital is defined as a non-federal, short-term, general acute care facility.

Review Criteria: Final review criteria are included in the application kit.

Estimated Amount of This Competition: $15,000,000.

Estimated Number of Awards: 1,500.

Estimated Project Period: 3 years.

HRSA-04-068 Small Rural Hospital Improvement Program (SHIP)

Application Availability Date: February 3, 2004.

Application Deadline: Hospital application due to their State's Office of Rural Health (SORH) by COB March 17, 2004, State application due to HRSA by COB April 28, 2004.

Projected Award Date: September 1, 2004 .

Program Contact Person: Jerry Coopey.

Program Contact Phone: 301-443-0835.

Program Contact E-Mail: jcoopey@hrsa.gov.

HRSA-04-069 Grants for Policy-Oriented Rural Health Services Research (GPOR)

CFDA: 93.155.

Legislative Authority: Public Health Service Act, Section 301, 42 U.S.C. 241.

Purpose: Awards are available for competitive grants for policy-oriented rural health services research. Individual research projects that address rural health services will be funded under this announcement. Policy-oriented rural health services research is useful because it informs policy-makers concerned with rural health issues and it enhances knowledge about rural health and rural health services. These grants are designed to provide support both for entities established in the rural health services research field as well as those entering this field. These grants are also intended to advance specific areas of rural health services research in which a limited amount of research exists.

Eligibility: Eligibility is open to public, private, and non-profit—including faith-based and community-based organizations. Institutions that received a Rural Health Research Center Award in 2004 and those with Fiscal Year 2000-2004 ORHP awards under special congressional initiatives are ineligible for this grant program. Although multiple applications may be submitted, only one award will be made to the same entity.

In addition to the above criteria, applicants must be capable of receiving the grant funds directly and must have the capability to manage the project. Applicants must be able to exercise administrative and program direction over the grant project; must have the administrative and accounting capabilities to manage the grant funds; and must have some permanent research staff at the time the application is submitted.

Review Criteria: Final review criteria are included in the application kit.

Special Considerations: Research Areas: HRSA wants to fund a variety of research areas in making new awards under this announcement. Therefore, HRSA will consider the variety of research areas when selecting which applications recommended for approval to fund. See the list below. The research areas are: Mental Health; Substance Abuse; Oral Health, American Indian/Alaska Native/Native Hawaiian Health Issues; Integration of Native and Non-Native Health Care; Special Populations—Children, Women, Homeless, Elderly; Chronic Disease (e.g., Asthma and Diabetes); Bio-terrorism Preparedness; Frontier Issues; Medicaid; S-CHIP; End of Life Care; Continuum of Care; Public Health Issues; Quality of Life; Uninsured; Disabled/Disability; Low Income Populations; Quality of Care; EMS (for all populations, with a special interest in children); Dual Eligible.

Geographic Coverage: Applications are sought for research that is national in scope. Research covering a single community, multiple communities, or a single state are not acceptable and will not be reviewed. HRSA wants to achieve a geographic balance among awardees in making new awards under this announcement. Therefore, HRSA will consider geographic distribution when selecting which applications recommended for approval to fund.

Estimated Amount of This Competition: $900,000.

Estimated Number of Awards: 6.

Estimated Project Period: 1 year.

HRSA-04-069 Grants for Policy-Oriented Rural Health Services Research (GPOR)

Application Availability Date: March 30, 2004.

Letter of Intent Deadline: April 30, 2004.

Application Deadline: May 3, 2004.

Projected Award Date: August 15, 2004.

Program Contact Person: Emily Costich.

Program Contact Phone: (301) 443-0502.

Program Contact E-Mail: ecostich@hrsa.gov.

HRSA-04-070 Rural Health Research Grant Program—Cooperative Agreement (CARHR)

CFDA: 93.155.

Legislative Authority: Public Health Service Act, Section 301, 42 U.S.C. 241.

Purpose: Awards are available from the Office of Rural Health Policy for competitive cooperative agreements for Rural Health Research Centers. The Rural Health Research Centers are funded to conduct policy-oriented rural health services research with a specific area of concentration (e.g., Medicare, Medicaid, health disparities, health workforce.) The awards are for four years and 4-5 individual research projects are conducted per year, including several projects in the specific area of concentration. Policy-oriented rural health services research is useful because it informs policy-makers concerned with rural health issues and it enhances knowledge about rural health and rural health services. This program is designed to provide support for establishment of a Rural Health Research Center as an identifiable entity with a specific area of research concentration and an infrastructure to develop health services researchers entering the field into experts in the research complexities of rural health issues.

Federal Involvement: The scope of the Federal Involvement is included in the application kit.

Eligibility: Eligibility is open to public, private, and non-profit—including faith-based and community-based organizations. Although multiple applications may be submitted, only one award will be made to the same entity.

Review Criteria: Final review criteria are included in the application kit.

Special Considerations: Research Areas: HRSA wants to fund a variety of areas of research concentration among research centers in making new awards under this announcement. Therefore, HRSA will consider the variety of areas of concentration when selecting which applications recommended for approval to fund.

Geographic Coverage: Applications are sought for research projects that are national in scope. Applications containing any research projects covering a single community, multiple communities, or a single state are not acceptable and will not be reviewed.

HRSA wants to achieve a geographic balance among awardees in making new awards under this announcement. Therefore, HRSA will consider geographic distribution when selecting which applications recommended for approval to fund.

Estimated Amount of This Competition: $4,000,000.

Estimated Number of Awards: 8.

Estimated Project Period: 4 years.

HRSA-04-070 Rural Health Research Grant Program—Cooperative Agreement (CARHR)

Application Availability Date: January 15, 2004.

Letter of Intent Deadline: February 5, 2004.

Application Deadline: March 15, 2004.

Projected Award Date: August 15, 2004.

Program Contact Person: Joan F. Van Nostrand.

Program Contact Phone: (301) 443-0613.

Program Contact E-Mail: jvan_nostrand@hrsa.gov.

Special Programs—Grants

HRSA-04-071 Regional Collaborative for the Pacific Basin (RCPB)

CFDA: 93.110.

Legislative Authority: Public Health Service Act , Sections 301, 330(A), 330(k), 761(b), 767, as amended, and the Social Security Act, Sections 509 and 711 as amended.

Purpose: The Health Resources and Services Administration (HRSA) announces the availability of fiscal year 2004 funds for a grant program for a Regional Collaborative for the Pacific Basin to serve as a regional health policy body for the six Pacific Basin jurisdictions (American Samoa, Guam, Commonwealth of the Northern Mariana Islands, Federated States of Micronesia, Republic of the Marshall Islands, and Republic of Palau). The Regional Collaborative is intended to serve as a formal mechanism to discuss common health interests, problems and concerns; to promote and enhance a regional approach for cost-effective sharing of resources, information, and human expertise to advance health care improvements in the Pacific Basin; and to provide technical assistance to the Pacific Basin jurisdictions. This project is intended to provide support to conduct activities to further the IOM strategic goals, such as addressing the needs of health care providers who serve vulnerable populations, strengthening the primary care delivery systems in the jurisdictions, supporting the efforts in the jurisdictions to develop and enhance their telehealth and distance education capacities, convening regional and jurisdictional policy meetings to address the health care needs of the underserved and vulnerable populations in the Pacific Basin.

Eligibility: Eligible applicants are public or non-profit private entities, including faith-based and community-based organizations, that are part of a network of the Pacific Basin jurisdictions (U.S. flag territories of American Samoa, Guam, and the Commonwealth of the Northern Mariana Islands, and the three U.S.-associated jurisdictions of the Federated States of Micronesia, the Republic of the Marshall Islands, and the Republic of Palau) which support, or provide for, the delivery of health care services and will work together to complete the proposed project.

Review Criteria: Final criteria are included in the application kit.

Preference: Preference will be give to those projects which provide an implementation of recommendations in the 1998 Institute of Medicine (IOM) study of the Pacific Basin health care delivery system, Pacific Partnerships for Health: Charting a Course for the 21st Century.

Estimated Amount of This Competition: $125,000.

Estimated Number of Awards: 1.

Estimated Project Period: 3 years.

HRSA-04-071 Regional Collaborative for the Pacific Basin (RCPB)

Application Avaialbility Date: June 1, 2004.

Letter of Intent Deadline: June 30, 2004.

Application Deadline: July 15, 2004.

Projected Award Date: September 1, 2004.

Program Contact Person: Lynnette S. Araki.

Program Contact Phone Number: 301-443-6204.

Program Contact E-Mail: LAraki@hrsa.gov.

HRSA-04-072 Social and Behavioral Interventions To Increase Organ and Tissue Donation (SBITD)

CFDA: 93.134.

Legislative Authority: Public Health Service Act, Section 371(a)(3) as amended, U.S.C. 273(a)(3).

Purpose: The goal of this grant program is to assist eligible entities in the evaluation of, or the implementation and evaluation of, highly promising strategies and approaches that can serve as model interventions for increasing organ and tissue donation. All projects must have rigorous methodology and evaluation components capable of ascertaining the effectiveness of the intervention(s). Applications may focus on pilot projects or replications of interventions already shown to be effective in a pilot study. Projects involving the use of information and communication technology to increase donation are also of interest.

Eligibility: Applications must be submitted by a consortium of at least two types of organizations, a transplant-related organization and a research-related organization. As specified in Section 371(a)(3) of the Public Health Service Act, the applicant organization must be a Federally designated organ procurement organization or another private not-for-profit entity. However, public and for-profit organizations may participate as consortium members or in other capacities, but may not serve as the applicant institution.

Special Considerations: HRSA reserves the option to achieve a balance among funded projects with respect to various parameters, e.g., target populations, geography, and intervention diversity.

Review Criteria: Final review criteria are included in the application kit.

Estimated Amount of This Competition: $1,250,000.

Estimated Number of Awards: 7.

Estimated Project Period: 3 years.

HRSA-04-072 Social and Behavioral Interventions To Increase Organ and Tissue Donation (SBITD)

Application Availability: October 24, 2003.

Letter of Intent Deadline: January 5, 2004.

Application Deadline: March 5, 2004.

Project Award Date: July 30, 2004.

Program Contact Person: Nancy B. Carothers.

Program Contact Phone Number: 301-443-3622.

Program Contact E-Mail: ncarothers@hrsa.gov.

HRSA-04-073 Clinical Interventions To Increase Organ Procurement (CIOP)

CFDA: 93.134.

Legislative Authority: Public Health Service Act, Section 371(a)(3) as amended, U.S.C. 273(a)(3).

Purpose: The goal of this grant program is to assist eligible entities in the implementation, evaluation, and dissemination of model interventions with the greatest potential for increasing the number of heart-beating and non-heart-beating deceased donors and/or the number of organs that are recovered from such donors. All projects must have rigorous methodology and evaluation components capable of ascertaining the effectiveness of the intervention(s). Projects can employ qualitative studies, quantative research, or empiric work. Eligible interventions could focus on new and/or improved methods to optimize hemodynamic stability after brain death; improve donor organ evaluation practices; investigate time-efficient technologies to match donor organs with compatible recipients; and identify appropriate non-heart-beating donation candidates. Interventions focusing on the use of information and communication technology to disseminate donor related information or to increase the efficiency of organ placements are encouraged.

Eligibility: As specified in Section 371(a)(3) of the Public Health Service Act, the applicant organization must be a Federally designated organ procurement organization or another private not-for-profit entity. However, public and for-profit organizations may participate in the project but may not serve as the applicant institution.

Special Considerations: HRSA reserves the option to achieve a balance among funded projects with respect to various parameters, e.g., target populations, geography, and intervention diversity.

Review Criteria: Final review criteria are included in the application kit.

Estimated Amount of This Competition: $2,250,000.

Estimated Number of Awards: 12.

Estimated Project Period: 3 years.

HRSA-04-073 Clinical Interventions to Increase Organ Procurement (CIOP)

Application Availability: October 24, 2003.

Letter of Intent Deadline: January 5, 2004.

Application Deadline: March 5, 2004.

Project Award Date: July 30, 2004.

Program Contact Person: Jade K. Perdue.

Program Contact Phone Number: 301-443-3124.

Program Contact E-Mail: jperdue@hrsa.gov.

HRSA-04-074 Best Practices to Increase Organ Donation (HIP)

CFDA: 93.134.

Legislative Authority: Public Health Service Act, Section 371(a)(3) as amended, U.S.C. 273(a)(3).

Purpose: The purpose of this demonstration grant program is to provide support for organ procurement organizations and high donor potential hospitals to implement high impact practices for increasing organ donation rates in hospitals as identified through the HRSA's Division of Transplantation Best Practices Initiative: Breakthrough Organ Donation Collaborative or its research grant program: Social and Behavioral Interventions to Increase Organ and Tissue Donation.

Eligibility: Eligible organizations for this program are Federally designated organ procurement organizations and hospitals with high organ donor potential. As specified in Section 371(a)(3) of the Public Health Service Act, the applicant organization must be a Federally designated organ procurement organization or another private non-profit organization. However, public and for-profit hospitals may participate as consortium members or in other capacities. Each application must be submitted by a consortium of at least one organ procurement organization and one hospital with high organ potential in the OPO's service area.

Special Considerations: HRSA reserves the option to achieve a balance among funded projects with respect to various parameters, e.g., target populations, geography, and intervention diversity.

Review Criteria: Final review criteria are included in the application kit.

Estimated Amount of This Competition: $1,250,000.

Estimated Number of Awards: 10.

Estimated Project Period: 2 years.

HRSA-04-074 Best Practices to Increase Organ Donation (HIP)

Application Availability: January 7, 2004.

Letter of Intent Deadline: February 16, 2004.

Application Deadline: April 1, 2004.

Project Award Date: July 30, 2004.

Program Contact Person: Mary Ganikos.

Program Contact Phone Number: 301-443-8665.

Program Contact E-mail: mganikos@hrsa.gov.

HRSA News—Additional Information

Guidance and Policy Statement of Religious Nondiscrimination in Grant Eligibility and Service Delivery

The Federal government does not discriminate against non-governmental organizations on the basis that such organizations have a religious character. Faith-based organizations are eligible to compete for grant funds on the same basis as all other non-governmental organizations. Decisions about grant applications and awards will be made based solely on the competence, capacity, and actions of the provider, not whether it is a secular or faith-based provider.

To the extent permitted by law, faith-based organizations that receive federal financial assistance may—just as secular non-governmental organizations—use their facilities to provide federally funded services without removing or altering art, icons, literature, or other distinctive symbols from these facilities. In addition, faith-based organizations that apply for or participate in programs supported with federal financial assistance may retain their organizational identity including, but not limited to name, internal governance, and mission statements.

No grantee may discriminate in its delivery of a federally-funded program against a client or potential client on the basis of religion or religious belief, a refusal to hold a religious belief, or a refusal to actively participate in a religious practice. Any specifically religious activity or service made available to clients by the grantee must be voluntary as well as separate in time and location from government funded activities and services.

Key Facts About the Grants.gov Program Spring 2003

www.grants.gov Find. Apply. Succeed.

Overview

Grants.gov will simplify the grants management process, and create a centralized, online process to find and apply for over 600 grant programs from the 26 Federal grant-making agencies. Grants.gov will streamline the process of awarding $360+ billion annually to state and local governments, academia, not-for-profits and other organizations. This program is one of the 24 Federal cross-agency E-Government initiatives focused on improving access to services via the Internet. The vision for Grants.gov is to produce a simple, unified source to electronically find, apply, and manage grant opportunities. Additionally, the Grants.gov initiative will facilitate efficient operations for Federal grant agencies and the grant community.

Agencies will allow applicants for Federal grants to apply for and ultimately manage grant funds online through a common Web site, simplifying grants management and eliminating redundancies * * *”

(The President's FY 2002 Management Agenda)

Standardizing Federal grant management activities is a priority for the Administration and Congress, as evidenced by Public Law 106-107, legislation that mandates streamlining and improved accountability for Federal grants, and related references in the President's Management Agenda.

Benefits

Grants.gov will serve as the common face for Federal grant program information and applications. Key benefits include:

• A single source for finding grant opportunities, helping applicants locate and learn more about funding opportunities in a standardized manner

• A single, secure and reliable source for applying for Federal Grants online, simplifying the grant application process and reducing paperwork Grants.gov will provide a unified interface for all agencies to announce their grant opportunities, and for all potential grantees to find and apply for grants. Grants.gov simplifies the entire application process, while also creating avenues for consolidation and best practices within each grant-making agency.

Progress and Next Steps

The first stage of Grants.gov was a successful pilot that enabled participating grantors to post and grant seekers to search for grant opportunities. Each Federal grant-making agency will be posting all of their competitive grant opportunities to Grants.gov by October 1, 2003. Also in October, the Grants.gov team will deploy a simple, unified application to enable applicants to apply for these grants online. Here's how it works: a grant seeker from an organization, for instance, visits the Grants.gov Web site to search for grant opportunities. Once a match is found, the organization downloads an electronic application to apply for the grant. The organization would complete the application and then submit it through the Grants.gov site. The application is time stamped and the appropriate Federal agency has immediate access to it. The agency will receive the application, sending confirmation back to the applicant through Grants.gov. Processing will be accelerated by avoiding the handling of paper applications.

In 2004, the focus will shift to rolling out the management and reporting functions of the Grants.gov system. Additional tools will be available to assist the grant community in moving through the grants life cycle, and will streamline and improve the grants application process.

Participants

All grant-making agencies will participate in Grants.gov over time. The Department of Health and Human Services, managing partner for the Grants.gov program, is supported by 10 additional “partner” agencies. A list of these agencies can be found on the Grants.gov Web site, at http://www.grants.gov.

The Grants.gov team is also working closely with the grant community and organizations that represent them, to facilitate delivery of a system that will meet their needs. We are in close contact with the Council of State Governments, the National Council for Nonprofit Associations, and the Federal Demonstration Partnership, to name just a few.

Questions?

Visit http://www.grants.gov to access past and current materials on the Grants.gov program or e-mail your questions to info@grants.gov.

New Office of Management & Budget Requirement—DUNS Number for all Federal Applicants

In order to improve the statistical reporting of federal grants and cooperative agreements, the Office of Management and Budget has directed federal agencies to require all applicants to provide a Dun and Bradstreet (D&B) Data Universal Numbering System (DUNS) number when applying for Federal grants or cooperative agreements on or after October 1, 2003. The DUNS number will be required whether an applicant is submitting a paper or an electronic application, and whether an applicant is applying for a new award or renewal of a current award. While the current directive does not cover non-competing continuations, Phase II of the project, which begins in FY 2004, will cover these continuations. Therefore, we encourage all grantees to obtain a DUNS number.

Use of the DUNS number government-wide will provide a cost-effective means to identify entities receiving those awards and their business relationships. The identifier will be used for tracking purposes, and to validate address and point of contact information. The DUNS number already is in use by the federal government to identify entities receiving federal contracts, and by some agencies in their grant and cooperative agreement processes.

Organizations should verify that they have a DUNS number or take the steps needed to obtain one as soon as possible if there is a possibility that they will be applying for Federal grants or cooperative agreements on or after October 1, 2003. Organizations can receive a DUNS number at no cost by calling the dedicated toll-free DUNS Number request line at 1-866-705-5711. Individuals who would personally receive a grant or cooperative agreement award from the federal government apart from any business or non-profit organization they may operate, and foreign entities are exempt from this requirement.

If your organization does not have a DUNS number, and you anticipate that your organization will apply for a grant or cooperative agreement on or after October 1, 2003, you should take steps to obtain a DUNS number in advance of the application deadline. If your organization does not have a DUNS number, you may not be able to apply for Federal grants or cooperative agreements after that time. Future potential applicants should also consider requesting a DUNS number now if there is any intention of applying for a federal grant in the future.

Further information can be found in the Federal Register, located at: http://a257.gakamaitech.net/7/257/2422/14mar20010800/edocket.access.gpo.gov/2003/pdf/03-16356.pdf

Register in the Central Contract Registry (CCR)

In order to help centralize information about grant recipients and provide a central location for grant recipients to change organizational information, the government will be using the Central Contractor Registry (CCR) for grant applicants and recipients. Use of the CCR is to provide one location for applicants and recipients to change information about their organization and enter information on where government payments should be made. The registry will enable recipients to make a change in one place and one time for all Federal agencies to use.

General Information

Organizations should register on how they want to do business.

A separate registration in the CCR may be required if an organization wants to have a single unit conduct business and it has a direct payment flow to that organization, it would require a separate DUNS number specified for that unit (if a different address from the parent organization). If the same address, the organization could use the DUNS + 4 found in the CCR. For example, a university that wants to have its payment information flow through one central point for grants should register as the entity doing business with the government. This registration would require a specific DUNS number for that business.

Instructions for Registering

Information for registering in the CCR and online documents can be found at http://www.ccr.gov. Before registering applicants and recipients should review the Central Contractor Registration Handbook (March 2003). In the handbook is a Registration Worksheet. It is recommended that registrants print this worksheet and gather the needed information prior to starting the online registration process. The fastest and easiest method to register is by computer. To register via the computer, click on “Start New Registration.” Registering in the CCR should be the first preparation step in the submission for a grant. Allow a minimum of 5 days to complete the CCR registration. Organizations can register independently of submitting a grant application.

Registration Worksheet for Grant Applicants/Recipients

General Information: Enter all information that has an M placed next to the line meaning Mandatory or Required.

Prior to registering in the CCR, an applicant organization must receive a DUNS number. This can be done by telephone and the numbers are on the bottom of the worksheet. Many of the items are self-explanatory. Identified below are some items that may not be familiar to grant applicants and recipients.

Cage Code: For U.S. applicants, do not enter a Cage Code, one will be assigned. For foreign applicants, follow the instructions in the CCR.

Legal Business Name: Enter the name of the business or entity as it appears on legal documents.

Business Name: Enter the name of the organization/entity under which it is applying for a grant.

Annual Revenue: For some organizations/entities this can be an annual budget.

Type of Organization: In this section, indicate whether the organization/entity is Tax Exempt or Not. Indicate what type or how the organization is recognized. Use “Other” if the organization does not fit in the designated categories.

Owner Information: Fill-in if a sole proprietorship.

Business Types: As indicated, check all that apply. Check the ones that are the closest description to your organization. Most grant applicants can use “Nonprofit Institution” plus any other type that may fit the description. (The listing is being revised to include grant applicants business types.)

Party Performing Certification: Enter information only if the organization has a certification from SBA. Most grant recipients and applicants do not fall into this category.

Goods and Services: This section is required. It will require the grant applicant/recipient to look up a code and enter the ones that best fit the type of services the organization provides. It is not required to fill-in all the spaces provided for the codes.

NAICS Code: Is required. Follow the instructions.

SIC Code: Is required. Follow the instructions.

Financial Information: Follow the instructions found in the CCR Handbook on page 14.

Registration Acknowledgement and Point of Contact Information

This section is very important and needs to have names and telephone numbers put in for specific purposes. For grant applicants and recipients the M fields are required.

CCR Point of Contact: Mandatory. Enter the name of the person that knows and acknowledges that the information in the CCR is current, accurate and complete. The person named here will be the only person within the registering organization to receive the Trading Partner Identification Number (TPIN) via e-mail or U.S. mail services. The registrant and the alternate are the only people authorized to share the information with the CCR Assistance Center personnel. An e-mail address is required. An alternate is also required for registration.

Government Business Point of Contact: Not mandatory; review CCR Handbook.

Electronic Business Point of Contact: Mandatory. Grant applicants/recipients must provide a name of an individual who will be responsible for approving the Role Manager for the organization. The Role Manager will be required to approve individuals who are authorized to submit grant applications on behalf of the organization. E-mail and telephone number are required. An alternate is required.

Past Performance Point of Contact: Not required.

Marketing Partner ID (MPIN): Mandatory for Grants.gov submission. This is a self-defined access code that will be shared with authorized electronic partner applications. The MPIN will act as your password in other systems. The MPIN must be nine positions and contain at least one alpha character, one number and no spaces or special characters.

Registration Notification: Once the registration is completed, a TPIN will be e-mailed or sent via the U.S. Postal Service to the organization's point of contact. If registration is done electronically, notification will be sent via e-mail within five days of registration.

[FR Doc. 03-22427 Filed 9-3-03; 8:45 am]

BILLING CODE 4165-15-P